DEPARTMENT OF THE INTERIOR

Fish and Wildlife Service

50 CFR Part 32

[Docket No. FWS-HQ-NWRS-2015-0029; FXRS12650900000-156-FF09R20000]

RIN 1018-BA57

2015-2016 Refuge-Specific Hunting and Sport Fishing Regulations

AGENCY: Fish and Wildlife Service, Interior.

ACTION: Final rule.

SUMMARY: The U.S. Fish and Wildlife Service (Service or we) adds 1 national wildlife refuge (NWR or refuge) to the list of areas open for hunting, adds 4 NWRs to the list of areas open for fishing, increases the hunting activities available at 16 other NWRs, increases fishing opportunities at 1 NWR, and adds pertinent refuge-specific regulations for other NWRs that pertain to migratory game bird hunting, upland game hunting, big game hunting, and sport fishing for the 2015-2016 season.

DATES: This rule is effective August 26, 2015.

FOR FURTHER INFORMATION CONTACT: Brian Salem, (703) 358-2397.

SUPPLEMENTARY INFORMATION: The National Wildlife Refuge System Administration Act of 1966 closes NWRs in all States except Alaska to all uses until opened. The Secretary of the Interior (Secretary) may open refuge areas to any use, including hunting and/or sport fishing, upon a determination that such uses are compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the Statutory Authority section, below. We issue refuge-specific hunting and sport fishing regulations when we open wildlife refuges to migratory game bird hunting, upland game hunting, big game hunting, or sport fishing. These regulations may list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are standardizing and clarifying the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Response to Comments Received

In the June 11, 2015, Federal Register (80 FR 33341), we published a proposed rule identifying changes pertaining to migratory game bird hunting, upland game bird hunting, big game hunting, and sport fishing to existing refuge-specific regulations on certain refuges for the 2015-2016 season. We received 59 comments on the proposed rule during its 30-day comment period. The majority of comments were in support of the proposed rule; 5 comments were opposed to the proposed rule. The remainder expressed neither support nor opposition to the proposed rule but supplied comments. Below, we discuss the comments we received..

Comment 1: A commenter felt hunting was inappropriate on NWRs, and believes the Service needs to stop opening and expanding hunting opportunities. The commenter was specifically against the hunting expansion on Wallkill NWR.

Response 1: The Administration Act, amended by the Improvement Act, stipulates that hunting (along with fishing, wildlife observation and photography, and environmental education and interpretation), if found to be compatible, is a legitimate and priority general public use of a refuge and should be facilitated. The Service has adopted policies and regulations implementing the requirements of the Improvement Act that refuge managers comply with when considering hunting and fishing programs. Each refuge manager makes a decision regarding hunting on that particular refuge only after rigorous examination of the available information. Developing or referencing a comprehensive conservation plan (CCP), a 15-year plan for the refuge, is generally the first step a refuge manager takes. Our policy for managing units of the Refuge System is that we will manage all refuges in accordance with an approved CCP which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. The next step for refuge managers is developing or referencing step-down plans, of which a hunting plan would be one. Part of the process for opening a refuge to hunting after completing the step-down plan would be appropriate compliance with the National Environmental Policy Act (NEPA) (42 U.S.C. 4321 et seq.), such as conducting an environmental assessment accompanied by the appropriate decision documentation (record of decision, finding of no significant impact, or environmental action memorandum or statement). The rest of the elements in the opening package are: Section 7 evaluation, copies of letters requesting State and/or tribal involvement, draft news release and outreach plan, and draft refuge-specific regulatory language. The CCP, hunt plan, and NEPA documentation are made available for public comment, in addition to the proposed rule, before we allow hunting on a refuge.

In sum, this illustrates that the decision to allow hunting on an NWR is not a quick or simple process. It is full of deliberation and discussion, including review of all available data to determine the relative health of a population before we allow it to be hunted.

We allow hunting of resident wildlife on NWRs only if such activity has been determined compatible with the established purpose(s) of the refuge and the mission of the Refuge System as required by the Administration Act. Hunting of resident wildlife on NWRs generally occurs consistent with State regulations, including seasons and bag limits. Refuge-specific hunting regulations can be more restrictive (but not more liberal) than State regulations and often are more restrictive in order to help meet specific refuge objectives. These include resident wildlife population and habitat objectives, minimizing disturbance impacts to wildlife, maintaining high-quality opportunities for hunting and other wildlife-dependent recreation, eliminating or minimizing conflicts with other public uses and/or refuge management activities, and protecting public safety.

Please consult the cumulative impacts report at: http://www.regulations.gov/#!docketDetail;D=FWS-HQ-NWRS-2015-0029 for a more indepth discussion. In sum, as a result of the proposed hunting expansion, none of the known, estimated, or projected harvests of big game, small game, or upland game species at these refuges has been determined or expected to have significant adverse direct, indirect, or cumulative impacts to any big game, small game, or upland game wildlife population. Similarly, Wallkill NWR would not experience significant adverse impacts to its wildlife. We made no changes to the rule as a result of this comment.

Comment 2: Several commenters expressed support for hunting and fishing expansions on NWRs.

Response 2: In passing the Improvement Act, Congress reaffirmed that the Refuge System was created to conserve fish, wildlife, plants, and their habitats and would facilitate opportunities for Americans to participate in compatible wildlife-dependent recreation, including hunting and fishing on Refuge System lands.

Comment 3: Numerous commenters expressed concern regarding a proposed prohibition on falconry at Piedmont NWR in Georgia, and Wallkill NWR in New Jersey. The commenters state that we offer no explanation in the cumulative impacts report and no environmental, biological, or other such scientific justification for the prohibitions. They contend that falconry is a legal means of hunting and take in the States of Georgia and New Jersey, as it is in 49 of the 50 States. They object strongly and believe our prohibition appears to be “prejudicial and a denied equitable public opportunity” on the above-mentioned refuges and request that we remove such a bias from the regulations by allowing falconry. The commenters requested any prohibition on falconry be removed on NWRs.

Response 3: By law, refuges may be more restrictive than the States when setting individual refuge-specific regulations but may not more liberal.

Regarding policy specific to falconry, Service policy, as outlined in our Service manual at 605 FW 2.7M (Special Hunts), stipulates, “We will address special types of hunts, such as falconry, in the hunt section of the visitor service plan (VSP).” In other words, each refuge manager, when developing their step-down visitor service's plan (which would include a hunt plan, if appropriate) from their CCP, must first determine if hunting is compatible. Assuming it is found to be compatible, the refuge manager would next determine the conduct of the hunt, which might include the use of falconry. A refuge manager has discretion to restrict hunting and types of hunting, specifically falconry, such as if endangered or threatened species are present, the cumulative impacts of a type of hunt have not been analyzed or are not available, or if a type of special hunt is not compatible with the refuge; thus, this issue is decided individually on a refuge-by-refuge basis.

We have not completed an assessment at Piedmont or Wallkill NWRs of short-term, long-term, or cumulative impacts related to this type of special hunt, which would be necessary as falconry has not been allowed at these refuges in the past. We made no changes to the rule as a result of this comment.

Comment 4: A commenter stated that they believe all NWRs should become or remain open to hunting.

Response 4: The Improvement Act promotes wildlife-dependent recreation, including hunting and fishing, provided it is compatible with both the Refuge System mission and individual refuge purpose and mission. Conservation, the overarching mission of the National Wildlife Refuge System, is the dominant use on refuge system lands. Each refuge manager gives the decision to allow hunting, and the stipulations of the hunting program, on a particular refuge rigorous examination. As stated in our response to Comment 1, the decision to allow hunting on a NWR is not a quick or simple process. It is full of deliberation and discussion, including review of all available data to determine the relative health of a population before we allow it to be hunted. No changes were made as a result of this comment.

Comment 5: Several commenters opposed a specific element of the proposed regulations for Mathews Brake NWR: the requirement that all waterfowl hunters must launch their boats from, and return their boats to, the public boat ramp located on the refuge. This requirement would exclude boat access to refuge waters from private land.

Response 5: We have considered the public comments we received regarding the proposed requirement that all waterfowl hunters must launch their boats from, and return their boats to, the public boat ramp located on Mathews Brake NWR. In response to these comments, we have decided at this time not to adopt the proposed requirement. Under this final rule, the general public will still be able to access the refuge via private land with appropriate permission during weekdays (Monday-Friday) when the refuge is open to all waterfowl hunting. We made this decision because of concerns over overcrowding at the boat ramp located on the refuge.

Comment 6: One commenter agreed with the proposed requirement that all waterfowl hunters must launch their boats from, and return their boats to, the public boat ramp located on Mathews Brake NWR. This proposed requirement would exclude access to refuge waters from private land.

Response 6: We have decided not to adopt the proposed requirement mentioned by this commenter. See our response to Comment 5 for more information.

Comment 7: A commenter opined that State-run Wildlife Management Areas and private hunt clubs offer enough opportunities for hunters. They believe that non-consumptive users that participate in wildlife observation and photography should enjoy a higher priority when it comes to use of refuge lands.

Response 7: Most refuge hunt programs have established refuge-specific regulations to improve the quality of the hunting experience as well as provide for quality wildlife-dependent experiences for other users. Refuge visitor use programs are adjusted, as needed, to eliminate or minimize conflicts between users. Virtually all of the refuges open to hunting and other wildlife-dependent recreational uses use time and space zoning as an effective method to reduce conflicts between hunting and other uses. Eliminating or restricting overlap between hunt areas and popular areas for other wildlife-dependent recreation allows opportunity for other users to safely enjoy the refuge in non-hunted areas during hunting seasons. Restrictions on the number of hunters and the time periods in which they may hunt are also frequently used to minimize conflicts between user groups. Public outreach accompanying the opening of hunting seasons is frequently used to make other wildlife-dependent recreational users aware of the seasons and minimize conflicts. No changes were made as a result of this comment.

Comment 8: A commenter agreed with the expansion of hunting opportunities on Swan Lake NWR but did not think prohibiting hunting or shooting on, across, or within 100 feet of a Service road, parking lot, or designated trail should apply to upland-game hunting. The commenter also noted that the size of the hunting units and requirement to check-in and check-out will deter more hunters from participating.

Response 8: We believe that prohibiting hunting within 100 feet of any Service road, parking lot, or designated trail will increase public safety for hunters, Service personnel, and other user groups. Refuge Managers analyze the hunting areas they designate in order to ensure that the refuge provides a high-quality hunting experience, there is minimal negative impacts on wildlife population and habitat objectives, conflicts between other wildlife-dependent public uses and/or refuge management activities are minimized, and regulations are in place to increase public safety. No changes were made as a result of this comment.

Comment 9: A commenter supported the hunting expansions but demanded that refuges open and expand hunting opportunities at a faster pace. Specifically, the commenter recommended we increase hunting opportunities on refuges in urban communities and offer more programs specific to urban youth. Finally, the commenter requested the Service develop a strategic plan detailing the process for opening lands not currently opened to hunting.

Response 9: The Improvement Act promotes wildlife-dependent recreation, including hunting and fishing, provided it is compatible with both the Refuge System mission and individual refuge purpose and mission. Conservation, the overarching mission of the NWR System, is the dominant use on refuge system lands. Each refuge manager gives the decision to allow hunting on a particular refuge rigorous examination. As stated in our response to Comment 1, the decision to allow hunting on a NWR is not a quick or simple process. It is full of deliberation and discussion, including review of all available data to determine the relative health of a population before we allow it to be hunted.

Refuge Managers analyze the hunting areas they designate in order to ensure that the refuge provides a high-quality hunting experience, there is minimal negative impacts on wildlife population and habitat objectives, conflicts between other wildlife-dependent public uses and/or refuge management activities are minimized, and regulations are in place to increase public safety.

The principal focus of the Improvement Act was to clearly establish a wildlife conservation mission for the Refuge System and provide managers clear direction to make determinations regarding wildlife conservation and public uses within the units of the Refuge System. The Service manages NWRs primarily for wildlife conservation, habitat protection, and biological integrity, and allows uses only when compatible with refuge purposes. In passing the Improvement Act, Congress reaffirmed that the Refuge System was created to conserve fish, wildlife, plants, and their habitats and would facilitate opportunities for Americans to participate in compatible wildlife-dependent recreation, including hunting and fishing on Refuge System lands. The Service has adopted policies and regulations implementing the requirements of the Improvement Act that refuge managers comply with when considering hunting and fishing programs. Implementing these requirements and other Federal laws takes time, but if found to be compatible, the hunting and/or fishing program is opened as quickly as possible. No changes were made as a result of this comment.

We agree with the commenter on the importance of hunting opportunities in urban communities and specifically opportunities for urban youth. We will facilitate these programs when properly analyzed and as staffing levels allow. Developing a strategic plan detailing the process for opening lands not currently opened to hunting will be of little benefit as the process we must follow is mandated by legislation, regulations, and policy. Please see Comment 1 for the process we must go through when opening a refuge unit to hunting or fishing.

In addition to the comments mentioned above, we received several comments that did not relate to the proposed rule. We are open to receiving comments on other issues, but we are responding only to those comments directly related to the proposed rule in this document.

Changes From the Proposed Rule

Based on comments we received on the proposed rule, we are not adopting the proposed requirement at Mathews Brake NWR that all waterfowl hunters must launch their boats from, and return to their boats to, the boat ramp on the refuge. Under this final rule, the general public will still be able to access the refuge via private land with appropriate permission during weekdays (Monday-Friday) when the refuge is open to all waterfowl hunting. In addition, for Sacramento River National Wildlife Refuge, we have changed the age for junior hunters from 16 to 17 in order to stay consistent with State regulations. Also, for Great River National Wildlife Refuge, we deleted a reference to special State-managed hunts for big game because there are no such hunts on that refuge. Finally, we made several nonsubstantive, editorial changes for clarity and consistency.

Effective Date

This rule is effective upon publication in the Federal Register. We have determined that any further delay in implementing these refuge-specific hunting and sport fishing regulations would not be in the public interest, in that a delay would hinder the effective planning and administration of the hunting and fishing programs. We provided a 30-day public comment period for the June 11, 2015, proposed rule. This rule does not impact the public generally in terms of requiring lead time for compliance. Rather it relieves restrictions in that it allows activities on refuges that we would otherwise prohibit. Therefore, we find good cause under 5 U.S.C. 553(d)(3) to make this rule effective upon publication.

Amendments to Existing Regulations

This document adopts in the Code of Federal Regulations all of the Service's hunting and/or sport fishing regulations since the last time we published a rule amending these regulations (79 FR 14809; March 17, 2014) and that are applicable at Refuge System units previously opened to hunting and/or sport fishing. We are doing this to better inform the general public of the regulations at each refuge, to increase understanding and compliance with these regulations, and to make enforcement of these regulations more efficient. In addition to now finding these regulations in 50 CFR part 32, visitors to our refuges may find them reiterated in literature distributed by each refuge or posted on signs.

We cross-reference a number of existing regulations in 50 CFR parts 26, 27, 28, and 32 to assist hunting and sport fishing visitors with understanding safety and other legal requirements on refuges. This redundancy is deliberate, with the intention of improving safety and compliance in our hunting and sport fishing programs.

Table 1—Changes for 2015-2016 Hunting/Fishing Season
Refuge/Region (*) | State | Migratory bird hunting | Upland game hunting | Big game hunting | Sport fishing
Ardoch NWR (6) | North Dakota | Closed | Closed | Closed | A.
Bayou Cocodrie NWR (4) | Louisiana | Already open | C | C/D | Already open.
Great River NWR (3) | Illinois and Missouri | Already open | C | C | Already Open.
Lake Alice NWR (6) | North Dakota | Already open | Already open | Already open | B.
Merritt Island NWR (4) | Florida | Already open | Closed | B | Already open.
Mingo NWR (3) | Missouri | Already open | Already open | D | Already open.
Minnesota Valley NWR (3) | Minnesota | Already open | D | Already open | Already open.
Missisquoi NWR (5) | Vermont | C/D | C/D | C/D | Already open.
Northern Tallgrass Prairie NWR (3) | Iowa and Minnesota | C/D | C/D | C/D | Closed.
Patoka River NWR and Management Area (3) | Indiana | C | C | C | C.
Prime Hook NWR (5) | Delaware | C | C/D | C | Already open.
Rose Lake NWR (6) | North Dakota | Closed | Closed | Closed | A.
Sacramento River NWR (8) | California | Already open | Already open | C/D | Already open.
St. Marks NWR (4) | Florida | Already open | C | C | Already open.
Seney NWR (3) | Michigan | C | C | C | Already open.
Silver Lake NWR (6) | North Dakota | Closed | Closed | Closed | A.
Swan Lake NWR (3) | Missouri | C/D | C/D | C/D | Already open.
Tualatin River NWR (1) | Oregon | A | Closed | Closed | Closed.
Two Rivers NWR (3) | Illinois and Missouri | C | Already Open | C | Already open.
Wallkill River NWR (5) | New Jersey and New York | Already open | B | C/D | Already open.
William L. Finley NWR (1) | Oregon | Closed | Closed | D | Closed.
Key:
*number in ( ) refers to the Region as explained in the preamble to this rule for additional information regarding refuge specific regulations.
A = New refuge opened.
B = New activity on a refuge previously open to other activities.
C = Refuge already open to activity, but added new lands/waters or modified areas open to hunting or fishing.
D = Refuge already open to activity but added new species to hunt.

The changes for the 2015-16 hunting/fishing season noted in the chart above are each based on a complete administrative record which, among other detailed documentation, also includes a hunt plan, a compatibility determination, and the appropriate National Environmental Policy Act (NEPA; 42 U.S.C. 4321 et se.) analysis, all of which were the subject of a public review and comment process. These documents are available upon request.

Fish Advisory

For health reasons, anglers should review and follow State-issued consumption advisories before enjoying recreational sport fishing opportunities on Service-managed waters. You can find information about current fish consumption advisories on the Internet at: http://www.epa.gov/waterscience/fish/.

Plain Language Mandate

In this rule, we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Regulatory Planning and Review (Executive Orders 12866 and 13563)

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule adds 1 NWR to the list of refuges open to hunting and increases hunting activities on 16 additional NWRs. It adds 4 NWRs to the list of refuges open to fishing and increases fishing activities at 1 additional NWR. As a result, visitor use for wildlife-dependent recreation on these NWRs will change. If the refuges establishing new programs were a pure addition to the current supply of such activities, it will mean an estimated increase of 16,266 user days (one person per day participating in a recreational opportunity, Table 2). Because the participation trend is flat in these activities since 1991, this increase in supply will most likely be offset by other sites losing participants. Therefore, this is likely to be a substitute site for the activity and not necessarily an increase in participation rates for the activity.

Table 2—Estimated Change in Recreation Opportunities in 2015/2016
[Dollars in thousands]
Refuge | Additional days | Additional expenditures
Ardoch | 150 | $6.2
Bayou Cocodrie | 60 | $2.3
Great River | 185 | $7.2
Lake Alice | 6,442 | $266.7
Merritt Island | 1,350 | $52.5
Mingo | 0 | —
Minnesota Valley | 64 | $2.5
Missisquoi | 665 | $25.9
Northern Tallgrass Prairie | 125 | $4.9
Patoka River | 1,112 | $45.5
Prime Hook | 336 | $13.1
Rose Lake | 502 | $20.8
Sacramento River | 250 | $9.7
St. Marks | 1,000 | $38.9
Seney | 0 | —
Silver Lake | 2,244 | $92.9
Swan Lake | 1,320 | $51.4
Tualatin River | 224 | $8.7
Two Rivers | 195 | $7.6
Wallkill River | 30 | $1.2
William L. Finley | 12 | $0.5
Total | 16,266 | $658.5

To the extent visitors spend time and money in the area of the refuge that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System yields approximately $658,500 in recreation-related expenditures (Table 2). By having ripple effects throughout the economy, these direct expenditures are only part of the economic impact of these recreational activities. Using a national impact multiplier for hunting activities (2.27) derived from the report “Hunting in America: An Economic Force for Conservation” and for fishing activities (2.40) derived from the report “Sportfishing in America” yields a total economic impact of approximately $1.55 million (2014 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $1.55 million, and most likely considerably less. Since 80 percent of the participants travel less than 100 miles to engage in hunting and fishing activities, their spending patterns would not add new money into the local economy and, therefore, the real impact would be on the order of about $310,000 annually.

Small businesses within the retail trade industry (such as hotels, gas stations, taxidermy shops, bait and tackle shops, and similar businesses) may be impacted from some increased or decreased refuge visitation. A large percentage of these retail trade establishments in the local communities around NWRs qualify as small businesses (Table 3). We expect that the incremental recreational changes will be scattered, and so we do not expect that the rule will have a significant economic effect on a substantial number of small entities in any region or nationally. As noted previously, we expect approximately $310,000 to be spent in total in the refuges' local economies. The maximum increase at most would be less than one-tenth of 1 percent for local retail trade spending (Table 3).

Table 3—Comparative Expenditures for Retail Trade Associated With Additional Refuge Visitation for 2015/2016
[Thousands, 2014 dollars]
Refuge/County(ies) | Retail trade in 2007 | Estimated maximum addition from new activities | Addition as % of total | Establishments in 2012 | Establ. with < 10 emp in 2012
Ardoch
Walsh, ND | $112,752 | $6.2 | 0.006% | 58 | 40
Bayou Cocodrie
Concordia, LA | 222,552 | 2.3 | 0.001 | 83 | 60
Great River
Adams, IL | 1,059,889 | 1.4 | <0.001 | 300 | 202
Pike, IL | 155,819 | 1.4 | 0.001 | 53 | 36
Clark, MO | 101,269 | 1.4 | 0.001 | 35 | 28
Shelby, MO | 56,054 | 1.4 | 0.003 | 35 | 25
Lewis, MO | 67,717 | 1.4 | 0.002 | 30 | 20
Lake Alice
Ramsey, ND | 267,463 | 266.7 | 0.100 | 80 | 56
Merritt Island
Brevard, FL | 7,528,790 | 26.3 | <0.001 | 1,956 | 1,443
Volusia, FL | 6,964,692 | 26.3 | <0.001 | 1,871 | 1,412
Minnesota Valley
Carver, MN | 921,566 | 0.4 | <0.001 | 209 | 132
Dakota, MN | 5,896,056 | 0.4 | <0.001 | 1,132 | 689
Hennepin, MN | 25,437,206 | 0.4 | <0.001 | 4,209 | 2,657
Le Sueur, MN | 235,446 | 0.4 | <0.001 | 84 | 58
Scott, MN | 1,335,522 | 0.4 | <0.001 | 323 | 215
Sibley, MN | 86,154 | 0.4 | <0.001 | 54 | 39
Missisquoi
Franklin, VT | 622,657 | 12.9 | 0.002 | 197 | 129
Orleans, VT | 370,098 | 12.9 | 0.003 | 147 | 110
Northern Tallgrass Prairie
Dickinson, IA | 291,367 | 0.5 | <0.001 | 111 | 85
Kossuth, IA | 223,589 | 0.5 | <0.001 | 93 | 69
Clay, MN | 719,600 | 0.5 | <0.001 | 163 | 97
Kittson, MN | 47,141 | 0.5 | 0.001 | 30 | 21
Murray, MN | 53,206 | 0.5 | 0.001 | 43 | 34
Rock, MN | 124,588 | 0.5 | <0.001 | 42 | 31
Otter Tail, MN | 804,419 | 0.5 | <0.001 | 261 | 201
Lincoln, MN | 60,635 | 0.5 | 0.001 | 38 | 29
Stevens, MN | 194,164 | 0.5 | <0.001 | 50 | 32
Patoka River
Gibson, IN | 505,351 | 22.8 | 0.005 | 122 | 84
Pike, IN | 63,864 | 22.8 | 0.036 | 31 | 23
Prime Hook
Sussex, DE | 3,401,815 | 13 | <0.001 | 1,107 | 789
Rose Lake
Nelson, ND | 27,841 | 20.8 | 0.075 | 19 | 15
Sacramento River
Tehama, CA | 839,653 | 2.4 | <0.001 | 153 | 118
Glenn, CA | 232,872 | 2.4 | 0.001 | 73 | 58
Butte, CA | 2,740,982 | 2.4 | <0.001 | 723 | 517
Colusa, CA | 238,107 | 2.4 | 0.001 | 59 | 45
Saint Marks
Wakulla, FL | 191,471 | 13.0 | 0.007 | 62 | 49
Jefferson, FL | 101,289 | 13.0 | 0.013 | 43 | 35
Taylor, FL | 236,429 | 13.0 | 0.005 | 86 | 67
Silver Lake
Benson, ND | 22,991 | 46.46 | 0.202 | 9 | 7
Ramsey, ND | 267,463 | 46.46 | 0.017 | 80 | 56
Swan Lake
Bates, MO | 154,620 | 10.3 | 0.007 | 59 | 47
Cedar, MO | 136,878 | 10.3 | 0.008 | 48 | 34
Chariton, MO | 59,162 | 10.3 | 0.017 | 41 | 32
Henry, MO | 324,554 | 10.3 | 0.003 | 115 | 88
St. Claire, MO | 73,925 | 10.3 | 0.014 | 34 | 21
Tualatin River
Washington, OR | 9,995,463 | 8.7 | <0.001 | 1,594 | 1,002
Two Rivers
Calhoun, IN | 25,469 | 7.6 | 0.030 | 15 | 9
Wallkill River
Sussex, NJ | 1,966,557 | 0.2 | <0.001 | 414 | 299
Orange, NY | 6,541,423 | 0.2 | <0.001 | 1,503 | 1,017
William L. Finley
Benton, OR | 782,306 | 0.2 | <0.001 | 262 | 184
Linn, OR | 1,323,264 | 0.2 | <0.001 | 339 | 247

With the small change in overall spending anticipated from this rule, it is unlikely that a substantial number of small entities will have more than a small impact from the spending change near the affected refuges. Therefore, we certify that this rule will not have a significant economic effect on a substantial number of small entities as defined under the Regulatory Flexibility Act (5 U.S.C. 601 et se.). A regulatory flexibility analysis is not required. Accordingly, a small entity compliance guide is not required.

Small Business Regulatory Enforcement Fairness Act

The rule is not a major rule under 5 U.S.C. 804(2), the Small Business Regulatory Enforcement Fairness Act. We anticipate no significant employment or small business effects. This rule:

a. Will not have an annual effect on the economy of $100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this rule applies to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule will not have significant takings implications. This rule affects only visitors at NWRs and describes what they can do while on a refuge.

Federalism (E.O. 13132)

As discussed in the Regulatory Planning and Review and Unfunded Mandates Reform Act sections, above, this rule will not have sufficient federalism summary impact statement implications to warrant the preparation of a federalism summary impact statement under E.O. 13132. In preparing this rule, we worked with State governments.

Civil Justice Reform (E.O. 12988)

In accordance with E.O. 12988, the Office of the Solicitor has determined that this rule does not unduly burden the judicial system and that it meets the requirements of sections 3(a) and 3(b)(2) of the Order. The rule clarifies established regulations and result in better understanding of the regulations by refuge visitors.

Energy Supply, Distribution or Use (E.O. 13211)

On May 18, 2001, the President issued E.O. 13211 on regulations that significantly affect energy supply, distribution, or use. E.O. 13211 requires agencies to prepare Statements of Energy Effects when undertaking certain actions. Because this rule will add a new hunt at 1 NWR, increase hunting activities at 16 other NWRs, add fishing to 4 NWRs, and increase fishing opportunities at 1 NWR, it is not a significant regulatory action under E.O. 12866, and we do not expect it to significantly affect energy supplies, distribution, or use. Therefore, this action is not a significant energy action and no Statement of Energy Effects is required.

Consultation and Coordination With Indian Tribal Governments (E.O. 13175)

In accordance with E.O. 13175, we have evaluated possible effects on federally recognized Indian tribes and have determined that there are no effects. We coordinate recreational use on NWRs with Tribal governments having adjoining or overlapping jurisdiction before we propose regulations.

Paperwork Reduction Act

This rule does not contain any information collection requirements other than those already approved by the Office of Management and Budget (OMB) under the Paperwork Reduction Act (44 U.S.C. 3501 et seq.) and assigned OMB Control Numbers 1018-0102 (expires June 30, 2017), 1018-0140 (expires May 31, 2018), and 1018-0153 (expires December 31, 2015). An agency may not conduct or sponsor and a person is not required to respond to a collection of information unless it displays a currently valid OMB control number.

Endangered Species Act Section 7 Consultation

We comply with section 7 of the Endangered Species Act of 1973, as amended (16 U.S.C. 1531 et seq.), when developing comprehensive conservation plans and step-down management plans—which would include hunting and/or fishing plans—for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of amendments to refuge-specific hunting and fishing regulations because they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (43 CFR 46.120).

Prior to the addition of a refuge to the list of areas open to hunting and fishing in 50 CFR part 32, we develop hunting and fishing plans for the affected refuges. We incorporate these refuge hunting and fishing activities in the refuge comprehensive conservation plan and/or other step-down management plans, pursuant to our refuge planning guidance in 602 Fish and Wildlife Service Manual (FW) 1, 3, and 4. We prepare these comprehensive conservation plans and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE. 11th Avenue, Portland, OR 97232-4181; Telephone (503) 231-6214.

Region 2—Arizona, New Mexico, Oklahoma, and Texas. Regional Chief, National Wildlife Refuge System, U.S. Fish and Wildlife Service, P.O. Box 1306, 500 Gold Avenue SW., Albuquerque, NM 87103; Telephone (505) 248-6937.

Region 3—Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Brian Salem, Division of Conservation Planning and Policy, National Wildlife Refuge System is the primary author of this rulemaking document.

List of Subjects in 50 CFR Part 32

Fishing, Hunting, Reporting, and recordkeeping requirements, Wildlife, Wildlife refuges.

Regulation Promulgation

For the reasons set forth in the preamble, we amend title 50, chapter I, subchapter C of the Code of Federal Regulations as follows:

PART 32-[AMENDED]

1. The authority citation for part 32 continues to read as follows:

Authority: 5 U.S.C. 301; 16 U.S.C. 460k, 664, 668dd-668ee, and 715i.

2. Amend § 32.7 by:

a. Adding an entry for “Iowa Wetland Management District” and placing it in alphabetical order in the State of Iowa;

b. Adding an entry for “Wallkill National Wildlife Refuge” and placing it in alphabetical order in the State of New York;

c. Adding an entry for “Ardoch National Wildlife Refuge” and placing it in alphabetical order in the State of North Dakota;

d. Adding an entry for “Rose Lake National Wildlife Refuge” and placing it in alphabetical order in the State of North Dakota;

e. Adding an entry for “Silver Lake National Wildlife Refuge” and placing it in alphabetical order in the State of North Dakota; and

f. Adding an entry for “Tualatin River National Wildlife Refuge” and placing it in alphabetical order in the State of Oregon.

3. Amend § 32.20 by:

a. Under Choctaw National Wildlife Refuge:

i. Revising the introductory text of paragraph B, and paragraphs B.1, B.2, B.3, B.5, B.6, B.7, B.8, B.9, and B.10.

ii. Revising paragraphs C.2, C.3, C.4, and C.5.

iii. Removing paragraph C.6.

iv. Revising paragraphs D.1 and D.2.

b. Under Eufaula National Wildlife Refuge:

i. Revising paragraphs A.3, A.9, and A.15.

ii. Adding paragraphs A.16 and A.17.

iii. Revising paragraph B.1.

iv. Removing paragraph B.5.

v. Revising paragraphs C.1 and D.1.

The revisions and additions read as follows:

§ 32.20 Alabama.

* * * * *

Choctaw National Wildlife Refuge

* * * * *

B. Upland Game Hunting. We allow hunting of squirrel and rabbit on designated areas of the refuge in accordance with State regulations and subject to the following conditions:

1. We prohibit hunting within 100 yards (91.4 meters) of the fenced-in refuge work center area, designated hiking trails, and refuge boats ramps.

2. We prohibit leaving unattended personal property, including, but not limited to, boats or vehicles of any type, geocaches, and cameras, overnight on the refuge (see § 27.93 of this chapter). We prohibit marking trees and using flagging tape, reflective tacks, and other similar marking devices.

3. Hunters may take incidental species (coyote, beaver, nutria, and feral hog) during any hunt with those weapons legal during those hunts as defined by the State of Alabama. Persons may only use approved nontoxic shot in shotgun shells (see § 32.2(k)), .22 caliber rimfire or smaller rifles, or legal archery equipment according to State regulations. We prohibit use of magnum ammunition, including .22 caliber magnum and .17 Hornady Magnum Rimfire (HMR), for hunting.

* * * * *

5. All persons age 15 or younger, while hunting on the refuge, must be in the presence and under direct supervision of a licensed or exempt hunter at least age 21. A licensed hunter supervising a youth as provided in this section must hold a valid State license for the species being hunted. One adult may supervise no more than two youth hunters.

6. The refuge is open daily from 1 hour before legal sunrise to 1 hour after legal sunset. Personal property must be removed from the refuge daily (see § 27.93 of this chapter).

7. We require all hunters to record hours hunted and all harvested game on the Upland Game Hunt Report (FWS Form 3-2362) at the conclusion of each day at one of the refuge check stations.

8. Persons possessing, transporting, or carrying firearms on the refuge must comply with all provisions of State and local law. Persons may only use (discharge) firearms in accordance with refuge regulations (see § 27.42 of this chapter and specific refuge regulations in part 32).

9. We prohibit equestrian use, domestic livestock, and all forms of motorized off-road vehicles.

10. We allow hunting with unleashed dogs for squirrel and rabbit only.

* * * * *

C. Big Game Hunting. * * *

* * * * *

2. Deer hunters may place portable stands on the refuge for use while deer hunting only during the open deer season. All stands must be clearly labeled with the name, address, and phone number. When not in use and left on the refuge overnight, stands must be placed in a non-hunting position at ground level.

3. While climbing a tree, installing a tree stand that uses climbing aids, or hunting from a tree stand on the refuge, hunters must use a fall-arrest system (full body harness) that is manufactured to the Tree Stand Manufacturers Association's standards.

4. We prohibit damaging trees, including driving or screwing any metal object into a tree or hunting from a tree in which a metal object has been driven or screwed to support a hunter (see § 32.2(i)). Other than deer stands, all personal property must be removed from the refuge each day (see § 27.93 of this chapter).

5. We prohibit hunting by aid or distribution of any feed, salt, scent attractant, or other mineral at any time (see § 32.2(h)).

D. Sport Fishing. * * *

1. We allow fishing year-round, except in the waterfowl sanctuary area as depicted within the refuge brochure. The waterfowl sanctuary is closed to fishing from November 15 through March 1.

2. Conditions B2, B4, B6, B8, B9, and C4 apply.

* * * * *

Eufaula National Wildlife Refuge

A. Migratory Game Bird Hunting. * * *

* * * * *

3. All youth hunters (ages 10 through 15) must remain within sight and normal voice contact of a properly licensed hunting adult age 21 or older. Youth hunters must possess and carry verification of passing a State-approved hunter education course. One adult may supervise no more than two youth hunters.

* * * * *

9. We allow access to the refuge for hunting from 1½ hours before legal sunrise to 1½ hours after legal sunset.

* * * * *

15. We prohibit the use of all air-thrust boats, including airboats, aircraft, boats with secondary fans, and hovercraft.

16. We prohibit the use of personal watercraft or air-cooled propulsion engines outside of marked navigation channels.

17. We prohibit the mooring or storing of boats from 1½ hours after legal sunset to 1½ hours before legal sunrise.

B. Upland Game Hunting. * * *

1. Conditions A1, A2, A3, and A7 through A17 apply.

* * * * *

C. Big Game Hunting. * * *

1. Conditions A1 and A7 through A17 apply.

* * * * *

D. Sport Fishing. * * *

1. Conditions A15 through A17 apply.

* * * * *

4. Amend § 32.22 by:

a. Revising paragraphs D.4 and D.5 under Bill Williams National Wildlife Refuge.

b. Revising paragraph D.6 under Havasu National Wildlife Refuge.

The revisions read as follows:

§ 32.22 Arizona.

* * * * *

Bill Williams National Wildlife Refuge

* * * * *

D. Sport Fishing. * * *

4. The nonmotorized watercraft launch and Central Arizona Project (CAP) peninsula are day-use only areas and are open from ½ hour before legal sunrise to ½ hour after legal sunset. We allow fishing and the launching of watercraft at these and other areas 24 hours a day.

5. We prohibit the possession or consumption of open containers of alcohol or the possession of glass beverage containers in improved areas, including the nonmotorized watercraft launch and the CAP peninsula.

* * * * *

Havasu National Wildlife Refuge

* * * * *

D. Sport Fishing. * * *

6. The following apply to the improved areas within Havasu NWR. Improved areas consist of the Mesquite Bay areas, Castle Rock, the Diving Cliffs, Catfish Paradise, Five Mile Landing and North Dike.

i. We prohibit entry of all motorized watercraft in all three bays of the Mesquite Bay area as indicated by signs or regulatory buoys.

ii. Improved areas are day-use only and are open from ½ hour before legal sunrise to ½ hour after legal sunset. Fishing and the launching of watercraft are permitted at these and other areas 24 hours a day.

iii. We prohibit the possession or consumption of open containers of alcohol or the possession of glass beverage containers in improved areas.

* * * * *

5. Amend § 32.23 by:

a. Under Bald Knob National Wildlife Refuge:

i. Revising paragraphs A.2, A.3, A.4, A.6, A.10, A.16, and A.22.

ii. Revising the introductory text of paragraph B and paragraphs B.1, B.3, B.4, and B.8.

iii. Revising the introductory text of paragraph C and paragraph C.1.

iv. Redesignating paragraphs C.6 through C.17 as C.7 through C.18, respectively.

v. Adding paragraph C.6.

vi. Revising newly designated paragraphs C.9 and C.18.

vii. Revising paragraph D.1.

b. Revising paragraph B.15 under Big Lake National Wildlife Refuge.

c. Under Cache River National Wildlife Refuge:

i. Revising paragraphs A.2, A.3, A.4, A.9, and A.22.

ii. Adding paragraph A.24.

iii. Revising the introductory text of paragraph B and paragraphs B.1, B.2, B.3, B.4, B.5, and B.7.

iv. Revising the introductory text of paragraph C and paragraphs C.1, C.2, C.3, C.4, C.5, C.6, C.7, and C.8.

v. Revising paragraph D.1.

d. Under Felsenthal National Wildlife Refuge:

i. Revising paragraphs A.6, A.7, A.9, and A.17.

ii. Adding paragraph A.21.

iii. Revising paragraph B.1.

iv. Revising the introductory text of paragraph C and paragraphs C.1 and C.15.

v. Adding paragraph C.17.

vi. Revising paragraph D.1.

e. Under Overflow National Wildlife Refuge:

i. Revising paragraphs A.3, A.6, A.7, A.9, A.13, and A.17.

ii. Adding paragraph A.23.

iii. Revising paragraph B.1.

iv. Adding paragraph B.6.

iv. Revising the introductory text of paragraph C and paragraph C.1.

v. Redesignating paragraphs C.8 through C.11 as C.9 through C.12, respectively.

vi. Adding paragraphs C.8 and C.13.

f. Under Pond Creek National Wildlife Refuge:

i. Revising paragraphs A.4, A.5, A.7, A.15, and A.17.

ii. Adding paragraphs A.24, A.25, A.26, A.27, A.28, A.29, A.30, and A.31.

iii. Revising paragraph B.3.

iv. Revising the introductory text of paragraph C and paragraphs C.2, C.4, C.7, C.12, and C.17.

v. Adding paragraphs C.19 and C.20.

vi. Revising paragraph D.2.

g. Under Wapanocca National Wildlife Refuge:

i. Revising paragraph A.10.

ii. Adding paragraph A.12.

iii. Revising paragraphs B.1 and B.4.

iv. Redesignating paragraphs B.5 through B.9 as B.6 through B.10, respectively.

v. Adding paragraph B.5.

vi. Revising paragraphs C.1 and C.4.

vii. Revising the introductory text of paragraph D and paragraph D.1.

viii. Removing paragraph D.2.

ix. Redesignating paragraphs D.3 through D.8 as D.2 through D.7, respectively.

The revisions and additions read as follows:

§ 32.23 Arkansas.

* * * * *

Bald Knob National Wildlife Refuge

A. Migratory Game Bird Hunting. * * *

2. We prohibit migratory game bird hunting in the Farm Unit during the Quota Gun Deer Hunt.

3. With the exception of hunting for woodcock, we prohibit migratory game bird hunting after 12 p.m. (noon) during the regular State waterfowl hunting season.

4. We allow hunting for woodcock daily throughout the State seasons.

* * * * *

6. You may possess only approved nontoxic shot shells for hunting while in the field (see § 32.2(k)) in quantities of 25 or fewer. The possession limit includes shells located in/on vehicles and other personal equipment. The field possession limit for shells does not apply to goose hunting during the State Conservation Order.

* * * * *

10. Boats with the owner's name and address permanently displayed or displaying valid registration may be left on the refuge from March 1 through October 31. We prohibit the use of boats from 12 a.m. (midnight) to 4 a.m. during duck season.

* * * * *

16. Any hunter born after 1968 must carry a valid hunter education card. An adult at least age 21 must supervise hunters under age 16 and remain within sight and normal voice contact with the youth. Hunters under age 16 do not need to have a hunter education card if they are under the direct supervision (within arm's reach) of an adult (at least age 21) holder of a valid hunting license. An adult may supervise up to two youths for migratory bird and upland game hunting but may supervise only one youth for big game hunting. We will honor home State hunter education cards.

* * * * *

22. We prohibit the possession or use of alcoholic beverages while hunting (see § 32.2(j)) and open alcohol containers on refuge roads, all-terrain vehicles (ATV) trails, boat ramps, observation platforms, and parking areas.

* * * * *

B. Upland Game Hunting. We allow hunting of squirrel, rabbit, quail, raccoon, opossum, beaver, muskrat, nutria, armadillo, and coyote on designated areas of the refuge in accordance with State regulations and subject to the following special conditions:

1. Conditions A1, A6, A11 through A13, and A17 through A23 apply.

* * * * *

3. We allow squirrel hunting September 1 through February 28 on the Mingo Creek Unit and on the Farm Unit, except for season closure on the Farm Unit during the Quota Gun Deer Hunt. We allow dogs.

4. We allow rabbit hunting in accordance with the State season on the Mingo Creek Unit and on the Farm Unit, except for season closure on the Farm Unit during the Quota Gun Deer Hunt. We allow dogs.

* * * * *

8. Hunters may take beaver, muskrat, nutria, armadillo, and coyote during any refuge hunt with those weapons legal during those hunts, subject to State seasons.

* * * * *

C. Big Game Hunting. We allow hunting of deer, feral hog, and turkey on designated areas of the refuge in accordance with State regulations and subject to the following conditions:

1. Conditions A1, A6, A11 through A13, A17 through A23, and B8 through B12 apply.

* * * * *

6. You may take feral hog during the refuge muzzleloader or Quota Gun Deer Hunt with those weapons legal during those hunts.

* * * * *

9. Immediately record the zone 002 on your hunting license and check all harvested game according to State regulations.

* * * * *

18. We close waterfowl sanctuaries to all entry and hunting from November 15 to February 28, except for Quota Gun Deer Hunt permit holders who may hunt in the sanctuary when the season overlaps with these dates.

D. Sport Fishing. * * *

1. Conditions A11, A19 through A23, B11, and C18 apply.

* * * * *

Big Lake National Wildlife Refuge

* * * * *

B. Upland Game Hunting. * * *

15. We prohibit the possession or use of alcoholic beverages while hunting (see § 32.2(j)) or open alcohol containers on refuge roads, all-terrain vehicles (ATV) trails, boat ramps, parking areas, fishing piers, observation decks, and photo blinds.

* * * * *

Cache River National Wildlife Refuge

A. Migratory Game Bird Hunting. * * *

2. We prohibit migratory game bird hunting in the Farm Unit during the Quota Gun Deer Hunt.

3. With the exception of hunting for woodcock, we prohibit migratory game bird hunting after 12 p.m. (noon) during the regular State waterfowl hunting season.

4. We allow hunting for woodcock daily throughout the State seasons.

* * * * *

9. Boats with the owner's name and address permanently displayed or displaying valid registration may be left on the refuge from March 1 through October 31. We prohibit boats on the refuge from 12 a.m. (midnight) to 4 a.m. during duck season.

* * * * *

22. We prohibit the possession or use of alcoholic beverages while hunting (see § 32.2(j)) or open alcohol containers on refuge roads, all-terrain vehicles (ATV) trails, boat ramps, observation platforms, and parking areas.

* * * * *

24. We prohibit vehicles and ATVs to be left unattended overnight.

B. Upland Game Hunting. We allow hunting of squirrel, rabbit, quail, raccoon, opossum, beaver, muskrat, nutria, armadillo, and coyote on designated areas of the refuge in accordance with State regulations and subject to the following conditions:

1. Conditions A1, A6, A10 through A12, and A16 through A24 apply.

2. We allow squirrel hunting September 1 through February 28 except for refuge-wide season closure during the Quota Gun Deer Hunt. We allow dogs.

3. Rabbit season corresponds with the State season except for refuge-wide season closure during the Quota Gun Deer Hunt. We allow dogs.

4. Quail season corresponds with the State season except for refuge-wide season closure during the Quota Gun Deer Hunt. We allow dogs.

5. We allow hunting of raccoon and opossum with dogs. We require dogs for hunting of raccoon/opossum at night. We provide annual season dates in the refuge hunting brochure/permit. We prohibit field trials and organized training events.

* * * * *

7. You may take beaver, muskrat, nutria, armadillo, and coyote during any refuge hunt with those weapons legal during those hunts.

* * * * *

C. Big Game Hunting. We allow hunting of deer, feral hog, and turkey on designated areas of the refuge in accordance with State regulations and subject to the following conditions:

1. Conditions A1, A6, A10 through A12, A16 through A24, B6 through B9, B11, and B12 apply.

2. Archery/crossbow hunting season for deer begins on the opening day of the State season and continues throughout the State season except for refuge-wide season closure during the Quota Gun Deer Hunt. We provide annual season dates and bag limits in the refuge hunting brochure/permit.

3. Muzzleloader hunting season for deer will begin in October and will continue for a period of up to 9 days with annual season dates and bag limits provided on the hunt brochure/permit.

4. Modern gun deer hunting will begin in November and continue for a period of up to 11 days with annual season dates and bag limits provided in the refuge hunt brochure/permit.

5. You may take feral hog during refuge muzzleloader or Quota Gun Deer Hunt with those weapons legal during those hunts.

6. The fall archery/crossbow hunting season for turkey will begin on the opening day of the State season and continue throughout the State season on refuge lands that are located within the State fall archery/crossbow turkey zone except for refuge-wide season closure during the Quota Gun Deer Hunt. We do not open for fall gun hunting for turkeys.

7. The spring gun hunt for turkey will begin on the opening day of the State season and continue throughout the State season on all refuge lands located south of Interstate 40. The remainder of the refuge is closed with the exception of those refuge lands included in the combined Black Swamp Wildlife Management Area/Cache River National Wildlife Refuge quota permit hunts administered by the Arkansas Game and Fish Commission.

8. Immediately record the zone 095 on your hunting license and check all harvested game according to State regulations.

* * * * *

D. Sport Fishing. * * *

1. Conditions A10, A18, A20, A22 through A24, and B11 apply.

* * * * *

Felsenthal National Wildlife Refuge

A. Migratory Game Bird Hunting. * * *

6. No person will use the services of a guide, guide service, outfitter, club, organization, or other person who provides equipment, services, or assistance on Refuge System lands for compensation (see § 27.97 of this chapter).

7. Hunters must possess and carry a signed Refuge Public Use Regulations Brochure/Access Permit (signed brochure) while hunting.

* * * * *

9. We prohibit marking trails with tape, ribbon, paint, or any other substance or material.

* * * * *

17. You may take beaver, nutria, and coyote during any daytime refuge hunt with weapons and ammunition allowed for that hunt. There is no bag limit. You may not transport or possess live hog.

* * * * *

21. We prohibit leaving any boat on the refuge.

B. Upland Game Hunting. * * *

1. Conditions A4 through A18, A20, and A21 apply.

* * * * *

C. Big Game Hunting. We allow hunting of white-tailed deer, feral hog, and turkey on designated areas of the refuge in accordance with State regulations and subject to the following conditions:

1. Conditions A6 through A11, A13 through A18, A20, and A21 apply.

* * * * *

15. We prohibit leaving any tree stand, ground blind, or game camera on the refuge without the owner's name and address clearly written in a conspicuous location.

* * * * *

17. We allow the taking of feral hogs on the refuge only during the Muzzleloader and Modern Gun Quota Permit Deer Hunts and with weapons and ammunition allowed for that hunt. There is no bag limit. You may not transport or possess live hog.

D. Sport Fishing. * * *

1. Conditions A6, A8, A9, A13, A16, A18, and A21 apply.

* * * * *

Overflow National Wildlife Refuge

A. Migratory Game Bird Hunting. * * *

* * * * *

3. We allow only portable blinds. Hunters must remove portable blinds, boats, and decoys from the hunt area by 1:30 p.m. each day (see § 27.93 of this chapter).

* * * * *

6. No person will use the services of a guide, guide service, outfitter, club, organization, or other person who provides equipment, services, or assistance on Refuge System lands for compensation (see § 27.97 of this chapter).

7. You must possess and carry a Refuge Public Use Regulations Brochure/Access Permit (signed brochure) while hunting.

* * * * *

9. We prohibit marking trails with tape, ribbon, paint, or any other substance or material.

* * * * *

13. We allow only all‐terrain vehicles/utility‐type vehicles (ATVs/UTVs) for hunting activities. We restrict ATVs/UTVs to designated times and designated trails (see § 27.31 of this chapter) marked with signs and paint. We identify those trails and the dates that they are open for use in the refuge hunt brochure. We limit ATVs/UTVs to those having an engine displacement size not exceeding 700cc. We limit ATV/UTV tires to those having a centerline lug depth not exceeding 1 inch (2.5 centimeters). You may use horses on roads and ATV/UTV trails (when open to motor vehicle and ATV/UTV traffic respectively) as a mode of transportation for on‐refuge, hunting activities.

* * * * *

17. You may take beaver, nutria, and coyote during any daytime refuge hunt with weapons and ammunition legal for that hunt. There is no bag limit. We prohibit transportation or possession of live hog.

* * * * *

23. We prohibit leaving any boat on the refuge.

B. Upland Game Hunting. * * *

1. Conditions A4 through A17, A19, and A23 apply.

* * * * *

6. Overflow National Wildlife Refuge is a day-use area only, except while raccoon and opossum hunting.

C. Big Game Hunting. We allow hunting of white-tailed deer, feral hog, and turkey on designated areas of the refuge in accordance with State regulations and subject to the following conditions:

1. Conditions A5 through A11, A13 through A17, A19, and A23 apply.

* * * * *

8. The refuge will conduct no more than one quota permit youth spring turkey gun hunt. Specific hunt dates and application procedures will be available at the refuge office in January. We restrict hunt participants on these hunts to those selected for a quota permit, except that one nonhunting adult age 21 or older and possessing a valid hunting license must accompany a youth hunter.

* * * * *

13. We allow the taking of feral hogs on the refuge only during the Muzzleloader Hunt and with weapons and ammunition allowed for that hunt. There is no bag limit. You may not transport or possess live hogs.

* * * * *

Pond Creek National Wildlife Refuge

A. Migratory Game Bird Hunting. * * *

4. No person will use the services of a guide, guide service, outfitter, club, organization, or other person who provides equipment, services, or assistance on Refuge System lands for compensation (see § 27.97 of this chapter).

5. You must possess and carry a Refuge Public Use Regulations Brochure/Access Permit (signed brochure) while hunting.

* * * * *

7. We prohibit marking trails with tape, ribbon, paint, or any other substance or material (see § 27.93 of this chapter).

* * * * *

15. You may take beaver, nutria, and coyote during any daytime refuge hunt with weapons and ammunition allowed for that hunt. We prohibit the use of dogs to take these species. There is no bag limit. You may not transport or possess live hog.

* * * * *

17. We allow the use of retriever dogs during the refuge waterfowl season.

* * * * *

24. We prohibit camping on the refuge while hunting off of the refuge.

25. We prohibit fires outside of campgrounds.

26. We prohibit taking or possessing turtles or mollusks (see § 27.51 of this chapter).

27. We prohibit possession or use of fireworks.

28. We prohibit geocaching.

29. We prohibit searching for or removing any object of antiquity including arrowheads, pottery, or other artifacts.

30. We prohibit firearms, including State-permitted concealed carry handguns, in all refuge buildings.

31. We prohibit horses and mules off the open all-terrain vehicle (ATV)/utility‐type vehicles (UTV) trails and main gravel roads.

B. Upland Game Hunting. * * *

3. Conditions A4 through A16, A18, and A24 through A31 apply.

* * * * *

C. Big Game Hunting. We allow hunting of white-tailed deer, feral hog, and turkey on designated areas of the refuge in accordance with State regulations and subject to the following conditions:

* * * * *

2. Conditions A4 through A9, A11 through A16, A18, and A24 through A31 apply.

* * * * *

4. We allow muzzleloader deer hunting for the first 5 days of the early State muzzleloader season for this deer management zone. The bag limit for the refuge muzzleloader hunt is two deer, with no more than one buck.

* * * * *

7. The quota Gun Deer Hunt bag limit is two deer, with no more than one buck (one buck and one doe). Exception: Youth hunters participating in the refuge youth deer hunt and hunters participating in the refuge mobility-impaired hunt may harvest the legal State bag limit without antler restrictions.

* * * * *

12. You may use only portable deer stands erected no sooner than 2 days before the opening of the State deer season, and you must remove them no later than January 31 each year (see § 27.93 of this chapter).

* * * * *

17. We prohibit conducting or participating in deer drives.

* * * * *

19. We prohibit hunting from an area where a shooting lane has been cut.

20. We allow the taking of feral hogs on the refuge only during the Muzzleloader and Modern Gun Quota Permit Deer Hunts and with weapons and ammunition allowed for that hunt. There is no bag limit. You may not transport or possess live hogs.

D. Sport Fishing. * * *

2. Conditions A4 through A16 and A18 through A31 apply.

* * * * *

Wapanocca National Wildlife Refuge

A. Migratory Game Bird Hunting. * * *

10. We prohibit the possession or use of alcoholic beverages while hunting (see § 32.2(j)) and open alcohol containers on refuge roads, all-terrain vehicle (ATV) trails, boat ramps, parking areas, fishing piers, observation decks, and photo blinds.

* * * * *

12. Roundpond and Pigmon Units are closed to all migratory bird hunting.

B. Upland Game Hunting. * * *

1. Conditions A1 through A12 apply.

* * * * *

4. You may take nutria, beaver, and coyote during any refuge hunt with those weapons legal during those hunts, subject to State seasons.

5. You may take feral hog only during the refuge Quota Gun Deer Hunt.

* * * * *

C. Big Game Hunting. * * *

1. Conditions A1 through A12, B4, B5, and B7 through B10 apply.

* * * * *

4. Immediately record the deer zone 640 on the hunter's license and check deer according to State regulations.

* * * * *

D. Sport Fishing. We allow fishing on the refuge in accordance with State regulations and subject to the following conditions:

1. Conditions A3, A5, A9 through A11, B7, and B8 apply. We allow fishing from March 1 through October 31 from ½ hour before legal sunrise to ½ hour after legal sunset.

* * * * *

6. Amend § 32.24 by:

a. Under Clear Lake National Wildlife Refuge:

i. Revising paragraph A.

ii. Revising the introductory text of paragraph C and paragraph C.2.

iii. Revising paragraph D.

b. Revising paragraphs A and B under Colusa National Wildlife Refuge.

c. Revising paragraphs A, B.1, and B.2 under Delevan National Wildlife Refuge.

d. Revising paragraphs A and B under Lower Klamath National Wildlife Refuge.

e. Revising paragraphs A, B.1, and B.2 under Sacramento National Wildlife Refuge.

f. Revising paragraphs A, B.2, C, D.1, and D.2 under Sacramento River National Wildlife Refuge.

g. Revising paragraphs A and B under Sutter National Wildlife Refuge.

h. Revising paragraphs A and B under Tule Lake National Wildlife Refuge.

The revisions read as follows:

§ 32.24 California.

* * * * *

Clear Lake National Wildlife Refuge

A. Migratory Game Bird Hunting. We allow hunting of geese, ducks, coots, moorhens, and snipe on designated areas of the refuge in accordance with State laws and regulations and subject to the following conditions:

1. We allow waterfowl hunting on designated areas of the refuge 7 days per week during the State regulated season.

2. You may hunt from the shoreline only.

3. No boats of any kind may be used while conducting waterfowl hunting activities.

* * * * *

C. Big Game Hunting. We allow hunting of pronghorn antelope only on the controlled “U” Unit of the refuge in accordance with State laws and regulations and subject to the following conditions:

* * * * *

2. We allow access to the unit only through the designated entrance on Clear Lake Road (also known as County Road 136), 4 miles east of the southwest refuge identification sign.

D. Sport Fishing. [Reserved]

Colusa National Wildlife Refuge

A. Migratory Game Bird Hunting. We allow hunting of goose, duck, coot, moorhen, and snipe on designated areas of the refuge in accordance with State regulations and subject to the following conditions:

1. You must obtain a State of California Department of Fish and Wildlife entry permit from the check station prior to entering the hunt area.

2. You must return the State of California Department of Fish and Wildlife entry permit and leave the refuge no later than 1½ hours after legal sunset unless participating in overnight stay in accordance with A13.

3. Youth hunters must be accompanied by an adult (18 years old or older) at all times while hunting.

4. Access to the hunt area is by foot traffic only. We prohibit bicycles and other conveyances. Mobility-impaired hunters should consult with the refuge manager for allowed conveyances.

5. You may enter or exit only at designated locations.

6. Vehicles may stop only at designated parking areas. We prohibit the dropping of passengers or equipment, or stopping between designated parking areas.

7. The firearms used for hunting must remain unloaded until you are in designated free-roam areas or assigned pond/blind areas.

8. Hunters may use shotguns only. No shotguns larger than 12 gauge (see § 20.21(a) of this chapter).

9. You may not possess more than 25 shotgun shells while in the field.

10. You may possess only approved nontoxic shot while in the field (see § 32.2(k)). You may not possess shot size larger than BB, except steel “T” (0.20 (0.5 centimeter) diameter).

11. We prohibit snipe hunting in the assigned pond areas.

12. No person may build or maintain fires, except in portable gas stoves in designated parking/overnight stay areas.

13. We only allow overnight stays in vehicles, motor homes, and trailers at the check station parking areas on Tuesdays, Fridays, and Saturdays (closed on Federal holidays).

14. You must restrain dogs on a leash within all designated parking areas and vehicle access roads.

B. Upland Game Hunting. We allow hunting of pheasant only in the free-roam areas of the refuge in accordance with State regulations and subject to the following conditions:

1. We prohibit pheasant hunting in the assigned pond area except during a special 1-day-only pheasant hunt on the first Monday after the opening of the State pheasant hunting season.

2. Conditions A1 through A14 apply.

* * * * *

Delevan National Wildlife Refuge

A. Migratory Game Bird Hunting. We allow hunting of goose, duck, coot, moorhen, and snipe on designated areas of the refuge in accordance with State regulations and subject to the following conditions:

1. You must obtain a State of California Department of Fish and Wildlife entry permit from the check station prior to entering the hunt area.

2. You must return the State of California Department of Fish and Wildlife entry permit and leave the refuge no later than 1½ hours after legal sunset unless participating in overnight stay in accordance with A14.

3. Junior hunters must be accompanied by an adult (18 years old or older) at all times while hunting.

4. Access to the hunt area is by foot traffic only. We prohibit bicycles and other conveyances. Mobility-impaired hunters should consult with the refuge manager for allowed conveyances.

5. You may enter or exit only at designated locations.

6. Vehicles may stop only at designated parking areas. We prohibit the dropping of passengers or equipment, or stopping between designated parking areas.

7. The firearms used for hunting must remain unloaded until you are in designated free-roam areas or assigned pond/blind areas.

8. Hunters may use shotguns only. No shotguns larger than 12 gauge.

9. Hunters may possess no more than 25 shotgun shells while in the field.

10. Hunters may possess only approved nontoxic shot while in the field (see § 32.2(k)). You may not possess shot size larger than BB, except steel “T” (0.20 inch (0.5 centimeter) diameter).

11. We restrict hunters assigned to the spaced blind area to within 100 feet (30.5 meters) of their assigned hunt site except for retrieving downed birds, placing decoys, or traveling to and from the area.

12. We prohibit snipe hunting in the assigned pond areas.

13. No person may build or maintain fires, except in portable gas stoves in designated parking/overnight stay areas.

14. We only allow overnight stays in vehicles, motor homes, and trailers at the check station parking areas on Tuesdays, Fridays, and Saturdays (closed on Federal holidays).

15. You must restrain dogs on a leash within all designated parking areas and vehicle access roads.

B. Upland Game Hunting. * * *

1. We prohibit pheasant hunting in the assigned pond/spaced blind area except during a special 1-day-only pheasant hunt on the first Monday after the opening of the State pheasant hunting season.

2. Conditions A4 through A15 apply.

* * * * *

Lower Klamath National Wildlife Refuge

A. Migratory Game Bird Hunting. We allow hunting of geese, ducks, coots, moorhens, and snipe on designated areas of the refuge in accordance with State laws and regulations and subject to the following conditions:

1. In the controlled waterfowl hunting area, we require a Refuge Recreation Pass (passholder name/expiration date) for all hunters age 16 or older. An adult with a valid Recreation Pass (passholder name/expiration date) must accompany hunters younger than age 16 who are hunting in the controlled area.

2. We require advance reservations for the first 2 days of the hunting season. Reservations are obtained through the Waterfowl Lottery each year.

3. Entry hours begin 1½ hours prior to State regulated shoot time unless otherwise posted.

4. Shooting hours end at 1:00 p.m. on all California portions of the refuge with the following exceptions:

a. The refuge manager may designate up to 6 afternoon special youth, ladies, or disabled hunter waterfowl hunts per season; and

b. The refuge manager may designate up to 3 days per week of afternoon waterfowl hunting for the general public after December 1.

5. The firearms used for hunting must be unloaded while in posted retrieving zones and while on hunter access routes open to motor vehicles.

6. You may not set decoys in retrieving zones.

7. We prohibit air-thrust and inboard waterthrust boats.

8. You may possess only approved nontoxic shot while in the field (see § 32.2(k)).

9. You may use only nonmotorized boats and boats with electric motors on designated motorless units from the start of the hunting season through November 30. You may use motorized boats on designated motorless units from December 1 through the end of hunting season.

10. Pit style hunting blinds located in the Stearns units and unit 9D are first-come, first-served basis. We require you to hunt within a 200-foot (61-meter) radius of the blind.

B. Upland Game Hunting. We allow hunting of pheasant on designated areas of the refuge in accordance with State laws and regulations and subject to the following conditions:

1. You may possess only approved nontoxic shot while in the field (see § 32.2(k)).

2. We require you to wear an outer garment above the waist that is at least 50 percent blaze orange and visible from both front and back. Outer garments may consist of hat or cap, vest, jacket, shirt or coat.

3. The firearms used for hunting must be unloaded while in posted retrieving zones and while on hunter access routes open to motor vehicles.

* * * * *

Sacramento National Wildlife Refuge

A. Migratory Game Bird Hunting. We allow hunting of goose, duck, coot, moorhen, and snipe on designated areas of the refuge in accordance with State regulations and subject to the following conditions:

1. You must obtain a State of California Department of Fish and Wildlife entry permit from the check station prior to entering the hunt area.

2. You must return the State of California Department of Fish and Wildlife entry permit and vacate refuge no later than 1½ hours after legal sunset unless participating in overnight stay in accordance with A14.

3. Junior hunters must be accompanied by an adult (18 years old or older) at all times while hunting.

4. Access to the hunt area is by foot traffic only. We prohibit bicycles and other conveyances. Mobility-impaired hunters should consult with the refuge manager for allowed conveyances.

5. You may enter or exit only at designated locations.

6. Vehicles may stop only at designated parking areas. We prohibit the dropping of passengers or equipment, or stopping between designated parking areas.

7. The firearms used for hunting must remain unloaded until you are in designated free-roam areas or assigned pond/blind areas.

8. Hunters may use shotguns only. No shotguns larger than 12 gauge.

9. Hunters may possess no more than 25 shotgun shells while in the field.

10. Hunters may possess only approved nontoxic shot while in the field (see § 32.2(k)). You may not possess shot size larger than BB, except steel “T” (0.20 inch (0.5 centimeter) diameter).

11. We restrict hunters assigned to the spaced blind area to within 100 feet (30.5 meters) of their assigned hunt site except for retrieving downed birds, placing decoys, or traveling to and from the area.

12. We prohibit snipe hunting in the assigned pond areas.

13. No person may build or maintain fires, except in portable gas stoves in designated parking/overnight stay areas.

14. We only allow overnight stays in vehicles, motor homes, and trailers at the check station parking areas on Tuesdays, Fridays, and Saturdays (closed on Federal holidays).

15. You must restrain dogs on a leash within all designated parking areas and vehicle access roads.

B. Upland Game Hunting. * * *

1. We prohibit pheasant hunting in the assigned pond/spaced blind area except during a special 1-day-only pheasant hunt on the first Monday after the opening of the State pheasant hunting season.

2. Conditions A4 through A15 apply.

* * * * *

Sacramento River National Wildlife Refuge

A. Migratory Game Bird Hunting. We allow hunting of goose, duck, coot, moorhen, dove, and snipe on designated areas of the refuge in accordance with State regulations subject to the following conditions:

1. Access to the hunt area on all units open to public hunting is by boat only, except on designated units, which are accessible by foot traffic or boat. We prohibit bicycles or other conveyances. Mobility-impaired hunters should consult with the refuge manager for allowed conveyances. Waterfowl hunting is not allowed on the Mooney and Codora Units.

2. On the Codora Unit, hunting is not allowed except for junior hunters (17 years old or younger) on weekends only. Junior hunters must possess a valid junior hunting license and be accompanied by a nonhunting adult (18 years or older).

3. We prohibit possession of alcohol.

4. We allow only shotgun hunting.

5. The firearms used for hunting must be unloaded (see § 27.42(b) of this chapter) while transporting them between parking areas and hunting areas. “Unloaded” means that no ammunition is in the chamber or magazine of the firearm.

6. You may possess only approved nontoxic shot while in the field (see § 32.2(k)).

7. We prohibit hunting within 50 feet (15.2 meters) of any boundary adjacent to private property.

8. We prohibit hunting within 150 yards (137.2 meters) of any occupied dwelling, house, residence, or other building or any barn or other outbuilding used in connection therewith.

9. We prohibit fires on the refuge, except we allow portable gas stoves on gravel bars (see § 27.95(a) of this chapter).

10. We open the refuge for day-use access from 2 hours before legal sunrise until 1½ hours after legal sunset. We allow access during other hours on gravel bars only.

11. We require dogs to be kept on a leash, except for hunting dogs engaged in authorized hunting activities, and under the immediate control of a licensed hunter (see § 26.21(b) of this chapter).

12. We prohibit permanent blinds. You must remove all personal property, including decoys and boats, by 1½ hours after legal sunset (see §§ 27.93 and 27.94 of this chapter).

13. We prohibit cutting or removal of vegetation for blind construction or for making trails (see § 27.51).

14. We prohibit commercial guiding (see § 27.97 of this chapter).

B. Upland Game Hunting. * * *

2. Conditions A1 through A3 and A5 through A14 apply.

C. Big Game Hunting. We allow hunting of black-tailed deer and feral hogs on designated areas of the refuge in accordance with State regulations and subject to the following conditions:

1. Conditions A1 through A3, A5, A7 through A14, and B1 apply.

2. You may hunt feral hogs from September 1 through March 15.

3. We prohibit dogs while hunting feral hogs.

4. We prohibit construction or use of permanent blinds, platforms, ladders, or screw-in foot pegs.

5. You must remove all personal property, including stands or hunting blinds, from the refuge by 1½ hour after legal sunset (see §§ 27.93 and 27.94 of this chapter).

6. You may only use shotguns, firing single shotgun slugs, and archery equipment for big game hunting only. You may only possess non-lead ammunition while in the field (consistent with State Law AB711 related to Wildlife Areas ammunition restrictions).

D. Sport Fishing. * * *

1. Conditions A3 and A9 through A14 apply.

2. On Packer Lake and Drumheller North, due to primitive access, we only allow boats up to 14 feet (4.3 meters) and canoes. Electric motors only.

* * * * *

Sutter National Wildlife Refuge

A. Migratory Game Bird Hunting. We allow hunting of goose, duck, coot, moorhen, and snipe on designated areas of the refuge in accordance with State regulations and subject to the following conditions:

1. Visitors must obtain a State of California Department of Fish and Wildlife entry permit from the check station prior to entering the hunt area.

2. Hunters must return the State of California Department of Fish and Wildlife entry permit and vacate refuge no later than 1½ hours after legal sunset unless participating in overnight stay in accordance with A13.

3. Junior hunters must be accompanied by an adult (18 years old) at all times while hunting.

4. Access to the hunt area is by foot traffic only. We prohibit bicycles and other conveyances. Mobility-impaired hunters should consult with the refuge manager for allowed conveyances.

5. You may enter or exit only at designated locations.

6. Vehicles may stop only at designated parking areas. We prohibit the dropping of passengers or equipment, or stopping between designated parking areas.

7. The firearms used for hunting must remain unloaded until you are in designated free-roam areas or assigned pond/blind areas.

8. Hunters may use shotguns only. No shotguns larger than 12 gauge.

9. Hunters may possess no more than 25 shotgun shells while in the field.

10. Hunters may possess only approved nontoxic shot while in the field (see § 32.2(k)). You may not possess shot size larger than BB, except steel “T” (0.20 inch (0.5 centimeter) diameter).

11. We prohibit snipe hunting in the assigned pond areas.

12. No person may build or maintain fires, except in portable gas stoves in designated parking/overnight stay areas.

13. We only allow overnight stays in vehicles, motor homes, and trailers at the check station parking areas on Tuesdays, Fridays, and Saturdays (closed on Federal holidays).

14. You must restrain dogs on a leash within all designated parking areas and vehicle access roads.

B. Upland Game Hunting. We only allow hunting of pheasant in the free-roam areas of the refuge in accordance with State regulations and subject to the following conditions:

1. We prohibit pheasant hunting in the assigned pond areas.

2. Conditions A1 through A14 apply.

* * * * *

Tule Lake National Wildlife Refuge

A. Migratory Game Bird Hunting. We allow hunting of geese, ducks, coots, moorhens, and snipe on designated areas of the refuge in accordance with State laws and regulations and subject to the following conditions:

1. In the controlled waterfowl hunting area, we require a Refuge Recreation Pass (passholder name/expiration date) for all hunters age 16 or older. An adult with a valid Recreation Pass (passholder name/expiration date) must accompany hunters younger than age 16 who are hunting in the controlled area.

2. We require advance reservations for the first 2 days of the hunting season. Reservations are obtained through the Waterfowl Lottery each year.

3. Entry hours begin 1½ hours prior to State regulated shoot time unless otherwise posted.

4. Shooting hours end at 1:00 p.m. on all portions of the refuge with the following exceptions:

a. The refuge manager may designate up to six afternoon special youth, ladies, or disabled hunter waterfowl hunts per season; and

b. The refuge manager may designate up to 3 days per week of afternoon waterfowl hunting for the general public after December 1.

5. The firearms used for hunting must be unloaded when you are more than 200 feet (61 meters) from the established blind stakes. You select blind sites by lottery at the beginning of each hunt day. You may shoot only from within your assigned blind site.

6. The firearms used for hunting must be unloaded while in posted retrieving zones and while on hunter access routes open to motor vehicles.

7. We prohibit the setting of decoys in retrieving zones.

8. We prohibit air-thrust and inboard water-thrust boats.

9. You may possess only approved nontoxic shot while in the field (see § 32.2(k)).

B. Upland Game Hunting. We allow hunting of pheasant on designated areas of the refuge in accordance with State laws and regulations and subject to the following conditions:

1. You may possess only approved nontoxic shot while in the field (see § 32.2(k)).

2. We require you to wear an outer garment above the waist that is at least 50 percent blaze orange and visible from both front and back. Outer garments may consist of hat or cap, vest, jacket, shirt or coat.

3. The firearms used for hunting must be unloaded while in posted retrieving zones and while on hunter access routes open to motor vehicles.

* * * * *

7. Amend § 32.27 by revising paragraphs A, B, and C under Prime Hook National Wildlife Refuge to read as follows:

§ 32.27 Delaware.

* * * * *

Prime Hook National Wildlife Refuge

A. Migratory Game Bird Hunting. We allow the hunting of waterfowl, coot, mourning dove, snipe, and woodcock on designated areas of the refuge during designated seasons in accordance with State regulations and subject to the following conditions:

1. Only hunters aged 16 years and older may apply for or obtain a lottery hunt area permit (Waterfowl Lottery Application; FWS Form 3-2355).

2. You must have in your possession a signed and current refuge hunt permit (signed brochure) and government-issued picture identification on the refuge. All permits are non-transferable. Hunting brochures containing hunting application procedures, permits, seasons, scouting times, methods of hunting, maps depicting areas open to hunting, and the terms and conditions under which we issue hunting permits are available at the refuge office and on the refuge's Web site.

3. Hunting in violation of any Delaware State law is a violation of refuge hunting regulations.

4. We prohibit cutting or damaging vegetation for any purpose. We prohibit the use of natural vegetation for camouflaging a blind (see § 27.51 of this chapter).

5. Hunting blinds, stands, steps and equipment must be portable, and you must remove them at the end of each day.

6. We prohibit practice or target shooting.

7. We prohibit all public entry in designated safety zones.

8. You may not be on the refuge any earlier than 2 hours before the legal morning shooting time.

9. We require all boaters to operate their craft and possess all safety equipment in accordance with Delaware State and U.S. Coast Guard regulations during refuge hunts (see § 27.32 of this chapter). The maximum horsepower (HP) allowed for boat motors is 30 HP. The Slaughter Canal and Headquarters' Canal are slow, no-wake zones. Designated launching sites must be used to launch boats. We prohibit the use of air-thrust and inboard water-thrust boats on all waters within the refuge boundaries.

10. We allow only three individuals per blind site in the lottery hunting areas.

11. We prohibit motor vehicles off of designated routes and parking areas.

12. We allow the use of dogs to assist in hunting and retrieval of harvested game in accordance with State law. We prohibit dog training (see § 27.91 of this chapter).

13. Only nonambulatory hunters may hunt in the Island Farm Unit, where we have provided nonambulatory hunt blinds to accommodate hunters with this need. All disabled hunters must obtain an Interagency Access Pass to receive a hunting permit for the disabled hunting areas. We require wheelchair hunters to have an assistant in the disabled hunting areas and to hunt from a government-provided blind.

14. We allow up to two individuals assisting a disabled hunter to hunt waterfowl with the disabled hunter.

15. Waterfowl hunters must stop hunting at 3 p.m. and leave the refuge by 4 p.m. on hunting days except when snow goose hunting during a snow goose conservation order.

16. We allow the use and possession of only nontoxic shot for hunting (see § 32.2(k)).

B. Upland Game Hunting. We allow the hunting of rabbit, quail, pheasant, and red fox on designated areas of the refuge in accordance with State regulations and subject to the following conditions:

1. We prohibit the hunting of squirrel.

2. We allow red fox hunting only while concurrently hunting deer in areas open to deer hunting. We prohibit hunting by chase. We prohibit hunting with rimfire or centerfire rifles.

3. We allow the use and possession of only nontoxic shot for hunting (see § 32.2(k)), except that while hunting red fox concurrently with deer we allow the use of shot approved for deer hunting in accordance with State and refuge regulations.

4. Hunters must leave the hunting area ½ hour after the legal evening shooting time.

5. Conditions A2 through A13 apply.

C. Big Game Hunting. We allow the hunting of white-tailed deer and turkey on designated areas of the refuge during designated seasons in accordance with State regulations and subject to the following conditions:

1. Only hunters aged 16 years and older may apply for or obtain a lottery hunt area permit (Quota Deer Hunt Application, FWS Form 3-2354; Big/Upland Game Hunt Application, FWS Form 3-2356).

2. We prohibit access by boat from Slaughter Creek on Cods Road.

3. We prohibit the driving or pushing of deer by any means.

4. All deer hunters must be out of the hunting areas 1½ hours after the legal evening shooting time. All turkey hunters must be out of the hunting areas one hour after the legal closing time for turkey hunting.

5. We prohibit the use or possession of buckshot while hunting. Only slugs may be used for hunting deer.

6. We prohibit assistants for wheelchair hunters from hunting in the disabled hunting area.

7. Any time the State hunting regulations require that hunters display hunter orange, the material must be solid-colored. We prohibit the use of hunter-orange camouflage materials to meet State minimum hunter orange requirements.

8. We allow the use and possession of only nontoxic shot for hunting turkey (see § 32.2(k)).

9. Conditions A2 through A12, and A14 apply.

* * * * *

8. Amend § 32.28 by:

a. Under Arthur R. Marshall Loxahatchee National Wildlife Refuge:

i. Removing paragraph C.12.

ii. Redesignating paragraphs C.4 through C.11 as C.5 through C.12, respectively.

iii. Adding paragraph C.4.

iv. Revising newly designated paragraphs C.9 and C.10.

v. Adding paragraphs C.13, C.14, and C.15.

vi. Revising paragraph D.3.

vii. Removing paragraph D.9.

viii. Redesignating paragraphs D.6 through D.8 as D.8 through D.10, respectively.

ix. Adding paragraphs D.6, D.7, and D.11.

b. Revising the entry for Chassahowitzka National Wildlife Refuge.

c. Revising paragraph D under Egmont Key National Wildlife Refuge.

d. Under Hobe Sound National Wildlife Refuge:

i. Revising paragraph D.3.

ii. Removing paragraph D.7.

iii. Redesignating paragraphs D.4 through D.6 as D.5 through D.7, respectively.

iv. Adding paragraph D.4.

v. Revising newly designated paragraph D.7.

e. Revising paragraphs D.10, D.11, D.13, D.16, and D.18 under J.N. “Ding” Darling National Wildlife Refuge.

f. Under Lower Suwannee National Wildlife Refuge:

i. Revising paragraphs A.1, A.2, A.4, and A.13.

ii. Revising paragraphs B.2, B.3, and B.4.

iii. Revising paragraph C.

iv. Removing paragraph D.4.

g. Under Merritt Island National Wildlife Refuge:

i. Redesignating paragraphs D.13 through D.17 as D.14 through D.18, respectively.

ii. Adding paragraph D.13.

h. Revising paragraph D under Pinellas National Wildlife Refuge.

i. Revising paragraphs C.2 and C.8 under St. Marks National Wildlife Refuge.

The additions and revisions read as follows:

§ 32.28 Florida.

* * * * *

Arthur R. Marshall Loxahatchee National Wildlife Refuge

* * * * *

C. Big Game Hunting. * * *

4. We prohibit the taking of any other plants or wildlife (see § 27.21 of this chapter).

* * * * *

9. You may take alligators using hand-held snares, harpoons, gigs, snatch hooks, artificial lures, manually operated spears, spear guns, and crossbows. We prohibit the taking of alligators using baited hooks, baited wooden pegs, or firearms. We allow the use of bang sticks (a hand-held pole with a pistol or shotgun cartridge on the end in a very short barrel) with nontoxic ammunition only for taking alligators attached to a restraining line (see § 32.2(k)). Once an alligator is captured, it must be killed immediately. We prohibit catch and release of alligators. Once the alligator is dead, you must lock a CITES tag through the skin of the carcass within 6 inches (15.2 centimeters) of the tip of the tail. The tag must remain attached to the alligator at all times.

10. Hunters must complete a Big Game Harvest Report (FWS Form 3‐2359) and place it in an entrance fee canister each day prior to exiting the refuge. A Florida Fish and Wildlife Conservation Commission (FWC) Alligator Harvest Report Form (FWC Form 1001AT, supplied with your FWC permit) must be completed by the permit holder within 24 hours of taking each alligator and prior to the transfer to a permitted alligator processing facility. A copy of the FWC Alligator Harvest Report Form must accompany the alligator carcass until processing. An online version of the form can be found at MyFWC.com/alligator.

* * * * *

13. We allow only one vessel per hunting group or party.

14. Conditions A14 through A18 apply.

15. For emergencies or to report violations, contact law enforcement personnel at 1‐800‐307‐5789. Law enforcement officers may be monitoring VHF Channel 16.

D. Sport Fishing. * * *

3. We allow fishing south of a line of latitude of 26.27.130 and in the rim canal in the rest of the refuge. We prohibit fishing in those areas posted as closed to fishing or to the public.

* * * * *

6. We allow commercial guiding by Special Use Permit only (Commercial Activities—Special Use Permit Application, FWS Form 3‐1383‐C). Contact the Refuge Office at 561‐735‐6029 for more information.

7. We allow 12 fishing tournaments a year by Special Use Permit only (General Activities—Special Use Permit Application, FWS Form 3‐1383‐G). Contact the Refuge Office at 561‐735‐6029 for more information.

* * * * *

11. For emergencies or to report violations, contact law enforcement personnel at 1‐800‐307‐5789. Law enforcement officers may be monitoring VHF Channel 16.

* * * * *

Chassahowitzka National Wildlife Refuge

A. Migratory Game Bird Hunting. We allow migratory game bird hunting in those areas designated as open to hunting in accordance with applicable Federal and State laws, and subject to the following conditions:

1. In Citrus County:

i. You may take only ducks and coots.

ii. We allow waterfowl hunting on Wednesdays, Saturdays, and Sundays during those seasons established by the State of Florida; however, we may close or alter hunts in cases of emergency situations.

iii. State bag limits apply.

iv. We allow the use of dogs in accordance with State regulations to retrieve taken waterfowl.

v. We allow airboats only on the designated airboat route with a refuge Special Use Permit (General Activities Special Use Permit Application, FWS Form 3‐1383‐G) issued by the U.S. Fish and Wildlife Service. We prohibit the use of airboats on vegetation. Airboats must be in compliance with State and county regulations (§ 27.32 of this chapter).

vi. We require hunters to possess and carry a signed, no-cost refuge hunting permit (signed brochure).

vii. In addition to State hunter education requirements, an adult (parent or guardian) age 21 or older must supervise and remain within sight and normal voice contact of any youth hunter age 15 or younger. An adult may supervise no more than two (2) youths.

viii. We prohibit hunting within 100 yards (91.4 meters) of any residence or on navigable waterways of Chassahowitzka River, Seven Cabbage Cut-off, and Mason Creek.

ix. We allow temporary blinds and decoys, but require all blinds and decoys to be removed from the refuge daily.

x. We prohibit the use of bait, salt, oil, or ingestible attractant. We prohibit taking or attempting to take any game animal with the aid of live decoys, recorded game calls or sounds, set guns, artificial light, net, trap, snare, drug, or poison (see §§ 20.21 of this chapter and § 32.2(h)).

xi. We prohibit taking or herding of wildlife from any vessel that is under power, until power and movement have ceased (§ 20.21(e) of this chapter).

xii. We prohibit target practice.

xiii. You may use only steel or approved nontoxic shot for hunting migratory game birds (see § 32.2(k)). We prohibit possession of lead or other toxic shot (§ 20.21(j) of this chapter).

xiv. Persons possessing, transporting, or carrying firearms on the refuge must comply with all provisions of State and local law. Persons may only use (discharge) firearms in accordance with refuge regulations (see § 27.42 of this chapter and specific refuge regulations in part 32).

xv. We prohibit the marking of trees, using flagging tape, reflective tacks, and other similar marking devices; and the cutting/trimming of trees. We prohibit driving or screwing any metal object into a tree or hunting from a tree in which a metal object has been driven or screwed to support a hunter (see 32.2(i)).

xvi. We prohibit commercial activities, including guiding or participating in a guided hunts (§ 27.97 of this chapter).

xvii. We prohibit fires.

xviii. We prohibit the use of all-terrain vehicles (ATVs)/tracked motorized vehicles.

2. In Hernando County:

i. All hunters in Hernando County must comply with the Chassahowitzka Wildlife Management Area regulations, including quota hunt requirements, in addition to refuge rules.

ii. Conditions A.1.iii, A.1.iv, A.1.vi, A.1.vii, and A.1.ix through A.1.xviii apply.

iii. We allow hunting of rails, common moorhen, mourning dove, white winged dove, snipe, and woodcock during seasons established by the Commission for these species and listed in the Chassahowitzka Wildlife Management Area regulations. We allow hunting of geese, duck, and coot on Wednesdays, Saturdays, and Sundays; however, hunts may be closed or altered in cases of emergency situations by the U.S. Fish and Wildlife Service.

iv. You may use airboats on all navigable waterways within Hernando County with a refuge Special Use Permit (General Activities Special Use Permit Application, FWS Form 3‐1383‐G) issued the U.S. Fish and Wildlife Service. We prohibit the use of airboats on vegetation. Airboats must be in compliance with State and county regulations.

v. We prohibit hunting within 100 yards (91.4 meters) of any residence.

B. Upland Game Hunting.

1. [Reserved]

2. In Hernando County, we allow hunting of quail, squirrel, and rabbit in accordance with Chassahowitzka Wildlife Management Area regulations, and subject to the following conditions:

i. Conditions A.1.iii, A.1.v through A.1.xii, and A.1.xiv through A.1.xviii, A.2.i, A.2.iv, and A.2.v apply.

ii. We prohibit the use of traps or snares to take game.

iii. You must report harvested game at the State Wildlife Management Area Check Station.

iv. We prohibit hunting of raccoon, bobcat, and otter.

v. You may take feral hog, opossum, armadillo, beaver, coyote, skunk, and nutria as incidental species with the equipment legal for use during the season.

C. Big Game Hunting.

1. [Reserved]

2. In Hernando County, we allow hunting of whitetail deer and turkey, in accordance with Chassahowitzka Wildlife Management Area regulations, and subject to the following conditions:

i. Conditions B.2.i through B.2.iii and B.2.v apply.

ii. We prohibit the use of dogs to take big game and feral hogs.

D. Sport Fishing.

1. In Citrus County, we allow sport fishing on the refuge year-round in areas designated as open in the refuge hunting and fishing brochure, in compliance with State fishing regulations and license requirements, and subject to the following conditions:

i. Conditions A.1.v, A.1.xiv, A.1.xv, A.1.xvii, and A.1 xviii apply.

ii. We allow fishing 24 hours per day, year-round, except in areas posted closed.

iii. All fish must remain in a whole condition while being transported from the refuge.

iv. We prohibit harvesting and possession of horseshoe crabs, turtles, and snakes.

v. We prohibit the taking of frogs.

vi. We permit commercial activities, including guiding, with a Special Use Permit (Commercial Activities Special Use Permit Application, FWS Form 3-1383-C). You must apply for the permit.

2. In Hernando County, we allow sport fishing on the refuge year-round in areas designated as open in the refuge hunting and fishing brochure, in compliance with State fishing regulations and license requirements, and subject to the following conditions: Conditions D.1.i through D.1.vi apply.

Egmont Key National Wildlife Refuge

* * * * *

D. Sport Fishing. We allow sport fishing on the refuge year-round in areas designated as open and in accordance with State fishing regulations and subject to the following conditions:

1. We allow fishing from designated refuge beaches during open hours.

2. Anglers may only use two poles per angler and must attend both poles at all times.

* * * * *

Hobe Sound National Wildlife Refuge

* * * * *

D. Sport Fishing. * * *

* * * * *

3. We prohibit the disturbance or taking of sea turtles, their eggs, and their nests. We prohibit the taking of any wildlife, plants, and cultural artifacts (see § 27.21 of this chapter).

4. We prohibit camping, fires, pets, and the use of metal detectors.

* * * * *

7. We prohibit motorized vehicles of any type on the beach, fire roads, undesignated routes, and areas posted as closed (see § 27.31 of this chapter).

J.N. “Ding” Darling National Wildlife Refuge

* * * * *

D. Sport Fishing. * * *

10. We allow you to launch canoes and kayaks anywhere on the right (north) side of Wildlife Drive. We prohibit launching motorized vessels over 14 feet (4.2 meters) in length from Wildlife Drive. We allow launching of motorized vessels only 14 feet (4.2 meters) or less in length from designated site #2.

11. We allow public access to Wildlife Drive and Indigo Trail, except on Fridays, when we close Wildlife Drive to all public access. See hours posted at the front gate or on the refuge Web site (http://www.fws.gov/dingdarling/), or call 239-472-1100.

* * * * *

13. We prohibit all public entry into the impoundments on the left (south) side of Wildlife Drive.

* * * * *

16. We prohibit the use of cast nets from the left (south) side of Wildlife Drive or any structure affixed to Wildlife Drive.

* * * * *

18. We prohibit the use of bows and spears from Wildlife Drive or any trail or structure affixed to Wildlife Drive.

* * * * *

Lower Suwannee National Wildlife Refuge

A. Migratory Game Bird Hunting. * * *

1. We require all hunters, ages 16 or older, to purchase and possess a general refuge hunting permit (name/address/phone number) and a State of Florida Hunting License to hunt during all refuge hunts, unless otherwise exempt. You can purchase a hunting permit (name/address.phone number) through the Florida Fish and Wildlife Conservation Commission licensing Web site, county tax office, or another outlet that sells State licenses. We do not require youth hunters age 15 and younger to possess a general refuge hunt permit (name/address/phone number). We do not require State Wildlife Management Area stamps. Unless otherwise exempt, we require hunters to have appropriate archery, muzzleloader, deer, and turkey stamps/permits. Unless exempt, we require waterfowl hunters to have appropriate State and Federal waterfowl stamps.

2. We designate open and closed refuge hunting areas on the map in the refuge hunt brochure, which the hunter must possess and carry. The refuge can designate temporary closed hunting areas at the management's discretion for refuge management activities (prescribed burns, forestry, habitat restoration, wildlife management).

* * * * *

4. We prohibit the use of all-terrain vehicles (ATVs) and utility‐type vehicles (UTVs) (see § 27.31(f) of this chapter).

* * * * *

13. We prohibit flagging, reflective markers, paint, litter, or pins for marking in any manner on refuge property, with the exception of the following: Clothes type pins or clips with reflective or colored markings can be used for the temporary marking of vegetation in order to identify a route of travel to or from a tree stand. You must remove these pins at the end of deer season (see §§ 27.93 and 27.94 of this chapter). Each clothes type pin or clip must contain both the name and hunting license number of the hunter.

* * * * *

B. Upland Game Hunting. * * *

2. We will print dates for the refuge upland game (small game) and raccoon/opossum hunting seasons in the annual refuge hunt brochure. Contact the refuge office for specific dates.

3. You may use only .17, .22, and .22 magnum caliber rimfire rifle firearms (see § 27.42 of this chapter), bows, or shotguns with nontoxic shot no larger than #4 birdshot, or muzzleloader or.40 caliber or less when hunting (see § 32.2(k)).

4. We allow night hunting in accordance with State regulations for raccoon and opossum during nighttime hours from legal sunset until legal sunrise.

C. Big Game Hunting. We allow hunting of big game on designated areas of the refuge in accordance with State regulations and subject to the following conditions:

1. Conditions A1 through A18 apply.

2. During the refuge archery season, hunters may only use archery equipment in accordance with State archery regulations.

3. During the refuge muzzleloader season, hunters may only use muzzleloading firearms (see § 27.42 of this chapter) in accordance with State muzzleloader regulations.

4. We prohibit driving or screwing any metal object into a tree or hunting from a tree in which a metal object has been driven or screwed to support a hunter (see § 32.2(i)).

5. Temporary tree stands may be left on the refuge starting one week before archery season and must be removed by the last day of hog season. All tree stands left on the refuge within the hunt season must display the hunters name and hunting license number legibly written on or attached to the stand. We may confiscate and dispose of tree stands not in compliance (see §§ 27.93 and 27.94 of this chapter). You may use tree stands during small game season, but you must remove them by the last day of this season (see § 27.93 of this chapter).

6. All hunters (including all persons accompanying hunters) must wear a minimum of 500 square inches (3,250 square centimeters) of fluorescent orange visible above the waistline while hunting during all refuge deer gun hunts.

7. We prohibit the use of organized drives for taking or attempting to take game.

8. We will publish the dates of the refuge general gun season in the annual refuge hunt brochure. Contact the refuge office for specific dates. Consult the Florida State Zone C for current State regulations.

9. The family hunt follows the refuge general gun season. We will print dates in the annual refuge hunt brochure. Contact the refuge office for specific dates.

10. The refuge will provide an annual feral (wild) hog hunt. We will print dates in the annual refuge hunt brochure. Contact the refuge office for specific dates.

11. During the youth turkey hunt, an adult age 18 or older must accompany the youth, age 15 and younger, but only the youth hunter may hunt.

12. We allow hunting of deer (except spotted fawns), feral hog (no size or bag limit), gray squirrel, rabbit, armadillo, opossum, raccoon, beaver, and coyote during the archery season.

13. We prohibit harvesting antlered deer not having one (1) antler with two (2) or more points, except persons younger than age 16 may harvest any antlered deer with one (1) antler 5 inches (12.7 centimeters) or more in length. You may take feral hog (no bag or size limit) during the archery, muzzleloader, and general-gun season.

14. Hunters may take feral hog (no size or bag limit), and a maximum of two deer per day, during the family hunt, except only one deer may be antlerless for each day of the family hunts.

15. Hunters may take only feral hog (no size or bag limit) during the feral (wild) hog hunt.

16. Hunters must fill out a Big Game Harvest Report (FWS Form 3-2359) and check all game harvested during all deer and hog hunts.

17. Hunters may take only bearded turkeys and only during the State Zone C youth turkey hunts and spring turkey season.

18. Shooting hours for spring turkey begin 1/2 hour before legal sunrise and end at 1 p.m.

19. We only allow shotguns with shot no larger than size 2 common shot or bows and arrows for spring turkey hunting.

20. We prohibit crossbows except with a State-issued disabled crossbow permit. You may not use a crossbow during muzzleloader season.

* * * * *

Merritt Island National Wildlife Refuge

* * * * *

D. Sport Fishing. * * *

13. We prohibit fish cleaning on refuge property.

* * * * *

Pinellas National Wildlife Refuge

* * * * *

D. Sport Fishing. We allow fishing in refuge-managed waters year-round in areas designated as open, in accordance with State regulations and subject to the following conditions:

1. We allow fishing only from vessels in the waters surrounding Tarpon Key.

2. We close refuge lands to all public use.

3. We prohibit the disturbance of any nesting birds, wildlife, or vegetation.

St. Marks National Wildlife Refuge

* * * * *

C. Big Game Hunting. * * *

2. Conditions B2 and B4 through B11 apply.

* * * * *

8. The bag limit for white-tailed deer is two deer per scheduled hunt period. We allow hunters to harvest two antlerless deer per scheduled hunt period. We define antlerless deer per State regulations (i.e., un-antlered deer or antlered deer with both antlers less than 5 inches (12.7 centimeters) in length). Otherwise, hunters may harvest one antlerless deer and one antlered deer per hunt. Hunters must ensure that antlered deer have at least 3 points, of 1 inch (2.5 centimeters) or more in length on one antler.

* * * * *

9. Amend § 32.29 by:

a. Adding paragraphs D.5 and D.6 under Banks Lake National Wildlife Refuge.

b. Under Blackbeard Island National Wildlife Refuge:

i. Revising the introductory text of paragraph C and paragraphs C.1, C.10, C.11, and C.16.

ii. Adding paragraphs C.20 and C.21.

iii. Revising the introductory text of paragraph D and paragraph D.1.

iv. Removing paragraphs D.2, D.3, and D.4.

v. Redesignating paragraph D.5 as D.2.

vi. Adding paragraph D.3.

c. Under Bond Swamp National Wildlife Refuge:

i. Revising the introductory text of paragraph A and paragraphs A.2, A.6, A.8, A.9, A.13, A.19, A.24, and A.28.

ii. Adding paragraphs A.30, A.31, A.32, A.33, A.34, A.35, A.36, A.37, A.38, and A.39.

iii. Revising paragraphs B.1 and B.2.

iv. Adding paragraphs B.4 and B.5.

v. Revising paragraph C.1.

vi. Adding paragraphs C.6 and C.7.

vii. Revising paragraphs D.1, D.4, D.5, and D.6.

viii. Adding paragraphs D.7 and D.8.

d. Under Harris Neck National Wildlife Refuge:

i. Revising the introductory text of paragraph C and paragraphs C.1, C.5, C.6, C.7, C.10, C.12, and C.14.

ii. Adding paragraph C.20.

iii. Revising the introductory text of paragraph D and paragraph D.3.

iv. Adding paragraph D.5.

e. Under Okefenokee National Wildlife Refuge:

i. Removing paragraph B.3.

ii. Revising paragraphs C.1, C.2, and C.3.ii.

iii. Revising paragraphs D.1, D.4, and D.5.

iv. Adding paragraph D.6.

f. Under Piedmont National Wildlife Refuge:

i. Revising paragraphs B.2, B.3, B.4, B.7, and B.10.

ii. Adding paragraphs B.12, B.13, B.14, B.15, B.16, B.17, B.18, B.19, B.20, B.21, B.22, B.23, B.24, and B.25.

iii. Revising paragraphs C.1, C.3, C.4, C.6, C.7, and C.13.

iv. Revising paragraphs D.1, D.3, D.4, D.5, D.8, and D.10.

v. Adding paragraphs D.11 and D.12.

g. Under Savannah National Wildlife Refuge:

i. Revising the introductory text of paragraph A and paragraph A.1.

ii. Redesignating paragraphs A.2 through A.4 as A.3 through A.5, respectively.

iii. Adding paragraph A.2.

iv. Revising newly designated paragraph A.4.

v. Adding paragraph A.6.

vi. Revising the introductory text of paragraph B and paragraphs B.1, B.2, and B.6.

vii. Revising the introductory text of paragraph C.

viii. Removing paragraph C.6.

ix. Redesignating paragraphs C.1 through C.5 as C.2 through C.6, respectively.

x. Adding paragraph C.1.

xi. Revising newly designated paragraph C.2 and paragraph C.8.

xii. Revising the introductory text of paragraph D and paragraphs D.2 and D.4.

xiii. Adding paragraph D.7.

h. Under Wassaw National Wildlife Refuge:

i. Revising the introductory text of paragraph C and paragraphs C.1, C.8, C.9, and C.18.

ii. Adding paragraphs C.21 and C.22.

iii. Revising the introductory text of paragraph D.

iv. Adding paragraphs D.3 and D.4.

i. Revising paragraph D under Wolf Island National Wildlife Refuge.

The revisions and additions read as follows:

§ 32.29 Georgia.

* * * * *

Banks Lake National Wildlife Refuge

* * * * *

D. Sport Fishing. * * *

5. We permit commercial fishing only by Special Use Permit (Commercial Activities Special Use Permit Application, FWS Form 3-1383-C) issued by the refuge manager.

6. We permit fishing tournaments by Special Use Permit (General Activities Special Use Permit Application, FWS Form 3-1383-G) issued by the refuge manager (fees may apply).

Blackbeard Island National Wildlife Refuge

* * * * *

C. Big Game Hunting. We allow hunting of white-tailed deer and feral hog on designated areas of the refuge in accordance with State regulations and subject to the following conditions:

1. We require a refuge hunt permit (name/address/phone number) for all hunters age 16 and older, which must be signed and carried at all times when hunting. We charge a fee for all hunt permits.

* * * * *

10. We prohibit the use of organized drives for taking or attempting to take game.

11. Hunters may take five deer (no more than two antlered), and we will issue State bonus tags for two of these. There is no bag limit on feral hog.

* * * * *

16. We close the refuge to the nonhunting public on all hunt days.

* * * * *

20. We prohibit hunters from bringing firewood to the refuge.

21. Persons possessing, transporting, or carrying firearms on national wildlife refuges must comply with all provisions of State and local law. Persons may only use (discharge) firearms in accordance with refuge regulations (see § 27.42 of this chapter and specific refuge regulations in part 32).

D. Sport Fishing. We allow fishing on designated areas of the refuge in accordance with State regulations and subject to the following conditions:

1. We allow saltwater fishing year-round in the estuarine waters adjacent to the refuge.

* * * * *

3. We require a Georgia fishing license and Saltwater Information Program (SIP) permit.

Bond Swamp National Wildlife Refuge

A. Migratory Game Bird Hunting. We allow hunting of waterfowl on designated areas of the refuge in accordance with State regulations and subject to the following conditions:

* * * * *

2. We require you to possess and carry a signed refuge hunt permit (signed brochure) and an additional refuge quota hunt permit for the quota hunts while hunting. You may obtain this permit and an application for the quota hunt from the refuge office.

* * * * *

6. We allow only nontoxic shot for hunting with the use of a shotgun in designated areas (see § 32.2(k)).

* * * * *

8. We allow access to the hunt area from 2 hours before legal sunrise until 2 hours after legal sunset.

9. We allow the use of hunting dogs for retrieving downed waterfowl during waterfowl hunts.

* * * * *

13. We prohibit entry into the designated hunt area by nonhunters during all quota deer‐gun and waterfowl hunts.

* * * * *

19. Youth hunters age 15 and younger must remain within sight and normal voice contact of an adult age 21 or older possessing a valid hunting license.

* * * * *

24. We prohibit all-terrain vehicles (ATVs) on the refuge except by wheelchair-bound hunters with a refuge Special Use Permit (General Activities—Special Use Permit Application, FWS Form 3-1383-G).

* * * * *

28. We prohibit leaving vehicles, boats, trailers, or decoys on the refuge overnight (see § 27.93 of this chapter).

* * * * *

30. We prohibit the possession or use of any suppressors or silencers on any firearm.

31. We prohibit the possession or use of any trail or game camera or leaving any other electronic device on the refuge.

32. We prohibit the possession or use of any night vision or thermal imaging equipment.

33. We prohibit the possession or use of any electronic calls.

34. We prohibit the training of dogs or release of birds.

35. We prohibit falconry.

36. We prohibit bicycles on foot travel roads or off road. We restrict bicycles to roads designated open to vehicles.

37. We prohibit audio equipment such as radios, other noise-making devices, or generators.

38. We prohibit horses or mules.

39. We prohibit construction of or hunting from permanent blinds for waterfowl. You may only place temporary blinds, blind material, and/or decoys on the day of the hunt, and you must remove them by 1:00 p.m. on that same day.

B. Upland Game Hunting. * * *

1. Conditions A1, A3 through A8, A10 through A12, and A14 through A38 apply.

2. We require you to possess and carry a signed refuge hunt permit (signed brochure) while hunting for upland game. The hunt brochure will serve as your hunt permit. You may obtain this permit from the refuge office.

* * * * *

4. We allow the use of hunting dogs while hunting for squirrel, rabbit, and quail.

5. You may place tree stands and hunting blinds during upland game and big game hunts on the day prior to each upland game and big game hunt. You must remove tree stands and hunting blinds by 11:00 a.m. on the day after the hunt.

C. Big Game Hunting. * * *

1. Conditions A1 through A8, A10 through A18, A20 through A38, and B5 apply.

* * * * *

6. For archery hunting, we require you to possess and carry a signed refuge hunt permit (signed brochure) while hunting. You may obtain this permit from the refuge office.

7. Youth hunters age 15 and younger must remain within sight and normal voice contact of an adult age 21 or older possessing a valid hunting license. One adult may supervise no more than one youth hunter.

D. Sport Fishing. * * *

1. We allow fishing from March 1 to October 31, except on the Ocmulgee River, which is open to fishing year‐round.

* * * * *

4. We allow boat launching at the Stone Creek Boat Launch. During periods of high water, we allow boats to be launched from refuge roads normally open to vehicle traffic. We allow gasoline motors only during periods of high water as defined as a reading of 18.0 feet (5.5 meters) or higher at the Macon Gauge on the Ocmulgee River.

5. Conditions A3, A4, A11, A15, A16, A20 through A32, and A36 through A38 apply.

6. We prohibit use or possession of alcoholic beverages while fishing on the refuge.

7. We require you to possess and carry a signed refuge fishing permit (signed brochure) while fishing. You may obtain this permit from the refuge office.

8. Youth fishermen age 15 and younger must remain within sight and normal voice contact of an adult age 21 or older possessing a valid fishing license.

* * * * *

Harris Neck National Wildlife Refuge

* * * * *

C. Big Game Hunting. We allow hunting of white-tailed deer and feral hog on designated areas of the refuge in accordance with State regulations and subject to the following conditions:

1. We require a refuge hunt permit (name/address/phone number) for all hunters age 16 and older, which must be signed and carried at all times when hunting. We charge a fee for all hunt permits.

* * * * *

5. We prohibit hunting within 100 yards (91.4 meters) of Harris Neck Road, the refuge entrance drive, Visitor Contact Station/Office, Barbour River Landing, Barbour River Road, or Gould's Cemetery.

6. We require hunters to check-in and check-out each hunt day. Personal identification is required.

7. We require hunters to check all harvested game at the check station before leaving the refuge each day.

* * * * *

10. Hunters must enter the refuge through the main entrance gate. We prohibit entry by boat.

* * * * *

12. During the gun hunt, we allow only shotguns (20 gauge or larger; slugs only), muzzleloaders, and bows in accordance with State regulations.

* * * * *

14. During the gun hunt, hunters must wear an outer garment with a minimum of 500 square inches (3,250 square centimeters) of hunter-orange material above the waistline.

* * * * *

20. Persons possessing, transporting, or carrying firearms on national wildlife refuges must comply with all provisions of State and local law. Persons may only use (discharge) firearms in accordance with refuge regulations (§ 27.42 of this chapter and specific refuge regulations in part 32).

D. Sport Fishing. We allow fishing on designated areas of the refuge in accordance with State regulations and subject to the following conditions:

* * * * *

3. We close the Barbour Landing (boat ramp and parking areas) to the public from 12 a.m. (midnight) to 4 a.m.

* * * * *

5. We require a Georgia fishing license and Saltwater Information Program (SIP) permit.

Okefenokee National Wildlife Refuge

* * * * *

C. Big Game Hunting. * * *

1. In the Pocket Unit:

i. We only allow archery hunting and foot traffic.

ii. You must sign in and out daily.

iii. You must remove tree stands daily (see § 27.93 of this chapter).

iv. We prohibit the use of dogs.

v. We prohibit hunting within 50 yards (45.7 meters) of any road opened for vehicular access.

vi. We prohibit possessing a cocked crossbow in a motor vehicle.

vii. We allow scouting 7 days prior to scheduled hunt.

viii. We prohibit shooting from a motor vehicle.

2. In the Suwannee Canal Unit:

i. We only allow two ½-day hunts (dates will be announced) and shotguns with slugs or muzzleloaders.

ii. We require a refuge permit (Big/Upland Game Hunt Application, FWS Form 3-2356) through refuge lottery (fee will be announced).

iii. Hunters must remain on stands from 30 minutes before legal sunrise until 9 a.m.

iv. You must sign in and sign out daily.

v. You must tag your deer with special refuge tags (obtained from Refuge Office). There is a limit of two deer of either sex per day.

vi. We zone Chesser Island Hunt area to accommodate wheelchair hunters.

vii. We prohibit hunting with dogs.

viii. We allow scouting 7 days prior to scheduled hunt.

ix. We prohibit shooting from a motor vehicle.

x. We prohibit taking or possessing any wildlife except during an open season for that species.

xi. Condition C.1.iii applies.

3. * * *

ii. Conditions B.1, C.1.iii, and C.1.iv apply.

D. Sport Fishing. * * *

1. You may use only 10 horsepower motors or less on the refuge.

* * * * *

4. We prohibit paddleboarding, air boats, swimming, and wading.

5. All boats must be off the water by posted time.

6. In the Suwannee Canal Unit, we prohibit fishing in ponds and canals along Swamp Island Drive.

Piedmont National Wildlife Refuge

* * * * *

B. Upland Game Hunting. * * *

2. We coordinate seasons and limits with the State and annually list them in the refuge hunt brochure.

3. You must possess and carry a signed refuge hunt permit (signed brochure) while hunting. You may obtain the permit from the refuge office.

4. We require a signed refuge hunt permit (signed brochure) to hunt on the Hitchiti Experimental Forest in accordance with refuge hunting seasons and regulations.

* * * * *

7. We allow access to the hunt area from 2 hours before legal sunrise until 2 hours after legal sunset.

* * * * *

10. You may use dogs on designated areas of the refuge for hunting quail, squirrel, rabbit, raccoon, and opossum in accordance with State regulations.

* * * * *

12. We prohibit use or possession of alcoholic beverages while hunting on the refuge (see § 32.2(j)).

13. Persons possessing, transporting, or carrying firearms on national wildlife refuges must comply with all provisions of State and local law. Persons may only use (discharge) firearms in accordance with refuge regulations (§ 27.42 of this chapter and specific refuge regulations in part 32).

14. We prohibit possession or use of any suppressors or silencer on any firearms.

15. We prohibit possession or use of trail or game cameras or leaving any other electronic device on the refuge.

16. We prohibit possession or use of any night vision or thermal imaging equipment.

17. We prohibit possession or use of any electronic calls.

18. We prohibit training of dogs or release of birds.

19. We prohibit falconry.

20. We prohibit bicycles on foot travel roads or off road. We restrict bicycles to gravel roads designated open to vehicles.

21. We prohibit overnight camping and/or parking.

22. We prohibit horses or mules.

23. We prohibit taking, collecting, or disturbing any artifact, property, plant, wildlife, or part thereof, other than that specifically allowed by refuge regulation (see §§ 27.61 and 27.62 of this chapter).

24. We prohibit open fires.

25. Youth hunters age 15 and younger must remain within sight and normal voice contact of an adult age 21 or older possessing a valid hunting license.

C. Big Game Hunting. * * *

1. Conditions B4 through B7, B12 through B18, B20, and B22 through B24 apply.

* * * * *

3. We require you to possess and carry a signed refuge hunt permit (signed brochure) while archery hunting. You may obtain this permit from the refuge office.

4. We require you to possess and carry a signed refuge hunt permit (signed brochure), pay a fee for the quota firearms hunts, and possess and carry an additional refuge quota hunt permit (name/address/phone number) for the quota hunts. You may obtain applications and information about the hunt drawing from the refuge office.

* * * * *

6. We prohibit entry into designated hunt areas by nonhunters during all quota deer hunts and the disabled deer hunts.

7. We prohibit overnight camping and/or parking except in the designated campground at Pippins Lake. You must have a valid, paid refuge quota hunt permit (name/address/phone number) during big game quota hunts or a signed refuge hunt permit (signed brochure) during the archery hunt to enter and use the campground.

* * * * *

13. We prohibit all-terrain vehicles (ATVs) on the refuge except by wheelchair-bound hunters with a special use permit (General Activities—Special Use Permit Application, FWS Form 3-1383-G).

* * * * *

D. Sport Fishing. * * *

1. We allow fishing from March 15 to September 30.

* * * * *

3. You may keep the following numbers of fish each day: bass—5, channel catfish—5, sunfish or bream—15, and crappie—15.

4. We allow nonmotorized boats or boats with electric motors on all ponds designated as open to fishing.

5. We prohibit use or possession of alcoholic beverages while fishing on the refuge.

* * * * *

8. We prohibit the use of fish for bait and the possession of minnows.

* * * * *

10. We prohibit possession or take of grass carp. You must immediately release any grass carp caught.

11. We require you to possess and carry a signed refuge fishing permit (signed brochure) while fishing. You may obtain this permit from the refuge office.

12. Youth fishermen age 15 and younger must remain within sight and normal voice contact of an adult age 21 or older possessing a valid fishing license.

Savannah National Wildlife Refuge

A. Migratory Game Bird Hunting. We allow hunting of duck and coot on designated areas of the refuge north of Georgia Highway 25/South Carolina Highway 170 in accordance with State regulations and subject to the following conditions:

1. For all hunters age 16 and older, we require a refuge hunt permit, which must be signed and carried at all times when hunting. We charge a fee for all hunt permits.

2. To participate in the youth waterfowl hunt, youth hunters must submit the Waterfowl Lottery Application (FWS Form 3-2355). We require an application fee to enter the hunt drawing.

* * * * *

4. We prohibit hunting within 100 yards (91.4 meters) of Georgia Highway 25/South Carolina Highway 170.

* * * * *

6. Persons possessing, transporting, or carrying firearms on national wildlife refuges must comply with all provisions of State and local law. Persons may only use (discharge) firearms in accordance with refuge regulations (§ 27.42 of this chapter and specific refuge regulations in part 32.)

B. Upland Game Hunting. We allow hunting of squirrel on designated areas of the refuge in accordance with State regulations and subject to the following conditions:

1. Conditions A1 and A6 apply.

2. We only allow rimfire rifles or shotguns with #2 shot or smaller for squirrel hunting.

* * * * *

6. Youth hunters age 15 and younger must remain within sight and normal voice contact of an adult age 21 or older, possessing a license. One adult may supervise no more than one youth hunter.

C. Big Game Hunting. We allow hunting of white‐tailed deer, turkey, and feral hog on designated areas of the refuge in accordance with State regulations and subject to the following conditions:

1. Conditions A1, A6, B3, B4, and B6 apply.

2. To participate in the gun hunt for wheelchair‐dependent hunters, hunters must submit the Quota Deer Hunt Application (FWS Form 3-2354). To participate in the Youth Turkey Hunt & Learn Weekend, youth hunters must submit the Big/Upland Game Hunt Application (FWS Form 3-2356). We require an application fee to enter these hunt drawings.

* * * * *

8. We allow shotguns with only #2 shot or smaller and bows, in accordance with State regulations, for turkey hunting. We prohibit the use of slugs or buckshot for turkey hunting.

* * * * *

D. Sport Fishing. We allow fishing on designated areas of the refuge in accordance with State regulations and subject to the following conditions:

* * * * *

2. Anglers may fish in Kingfisher Pond and all tidal creeks year-round.

* * * * *

4. Anglers may bank fish year‐round throughout the refuge, unless otherwise posted.

* * * * *

7. We require a Georgia fishing license for fishing in Georgia waters; we require a South Carolina freshwater fishing license for fishing in South Carolina waters (includes refuge impoundments and bank fishing from Laurel Hill Wildlife Drive).

Wassaw National Wildlife Refuge

* * * * *

C. Big Game Hunting. We allow hunting of white‐tailed deer and feral hog on designated areas of the refuge in accordance with State regulations and subject to the following conditions:

1. We require a refuge hunt permit, for all hunters age 16 and older, which must be signed and carried at all times when hunting. We charge a fee for all hunt permits.

* * * * *

8. We allow only bows and muzzleloading rifles, in accordance with State regulations, for deer and hog hunting during primitive weapons hunt.

9. We allow only shotguns (20 gauge or larger; slug only), center‐fire rifles (.22 caliber or larger), bows, and primitive weapons, in accordance with State regulations, for deer and hog hunting during the gun hunt.

* * * * *

18. We will close the refuge to the nonhunting public on all hunt days.

* * * * *

21. We prohibit hunters from bringing firewood to the refuge.

22. Persons possessing, transporting, or carrying firearms on national wildlife refuges must comply with all provisions of State and local law. Persons may only use (discharge) firearms in accordance with refuge regulations (§ 27.42 of this chapter and specific refuge regulations in part 32.)

D. Sport Fishing. We allow fishing on designated areas of the refuge in accordance with State regulations and subject to the following conditions:

* * * * *

3. We prohibit freshwater fishing.

4. We require a Georgia fishing license and Saltwater Information Program (SIP) permit.

Wolf Island National Wildlife Refuge

* * * * *

D. Sport Fishing. Anglers may fish in designated areas of the refuge in accordance with State regulations and subject to the following conditions:

1. We allow saltwater fishing year-round in the estuarine waters adjacent to the refuge.

2. We close all beach, marsh, and upland areas to the public.

3. We require a Georgia fishing license and Saltwater Information Program (SIP) permit.

* * * * *

10. Amend § 32.32 by:

a. Adding paragraph B.6 under Crab Orchard National Wildlife Refuge.

b. Under Cypress Creek National Wildlife Refuge:

i. Adding paragraph A.6.

ii. Revising paragraphs B.1 and C.1.

iii. Removing paragraph C.3.

c. Under Emiquon National Wildlife Refuge:

i. Adding paragraph A.5.

ii. Revising paragraph B.

iii. Revising paragraph C.1.

d. Revising paragraphs A, B, and C under Great River National Wildlife Refuge.

e. Under Middle Mississippi River National Wildlife Refuge:

i. Adding paragraph A.4.

ii. Revising paragraphs B.2 and C.1.

iii. Removing paragraph C.3.

iv. Redesignating paragraphs C.4 through C.6 as C.3 through C.5, respectively.

f. Under Port Louisa National Wildlife Refuge:

i. Revising paragraphs A, B, and C.

ii. Adding paragraph D.6.

g. Under Two Rivers National Wildlife Refuge:

i. Revising the introductory text of paragraph A.

ii. Adding paragraph A.3.

iii. Revising the introductory text of paragraph B and paragraph B.2.

iv. Adding paragraph B.3.

v. Revising the introductory text of paragraph C and paragraph C.3.

The additions and revisions read as follows:

§ 32.32 Illinois.

* * * * *

Crab Orchard National Wildlife Refuge

* * * * *

B. Upland Game Hunting. * * *

6. For hunting, you may use or possess only approved nontoxic shot shells (see § 32.2(k)).

* * * * *

Cypress Creek National Wildlife Refuge

A. Migratory Game Bird Hunting. * * *

6. For hunting, you may use or possess only approved nontoxic shot shells while in the field, including shot shells used for hunting wild turkey (see § 32.2(k)).

B. Upland Game Hunting. * * *

1. Conditions A1, A2, A4, A5, and A6 apply.

* * * * *

C. Big Game Hunting. * * *

1. Conditions A1, A2, A4, and A5 apply. Condition A6 applies to wild turkey only.

* * * * *

Emiquon National Wildlife Refuge

A. Migratory Game Bird Hunting. * * *

5. For hunting, you may use or possess only approved nontoxic shot shells while in the field, including shot shells used for hunting wild turkey (see § 32.2(k)).

B. Upland Game Hunting. We allow upland game hunting on designated areas of the refuge in accordance with State regulations and subject to the following condition: Conditions A4 and A5 apply.

C. Big Game Hunting. * * *

1. Condition A4 applies. Condition A5 applies to wild turkey only.

* * * * *

Great River National Wildlife Refuge

A. Migratory Game Bird Hunting. We allow hunting of waterfowl and coot on the Long Island Division of the refuge in accordance with State and Federal regulations and subject to the following conditions:

1. We allow hunting only from blinds constructed on sites posted by the Illinois Department of Natural Resources.

2. For hunting, you may use or possess only approved nontoxic shot shells while in the field, including shot shells used for hunting wild turkey (see § 32.2(k)).

B. Upland Game Hunting. We allow hunting of small game, furbearers, and game birds on the Long Island, Fox Island, Cherry Box, and Hickory Creek Divisions of the refuge in accordance with State regulations and subject to the following conditions:

1. Condition A2 applies.

2. We open refuge divisions for upland game hunting from ½ hour before legal sunrise to ½ hour after legal sunset.

3. We allow hunting with shotgun only during the Statewide upland game season.

4. We close Fox Island Division to all upland game hunting from October 16 through December 31.

C. Big Game Hunting. We allow hunting of white-tailed deer and turkey on designated portions of the refuge in accordance with State regulations and subject to the following conditions:

1. Condition A2 applies, except for when hunting for white-tailed deer.

2. We prohibit construction or use of permanent blinds, platforms, or ladders (see § 27.92 of this chapter).

3. We only allow portable tree stands from September 1 through January 31 of each year. The hunter's full name, address, and State-generated hunter identification number must be permanently attached in a visible location on the stand. Limit one stand per hunter.

4. We prohibit hunting over or placing on the refuge any salt or other mineral blocks (see § 32.2(h)).

5. On the Fox Island Division, we only allow deer hunting during the Statewide archery deer season only.

6. On the Cherry Box and Hickory Creek divisions, we allow deer hunting during the Statewide archery deer season only.

7. On the Delair Division, we only allow deer hunting during special managed hunts and subject to the following conditions:

i. You must possess and carry a refuge permit (hunt letter) when hunting.

ii. You must register at the hunter sign-in/out station and record the sex and age of deer harvested on the Big Game Harvest Report (FWS Form 3-2359).

iii. Shooting hours end at 3 p.m. each day.

8. On the Long Island Division, we allow deer and turkey hunting in accordance with State seasons and regulations.

9. On the Fox Island, Cherry Box, and Hickory Creek Divisions, we allow turkey hunting during the state spring season, youth season, and fall archery season.

* * * * *

Middle Mississippi River National Wildlife Refuge

A. Migratory Game Bird Hunting. * * *

4. For hunting, you may use or possess only approved nontoxic shot shells while in the field, including shot shells used for hunting wild turkey (see § 32.2(k)).

B. Upland Game Hunting. * * *

2. Condition A4 applies.

C. Big Game Hunting. * * *

1. Conditions A1 and A2 apply. Condition A4 applies to wild turkey only.

* * * * *

Port Louisa National Wildlife Refuge

A. Migratory Game Bird Hunting. We allow hunting of migratory game birds on designated areas of the refuge in accordance with State regulations and subject to the following conditions:

1. We allow hunting of migratory game birds on the Big Timber Division and Iowa River Corridor Lands. We prohibit hunting of migratory game birds on the Louisa, Horseshoe Bend, and Keithsburg Divisions.

2. You must remove boats, decoys, and portable blinds (see § 27.93 of this chapter) at the end of each day.

3. For hunting, you may use or possess only approved nontoxic shot shells (see § 32.2(k)).

4. On the Big Timber Division, we allow portable blinds on a daily basis at any location on first-come, first-served basis.

B. Upland Game Hunting. We allow hunting of upland game on designated areas of the refuge in accordance with State regulations and subject to the following conditions:

1. We allow hunting of upland game on the Big Timber, Keithsburg, and Horseshoe Bend Divisions, and on Iowa River Corridor Lands. We prohibit hunting of upland game on any other areas of the refuge.

2. Condition A3 applies to upland game. You may use lead shot to hunt turkey. We allow shotgun slug or muzzleloading rifle for hunting coyotes.

3. We only allow squirrel hunting on the Keithsburg Division from the beginning of the State season to September 15.

4. We allow hunting on the Horseshoe Bend Division from September 1 until September 15 and December 1 until the end of the State seasons. We allow spring turkey hunting.

5. We allow hunting on the Big Timber Division from September 1 until the end of the State seasons. We allow spring turkey hunting.

C. Big Game Hunting. We allow hunting of white-tailed deer on designated areas of the refuge in accordance with State regulations and subject to the following conditions:

1. We allow hunting of white-tailed deer only on Big Timber Division, on Horseshoe Bend Division, and on Iowa River Corridor Lands. We prohibit hunting of white-tailed deer on any other areas of the refuge.

2. We only allow the use of portable stands, and hunters must remove them at the end of each day (see § 27.93 of this chapter).

3. We close Horseshoe Bend Division to all public access from September 15 until December 1.

D. Sport Fishing. * * *

6. We allow sport fishing on Iowa River Corridor lands subject to the following condition: Condition D4 applies.

Two Rivers National Wildlife Refuge

A. Migratory Game Bird Hunting. We allow hunting of migratory game birds only on the Apple Creek Division and the portion of the Calhoun Division east of the Illinois River Road in accordance with State regulations and subject to the following conditions:

* * * * *

3. For hunting, you may use or possess only approved nontoxic shot shells while in the field, including shot shells used for hunting wild turkey (see § 32.2(k)).

B. Upland Game Hunting. We allow upland game hunting for wild turkey, small game, furbearers, and nonmigratory game birds on the Apple Creek Division and the portion of the Calhoun Division east of the Illinois River Road in accordance with State regulations and subject to the following conditions:

* * * * *

2. We allow turkey hunting only on the Clarksville Island Division. We restrict turkey hunting to archery only in the fall and shotgun or archery in the spring.

3. Condition A3 applies.

C. Big Game Hunting. We allow hunting of white-tailed deer on the Apple Creek Division and the portion of the Calhoun Division east of the Illinois River Road in accordance with State regulations and subject to the following conditions:

* * * * *

3. We restrict white-tailed deer hunting on the Clarksville Island Division to archery only.

* * * * *

11. Amend § 32.33 by:

a. Revising paragraphs B.4, C.1, C.7, and D.7 under Muscatatuck National Wildlife Refuge.

b. Under Patoka River National Wildlife Refuge and Management Area:

i. Revising paragraph B.1.

ii. Revising the introductory text of paragraph C and paragraph C.3.

iii. Adding paragraphs C.4, C.5, and C.6.

iv. Revising paragraph D.2.iii.

The additions and revisions read as follows:

§ 32.33 Indiana.

* * * * *

Muscatatuck National Wildlife Refuge

* * * * *

B. Upland Game Hunting. * * *

4. For hunting, you may use or possess only approved nontoxic shot shells while in the field, including shot shells used for hunting wild turkey (see § 32.2(k)).

* * * * *

C. Big Game Hunting. * * *

1. Conditions B1, B5, and B7 apply. Condition B4 applies only to wild turkey.

* * * * *

7. We require all hunters to display a Big Game Harvest Report (FWS Form 3-2359), with name and date filled in, on their vehicle dashboard while hunting. Hunters may obtain a copy of the Big Game Harvest Report at registration boxes. Deer and turkey hunters must leave the completed form at a registration box before departing the refuge.

* * * * *

D. Sport Fishing. * * *

7. We allow only children younger than age 16 to fish in the Discovery Pond.

Patoka River National Wildlife Refuge and Management Area

* * * * *

B. Upland Game Hunting. * * *

1. Hunters must register to hunt furbearers at the refuge office, record the number of furbearers harvested on the Upland Game Hunt Report (FWS Form 3-2362), and return the completed form to the refuge office after the hunting season.

* * * * *

C. Big Game Hunting. We allow hunting of white-tailed deer and wild turkey in accordance with State regulations and subject to the following conditions:

* * * * *

3. On the Columbia Mine Unit, you may only hunt white-tailed deer during the first week (7 days) of the following State-defined seasons: archery, firearms, and muzzleloader.

4. On the Columbia Mine Unit, you may only hunt wild turkey during the State-defined spring season. We prohibit fall season wild turkey hunting on the Columbia Mine Unit.

5. On the Columbia Mine Unit, you may leave portable tree stands overnight only when the unit is open to hunting and for a 2-day grace period before and after the special season.

6. Conditions A6 through A8 apply.

D. Sport Fishing. * * *

2. * * *

iii. The minimum size limit for largemouth bass on Snakey Point Marsh and on the Columbia Mine Unit is 14 inches (35.6 centimeters).

* * * * *

12. Amend § 32.34 by:

a. Adding, in alphabetical order, an entry for Iowa Wetland Management District.

b. Under Northern Tallgrass Prairie National Wildlife Refuge:

i. Revising the introductory text of paragraph A.

ii. Revising the introductory text of paragraph B.

iii. Adding paragraph C.5.

c. Under Union Slough National Wildlife Refuge:

i. Revising paragraphs A.1, A.2, A.3, and A.4.

ii. Revising the introductory text of paragraph B and paragraphs B.2 and B.4.

iii. Revising paragraph C.

iv. Removing paragraph D.1.

v. Redesignating paragraphs D.2 through D.4 as D.1 through D.3, respectively.

vi. Revising newly designated paragraph D.2.

The revisions and addition read as follows:

§ 32.34 Iowa.

* * * * *

Iowa Wetland Management District

A. Migratory Game Bird Hunting. We allow hunting of migratory game birds throughout the district in accordance with State regulations and subject to the following condition: For hunting, you may use or possess only approved nontoxic shot shells while in the field, including shot shells used for hunting wild turkey (see § 32.2(k)).

B. Upland Game Hunting. We allow upland game hunting throughout the district in accordance with State regulations and subject to the following condition: For hunting, you may use or possess only approved nontoxic shot shells while in the field, including shot shells used for hunting wild turkey (see § 32.2(k)).

C. Big Game Hunting. We allow big game hunting throughout the district in accordance with State regulations.

D. Sport Fishing. [Reserved]

* * * * *

Northern Tallgrass Prairie National Wildlife Refuge

A. Migratory Game Bird Hunting. We allow hunting of ducks, geese, mergansers, coots, rails (Virginia and sora only), woodcock, snipe, and doves (mourning and Eurasian collared) on designated areas in accordance with State regulations and subject to the following conditions:

* * * * *

B. Upland Game Hunting. We allow hunting of ring-necked pheasant, bobwhite quail, gray partridge, cottontail rabbit, squirrel (fox and gray), groundhog, raccoon, opossum, fox (red and gray), coyote, badger, striped skunk, and crow on designated areas in accordance with State regulations and subject to the following conditions:

* * * * *

C. Big Game Hunting. * * *

5. While hunting wild turkey, you may use only approved nontoxic shot shells (see § 32.2(k)).

* * * * *

Union Slough National Wildlife Refuge

A. Migratory Game Bird Hunting. * * *

1. We allow hunters on the refuge from 1 hour before legal sunrise until 1 hour after legal sunset.

2. For hunting, you may use or possess only approved nontoxic shot shells while in the field, including shot shells used for hunting wild turkey (see § 32.2(k)).

3. We allow boats or other floating devices. We allow electric motors only. We prohibit the use of air-thrust boats. You may not leave boats unattended.

4. You may construct blinds using manmade materials or natural vegetation found on the refuge. We prohibit bringing plants or their parts onto the refuge.

* * * * *

B. Upland Game Hunting. We allow hunting of pheasant, gray partridge, cottontail rabbit, squirrel (fox and gray), groundhog, raccoon, opossum, fox, coyote, and crow on Buffalo Creek Bottoms, Schwob Marsh, and the Core Area in accordance with State regulations and subject to the following conditions:

* * * * *

2. We prohibit possession of shotgun slugs.

* * * * *

4. Conditions A2, A6, A7, and A8 apply.

C. Big Game Hunting. We allow hunting of deer and turkey on Buffalo Creek Bottoms, Schwob Marsh, and the Core Area in accordance with State regulations and subject to the following conditions:

1. Conditions B1 and A8 apply. Condition A2 applies only to wild turkey.

2. Deer hunters in the Core Area must possess a valid State deer hunting license and an unfilled State-issued transportation tag.

3. We allow portable tree stands, portable blinds, and freestanding elevated platforms to be left on the refuge from 7 days prior to the first deer hunting season; they must be removed prior to 7 days following the last deer hunting season. Turkey hunters must remove blinds and stands each day.

4. You must label portable tree stands, portable blinds, and freestanding elevated platforms with your name, address, and phone number if left unattended. The label must be legible from the ground.

5. You must remove any other personal property brought onto the area at the end of each day (see §§ 27.93 and 27.94 of this chapter).

6. We only allow deer hunters on the refuge from 1 hour before legal sunrise until 1 hour after legal sunset.

7. Deer hunters may possess only shot shells that shoot a single projectile (i.e., slugs).

8. We prohibit turkey hunting in the Core Area at all times.

9. We only allow turkey hunters on the refuge from 1 hour before legal sunrise until 1 hour after legal sunset.

10. We allow the use of temporary stands, blinds, platforms, or ladders. You may construct blinds using manmade materials or natural vegetation found on the refuge. We prohibit bringing plants or their parts onto the refuge.

11. We prohibit entry into any closed area to retrieve downed game, unless the hunter has received written permission from the refuge manager.

D. Sport Fishing. * * *

2. We allow fishing from boats on the Buffalo Creek Bottoms; however, we prohibit the use of gasoline motors.

* * * * *

13. Amend § 32.36 by revising the entry for Reelfoot National Wildlife Refuge to read as follows:

§ 32.36 Kentucky.

* * * * *

Reelfoot National Wildlife Refuge

Refer to § 32.62 Tennessee for regulations.

* * * * *

14. Amend § 32.37 by:

a. Revising paragraphs A.1, A.10, A.15, B.4, and C.12 under Bayou Cocodrie National Wildlife Refuge.

b. Under Big Branch Marsh National Wildlife Refuge:

i. Revising paragraph A.5 and B.1.

ii. Adding paragraph B.5.

iii. Revising paragraph C.8.

c. Under Bogue Chitto National Wildlife Refuge:

i. Revising paragraphs A.3, A.4, A.7, A.9, B.4, B.5, and C.6.

ii. Removing paragraphs C.7 and C.9.

iii. Redesignating paragraph C.8 as C.7.

iv. Revising newly designated paragraph C.7.

v. Redesignating paragraphs C.10 through C.12 as C.8 through C.10, respectively.

vi. Revising newly designated paragraph C.8.

vii. Adding paragraph D.8.

d. Revising paragraph A.2 under Cameron Prairie National Wildlife Refuge.

e. Revising paragraphs A.1, A.3, A.7, B.2, and C.3 under Cat Island National Wildlife Refuge.

f. Revising paragraph A.3 under Lacassine National Wildlife Refuge.

g. Revising paragraph A.3 under Sabine National Wildlife Refuge.

h. Under Tensas River National Wildlife Refuge:

i. Redesignating paragraphs A.1 through A.11 as A.3 through A.13, respectively.

ii. Adding paragraphs A.1 and A.2.

iii. Revising newly designated paragraphs A.3, A.6, A.7, A.10, and A.13.

iv. Revising paragraphs B.1, B.2, B.5, and B.6.

v. Revising paragraphs C.2, C.3, C.4, C.5, C.6, C.9, C.14, and C.16.

vi. Redesignating paragraphs D.1 through D.5 as D.3 through D.7, respectively.

vii. Adding paragraphs D.1 and D.2.

viii. Revising newly designated paragraph D.6.

The revisions and additions read as follows:

§ 32.37 Louisiana.

* * * * *

Bayou Cocodrie National Wildlife Refuge

A. Migratory Game Bird Hunting. * * *

1. We require that all hunters and anglers age 16 and older purchase an annual public use permit (name/address/telephone number). We waive the fee for individuals age 60 and older. The refuge user is required to sign, certifying that you understand and will comply with all regulations, and carry this permit at all times while on the refuge.

* * * * *

10. Refuge users must check all game taken before leaving the refuge at one of the self‐clearing check stations indicated on the map in the refuge public use brochure (name only).

* * * * *

15. Each refuge user must obtain a daily use reporting card (one per person) and place it on the dashboard of their vehicle or in their boat where their personal information (name/city/state/zip code) is readable and in plain view. Users must complete all the information requested (name/address/phone number) and return the cards to the refuge kiosk/check stations upon departure from the refuge.

* * * * *

B. Upland Game Hunting. * * *

4. While engaged in upland game hunting, we prohibit possession of hunting firearms (see § 27.42 of this chapter) larger than .22 caliber rimfire, shotgun slugs, or buckshot.

* * * * *

C. Big Game Hunting. * * *

12. There is a $5 application fee per person for the lottery gun hunt application (name/address/phone number).

* * * * *

Big Branch Marsh National Wildlife Refuge

A. Migratory Game Bird Hunting. * * *

5. You must possess and carry a valid refuge hunt permit (signed brochure).

* * * * *

B. Upland Game Hunting. * * *

1. We allow upland game hunting during the open State season using only approved nontoxic shot (see § 32.2(k)) size 4 or smaller or .17 or .22 caliber rimfire rifles or smaller.

* * * * *

5. All hunters, including archers (while on the ground), except waterfowl hunters must wear a hunter orange cap or hat during the dog season for squirrel and rabbit.

C. Big Game Hunting. * * *

* * * * *

8. Conditions A5 through A10, A12 through A18, and B5 apply.

* * * * *

Bogue Chitto National Wildlife Refuge

A. Migratory Bird Hunting. * * *

3. We allow public hunting on designated areas during the open State season for listed migratory game bird species. We designate areas where public use is restricted in the refuge hunt permit (signed brochure) or by designated signage.

4. When hunting for migratory game birds, we only allow dogs to locate, point, and retrieve.

* * * * *

7. We prohibit hunting within 150 feet (45.7 meters) from the centerline of any public road, refuge road, designated or maintained trail, building, residence, designated public facility, or from or across aboveground oil or gas or electric facilities. We prohibit hunting in refuge-designated closed areas, which we post on the refuge and identify in the refuge hunt permits.

* * * * *

9. We allow primitive camping within 100 feet (30.5 meters) of designated streams. These include either bank of the Boque Chitto River, Wilson Slough, and West Pearl River south of Wilson Slough, refuge lands along the East Pearl River, and Holmes Bayou. Campers must mark their campsite with the owner's name, address, phone number, and dates of occupancy placed in a conspicuous location in the center of camp.

* * * * *

B. Upland Game Hunting. * * *

4. All hunters in Louisiana (including archery hunters and small game hunters), except waterfowl hunters, must wear and display not less than 400 square inches (2,580.6 square centimeters) of unbroken hunter-orange as the outermost layer of clothing on the chest and back and a hunter-orange cap during deer gun seasons. We require all deer hunters to display a minimum of 400 square inches (2,580.6 square centimeters) of hunter-orange or a hunter-orange cap or hat while walking to and from elevated stands. All hunters in Mississippi must wear not less than 500 square inches (3,225.8 square centimeters) of hunter-orange in place of the 400 square inches (2,580.6 square centimeters) requirement described for Louisiana. All hunters, including archers (while on the ground), except waterfowl hunters, must wear a hunter-orange cap during the dog season for squirrels and rabbits. Deer hunters hunting from concealed blinds must display a minimum of 400 square inches (2,580.6 square centimeters) of hunter-orange above or around their blinds that is visible from 360 degrees.

5. Conditions A5 through A17 apply, except you may use .22- caliber rifles or smaller, and the nontoxic shot in your possession while hunting must be size 4 or smaller (see § 32.2(k)).

C. Big Game Hunting. * * *

6. Legal primitive weapons/firearms used for hunting during the primitive weapons/firearm season are defined by State regulation.

7. We prohibit the use of dogs unless noted otherwise.

8. You may take hog as incidental game while participating in the refuge archery, primitive weapon, and general gun deer hunts and where otherwise specified. We list specific dates for the special hog hunts in February and March in the refuge hunt permit (signed brochure). During the special hog hunts in February, you must use trained hog-hunting dogs to aid in the take of hog. During the special hog hunts, you may take hog from ½ hour before legal sunrise until ½ hour after legal sunset, and you must use pistol or rifle ammunition not larger than .22 caliber rimfire or shotgun with nontoxic shot to take the hog after it has been caught by dogs (see § 32.2(k)). During the special hog hunt in March, you may use any legal hunting firearm. Condition A8 applies during special hog hunts in February.

* * * * *

D. Sport Fishing. * * *

8. The Pearl River Turnaround area, when open, is daylight use only.

* * * * *

Cameron Prairie National Wildlife Refuge

A. Migratory Game Bird Hunting. * * *

2. We prohibit entrance to the waterfowl hunting area earlier than 4 a.m. Shooting hours for waterfowl hunts end at 2 p.m. each day.

* * * * *

Cat Island National Wildlife Refuge

A. Migratory Game Bird Hunting. * * *

1. We require that all hunters and anglers age 16 and older purchase an annual public use permit (name/address/telephone number). We waive the fee for hunters age 65 and older. The refuge user is required to sign, certifying that you understand and will comply with all regulations, and carry this permit at all times while on the refuge.

* * * * *

3. You may possess only approved nontoxic shot while hunting on the refuge (see § 32.2(k)). This requirement applies only to the use of shotgun ammunition.

* * * * *

7. Refuge users must check all game (name) taken prior to leaving the refuge at one of the self-clearing check stations indicated on the map in the refuge public use brochure.

* * * * *

B. Upland Game Hunting. * * *

2. While upland game hunting, we prohibit the possession of hunting firearms larger than 0.22 caliber rimfire, shotgun slugs, and buckshot (see § 27.42 of this chapter).

* * * * *

C. Big Game Hunting. * * *

3. There is a $5 application fee per person for each lottery hunt application (name/address/phone number).

* * * * *

Lacassine National Wildlife Refuge

A. Migratory Bird Hunting. * * *

3. We prohibit entrance to the waterfowl hunting area earlier than 4 a.m. Shooting hours end at 2 p.m. each day.

* * * * *

Sabine National Wildlife Refuge

A. Migratory Bird Hunting. * * *

3. We prohibit entrance to the waterfowl hunting area earlier than 4 a.m. Shooting hours end at 2 p.m. each day.

* * * * *

Tensas River National Wildlife Refuge

A. Migratory Game Bird Hunting. * * *

1. Hunters must possess and carry a signed refuge access permit (signed brochure) when hunting.

2. We require that all hunters must check-in/check-out daily at their closest entrance point using the Visitor Check-in Permit and Report (FWS Form 3-2405) for all recreational activities.

3. We allow hunting of duck and coot on Tuesdays, Thursdays, Saturdays, and Sundays until 2:00 p.m. during the State season. We prohibit migratory bird hunting during refuge gun hunts for deer.

* * * * *

6. We allow hunting shotguns equipped with a single-piece magazine plug that allows the gun to hold no more than two shells in the magazine and one in the chamber. We prohibit target practicing or shooting to unload modern firearms on the refuge at any time. Shotgun hunters must possess only an approved nontoxic shot when hunting migratory birds (see § 32.2(k)). Persons possessing, transporting, or carrying firearms on national wildlife refuges must comply with all provisions of State and local law. Persons may only use (discharge) firearms in accordance with refuge regulations (§ 27.42 of this chapter and specific refuge regulations in part 32).

7. We prohibit permanent or pit blinds on the refuge. You must remove all blind materials and decoys by 2 p.m. daily.

* * * * *

10. We allow all-terrain vehicle (ATV) travel on designated trails for access typically from September 15 to the last day of the refuge squirrel season. We open designated trails from 4 a.m. to no later than 2 hours after legal sunset unless otherwise specified. We define an ATV as an off-road vehicle (not legal for highway use) with factory specifications not to exceed the following: Weight 750 pounds (337.5 kilograms), length 85 inches (212.5 centimeters (cm)), and width 48 inches (121.9 cm). We restrict ATV tires to those no larger than 25 inches (62.5 cm) x 12 inches (30 cm) with a 1-inch (2.5 cm) lug height and maximum allowable tire pressure of 7 psi. We require a permanently affixed refuge ATV permit that hunters may obtain from the refuge headquarters. Hunters/anglers using the refuge handicapped all-terrain trails must possess the State's Physically Challenged Program Hunter Permit or be age 60 or older. Additional physically challenged access information will be available at the refuge headquarters.

* * * * *

13. An adult at least age 18 must supervise youth hunters younger than age 16 during all hunts. One adult may supervise two youths during small game and migratory bird hunts but may supervise only one youth during big game hunts. Youth must remain within normal voice contact of the adult who is supervising them. Parents or adult guardians are responsible for ensuring that hunters younger than age 16 do not engage in conduct that would constitute violation of refuge regulations.

B. Upland Game Hunting. * * *

1. We allow nighttime raccoon hunting beginning typically the third Saturday in December and typically ending the third Sunday in January. We allow raccoon hunters to hunt from legal sunset to legal sunrise with the aid of dogs, horses, mules, and use of lights. We allow such use of lights on the refuge only at the point of kill. We prohibit all other use of lights for hunting on the refuge. Hunt dates will be available at refuge headquarters typically in July. We prohibit ATVs during the raccoon hunt. Hunters must attempt to take treed raccoons.

2. We allow squirrel and rabbit hunting with and without dogs. We will allow hunting without dogs from the beginning of the State season to a date typically ending the day before the refuge deer firearms hunt. We do not require hunters to wear hunter orange during the squirrel and rabbit season without dogs. Squirrel and rabbit hunting with or without dogs will begin typically the second Monday in January and will conclude the last day of February, but will re-open for Louisiana State Spring Season, typically during May. We require a minimum of a solid-hunter-orange cap during the squirrel season with or without dogs. We allow no more than three dogs per hunting party.

* * * * *

5. When hunting, we allow .22 caliber and smaller rimfire weapons or shotguns equipped with a single-piece magazine plug that allows the shotgun to hold no more than two shells in the magazine and one in the chamber. We prohibit target practicing or shooting to unload modern firearms on the refuge at any time. Shotgun hunters must possess only an approved nontoxic shot when hunting upland game (see § 32.2(k)). Persons possessing, transporting, or carrying firearms on national wildlife refuges must comply with all provisions of State and local law. Persons may only use (discharge) firearms in accordance with refuge regulations (§ 27.42 of this chapter and specific refuge regulations in part 32).

6. Conditions A1, A2, A4, A8, A9, A10, A11, A12, and A13 apply.

C. Big Game Hunting. * * *

2. The deer primitive firearms season will occur between November 1 and January 31. Legal primitive firearms for primitive season include:

i. Hunting rifles, .44 caliber minimum, all of which must load exclusively from the muzzle or cap and ball cylinder; use of black powder or approved substitute only; use of ball or bullet projectile only, including saboted bullets, including muzzleloaders known as “in line” muzzleloaders; and

ii. Single-shot, breech-loading hunting rifles, .35 caliber or larger of a kind or type manufactured prior to 1900 and relics, reproductions, or reintroductions of that type of rifle having an exposed hammer that use metallic cartridges loaded with black powder or modern smokeless powder.

3. During the deer primitive firearms season, hunters may fit any legal primitive hunting firearm with magnified scopes. We allow hunters using primitive weapons described as muzzleloader (including in-line) (see C.2.i.) to hunt reforested areas. We prohibit hunters using primitive weapons described in C.2.ii. from hunting in reforested areas.

4. We will conduct two quota-modern-firearms hunts for deer typically in the months of November and/or December. We will make hunt dates and permit application procedures available at refuge headquarters no later than August. We restrict hunters using a primitive firearm during this hunt access to areas where we allow modern firearms. We prohibit hunting and/or shooting into or across any reforested area during the quota hunt for deer. We require a quota hunt permit (Quota Deer Hunt Application, FWS Form 3-2354) for these hunts.

5. We will conduct guided quota youth deer hunts and guided quota deer hunts for full-time wheelchair users in the Greenlea Bend area typically in December and January. We will make hunt dates and permit application procedures (Quota Deer Hunt Application, FWS Form 3-2354) available at the refuge headquarters typically in July. For the guided quota youth hunts, we consider youth to be ages 8 through 15.

6. We will conduct a refuge-wide youth deer hunt. We will make hunt dates available at refuge headquarters typically in July. An adult at least age 18 must supervise youth hunters younger than age 16 during all hunts. One adult may supervise two youths during small game and migratory bird hunts but may supervise only one youth during big game hunts. Youth must remain within normal voice contact of the adult who is supervising them. Parents or adult guardians are responsible for ensuring that hunters younger than age 16 do not engage in conduct that would constitute violation of refuge regulations.

* * * * *

9. Conditions A1, A2, A4, A8, A9, A10, A11, and A12 apply.

* * * * *

14. We require deer hunters using primitive firearms or modern firearms to display 400 square inches (2,580.6 square centimeters) of solid hunter-orange consisting of a solid-hunter-orange cap on their head and a solid hunter-orange vest over their outermost garment covering their chest and back. Hunters must display the solid-hunter-orange items the entire time while in the field.

* * * * *

16. We allow hunting with slugs, rifle, or pistol ammunition larger than .22 caliber rimfire only during the quota hunts for deer. We prohibit use of buckshot when hunting. Persons possessing, transporting, or carrying firearms on national wildlife refuges must comply with all provisions of State and local law. Persons may only use (discharge) firearms in accordance with refuge regulations (see § 27.42 of this chapter and specific refuge regulations in part 32).

* * * * *

D. Sport Fishing. * * *

1. Anglers must possess and carry a signed refuge access permit (signed brochure) when fishing.

2. We require that all anglers must check-in/check-out daily at their closest entrance point using the Visitor Check-in Permit and Report (FWS Form 3-2405) for all recreational activities.

* * * * *

6. Conditions A8, A9, and A11 apply.

* * * * *

15. Amend § 32.38 by:

a. Under Moosehorn National Wildlife Refuge:

i. Revising the introductory text of paragraph A.

ii. Redesignating paragraphs B.1 through B.4 as B.3 through B.6, respectively.

iii. Adding paragraphs B.1 and B.2.

iv. Revising newly designated paragraph B.3.

v. Revising paragraphs C.1 and D.1.

vi. Redesignating paragraphs D.5 and D.6 as D.7 and D.8, respectively.

vii. Redesignating paragraph D.4 as D.5.

viii. Adding paragraphs D.4 and D.6.

ix. Revising newly designated D.7.

b. Under Rachel Carson National Wildlife Refuge:

i. Revising paragraph A.1.

ii. Revising paragraphs C.1 and C.7.

iii. Redesignating paragraphs D.10 through D.14 as D.11 through D.15, respectively.

iv. Adding paragraph D.10.

c. Revising paragraph C.6 under Umbagog National Wildlife Refuge.

The additions and revisions read as follows:

§ 32.38 Maine.

* * * * *

Moosehorn National Wildlife Refuge

A. Migratory Game Bird Hunting. We allow hunting of duck, goose, American woodcock, and Wilson's snipe on designated areas of the Baring and Edmunds Division of the refuge in accordance with State regulations and subject to the following conditions:

* * * * *

B. Upland Gaming Hunting. * * *

1. We require every hunter to possess and carry a personally signed Big/Upland Game Hunt Application (FWS Form 3-2356). Permits and regulations are available from the refuge in person during normal business hours (8 a.m. to 4:30 p.m. Monday through Friday; closed on holidays) or by contacting the Project Leader at (207) 454-7161, or by mail (Moosehorn National Wildlife Refuge, 103 Headquarters Road, Baring, ME 04694).

2. You must annually complete a Big Game Harvest Report (FWS Form 3-2359) and submit it by mail or in person at the refuge headquarters no later than 2 weeks after the close of the hunting season in March. If you do not comply with this requirement, we may suspend your future hunting privileges on Moosehorn National Wildlife Refuge.

3. Conditions A9, A11, and A12 apply.

* * * * *

C. Big Game Hunting. * * *

1. Conditions B1, B2, A11, and A12 apply.

* * * * *

D. Sport Fishing. * * *

1. We prohibit use of motorized or mechanized vehicles, boats, and equipment in designated Wilderness Areas. This includes all vehicles, boats, and items such as snowmobiles and motorized ice augers (Bearce and Conic Lakes).

* * * * *

4. We allow ice fishing in the following areas on the Baring Division of the refuge: Bearce Lake, Conic Lake, James Pond, and Vose Pond.

* * * * *

6. We allow ice fishing in the following areas on the Edmunds Division of the refuge: Hobart Lake (within the refuge boundary).

7. We prohibit fishing on the stretch of Moosehorn Stream on the Baring Division that lies west of the Charlotte Road and north of Moosehorn Ridge Road.

* * * * *

Rachel Carson National Wildlife Refuge

A. Migratory Game Bird Hunting. * * *

1. Prior to entering designated refuge hunting areas, you must obtain a Migratory Bird Hunt Application (FWS Form 3-2357), pay a recreation fee, and sign and carry the permit at all times.

* * * * *

C. Big Game Hunting. * * *

1. Prior to entering designated refuge hunting areas, you must obtain a Big/Upland Game Hunt Application (FWS Form 3-2356), pay a recreation fee and sign and carry the permit at all times. Conditions A.4 and A.7 apply.

* * * * *

7. We allow hunting of fox and coyote with archery or shotgun with a refuge big game permit, during State firearm deer season.

D. Sport Fishing. * * *

10. We allow car-top launching from legal sunrise to legal sunset at Little River division at the end of Granite Point Road into the Little River.

* * * * *

Umbagog National Wildlife Refuge

* * * * *

C. Big Game Hunting. * * *

6. We allow only temporary tree stands and blinds, and they may be erected no earlier than August 1 and must be removed by December 31. We prohibit nails, screws, or screw-in climbing pegs to build or access a stand or blind (see § 32.2(i)). You must mark your tree stand and/or blind with your full name and address.

* * * * *

16. Amend § 32.39 by:

a. Under Blackwater National Wildlife Refuge by:

i. Revising paragraphs A.1, A.2, A.3, A.4, A.5, A.10, and A.11.

ii. Revising paragraph C.

iii. Revising paragraphs D.3, and D.5.

b. Revising paragraphs C and D under Eastern Neck National Wildlife Refuge.

c. Under Patuxent Research Refuge:

i. Revising paragraph A.8.

ii. Revising the introductory text of paragraph A.9 and paragraphs A.9.iii and A.9.iv.

iii. Removing paragraph A.9.v.

iv. Revising paragraph A.12.

v. Revising the introductory text of paragraph B.

vi. Removing paragraphs B.5, B.6, B.7, B.8, B.9, and B.10.

vii. Revising paragraph C.

viii. Revising paragraphs D.1, D.2, D.4, D.5, D.6, D.14.ii, D.15.iv, and D.15.v.

ix. Removing paragraph D.15.vi.

x. Redesignating paragraphs D.15.vii and D.15.viii as D.15.vi and D.15.vii, respectively.

xi. Revising newly designated paragraph D.15.vi.d.

The additions and revisions read as follows:

§ 32.39 Maryland.

* * * * *

Blackwater National Wildlife Refuge

A. Migratory Game Bird Hunting. * * *

1. We require you to obtain a refuge waterfowl hunting permit using the Waterfowl Lottery Application (FWS Form 3-2355).

2. We require you to abide by the terms and conditions of the refuge permit and brochure. Hunters are subject to inspections by law enforcement officials and may have their permits revoked if they are found to be in violation of § 32.2 or other Federal and State laws.

3. We allow only hunters possessing a permit issued by the refuge to participate in the waterfowl hunt during designated days.

4. We require hunters to possess on their person a printed valid Maryland hunting license and all required stamps, a valid form of government-issued photo identification, and a printed valid hunting permit issued by the refuge at all times while on refuge property.

5. The use of common reed (Phragmites australis) in any manner is prohibited.

* * * * *

10. We allow the use of trained dogs by hunters to retrieve game on designated waterfowl hunt days. We require that hunters have dogs not engaged in retrieving waterfowl under control or confined to a vehicle, boat, kennel, blind area, or other container.

11. We require all hunters and hunt parties to remain within their designated hunt site or unit while hunting.

* * * * *

C. Big Game Hunting. We allow the hunting of white-tailed and sika deer and turkey on designated areas of the refuge in accordance with State regulations and subject to the following conditions:

1. We require you to obtain a deer or turkey hunting permit (Big/Upland Game Hunt Application, FWS Form 3-2356 or Quota Deer Hunt Application FWS Form 3-2354).

2. We allow only hunters possessing a valid permit issued by the refuge to hunt/scout during designated days.

3. We require hunters to possess on their person at all times while on refuge property, a printed valid Maryland hunting license and all required stamps, a valid form of government-issued photo identification, and a printed valid hunting permit issued by the refuge.

4. We require hunters to notify and receive permission from a Service law enforcement officer, refuge manager, or designee if they need to enter a refuge closed area to retrieve game.

5. We prohibit the use of rimfire or centerfire rifles and all handguns, including muzzleloading pistols, for hunting.

6. We prohibit the use of boats, flotation devices, all-terrain vehicles (ATVs), motorized off-road vehicles, and amphibious vehicles to access the refuge unless authorized by the refuge manager for use by disabled hunters.

7. We prohibit screw-in steps, spikes, or other objects that may damage trees (see § 32.2(i)).

8. We prohibit hunting from a permanently constructed tree stand or blind.

9. We allow the use of temporary tree stands and blinds for hunting. All stands and blinds left on refuge property, unoccupied, must be tagged in plain sight with your permit number and the years that are printed on your permit. We require you to remove all stands and blinds by legal sunset of a date established annually by the refuge manager. We are not responsible for damage, theft, or use of the stand by other hunters (see § 27.93 of this chapter).

10. We prohibit organized deer drives, unless otherwise authorized by the refuge manager.

11. Hunters may use marking devices, including flagging or tape, but they must remove them by legal sunset of date established annually by the refuge manager (see § 27.93 of this chapter). We prohibit paint or any other permanent marker to mark trails.

12. We require all disabled hunters to provide certification of their disability.

13. Disabled persons may have an assistant during the hunt in designated areas of the refuge. Persons assisting disabled hunters must be at least age 18 and obey all refuge, State, and Federal laws and regulations. Persons assisting disabled hunters must not be afield with a hunting firearm, bow, or other hunting device.

14. Hunters may use bicycles to access hunt areas on designated hunt/scout days. We prohibit hunters taking bicycles off of designated roads and trails while on refuge lands.

15. We require that you abide by the terms and conditions of the refuge permit and brochure. Hunters are subject to inspection by law enforcement officials and may have their permits revoked if we find them to be in violation of § 32.2 or other Federal and State laws.

16. We prohibit shooting a projectile from a firearm, muzzleloader, bow, or crossbow from, down, or across any refuge road.

17. We require you to make a reasonable effort to retrieve all wounded or killed game and include it in your daily bag limit. We prohibit leaving deer entrails or other waste within 50 feet (15.2 meters) of any road, trail, or refuge structure on the refuge.

18. We require that all deer harvested be checked in at the refuge-sponsored check station during hunt days when the refuge-sponsored check station is being operated. If you fail to check your deer during the check station business hours, you must report your harvest through the State-sponsored big game check-in system within 24 hours of harvest.

19. We prohibit parking in front of any open or closed gate. Parked vehicles may not impede any road traffic.

D. Sport Fishing.* * *

3. We require you to possess a printed valid Maryland sport fishing license, all required stamps, and a valid form of government-issued photo identification while fishing on the refuge. We do not require a refuge permit to fish on the refuge.

* * * * *

5. We prohibit boat launching from refuge lands except from the car-top boat launch located near the Blackwater River Bridge on Route 335.

* * * * *

Eastern Neck National Wildlife Refuge

* * * * *

C. Big Game Hunting. We allow hunting of white-tailed deer and turkey on designated areas of the refuge in accordance with State hunting regulations and subject to the following conditions:

1. We require you to obtain a deer or turkey hunting permit using the Big/Upland Game Hunt Application (FWS Form 3-2356).

2. We allow only hunters possessing a valid permit issued by the refuge to hunt/scout during designated days.

3. We require hunters to possess on their person at all times while on refuge property a printed valid Maryland hunting license and all required stamps, and a valid form of government-issued photo identification. On scout days, we require hunters to place their printed refuge permit on the dash of their vehicle in plain view. On hunt days, we require hunters to have a printed valid refuge permit on their person.

4. We require hunters to notify and receive permission from a Service law enforcement officer, refuge manager, or designee if they need to enter a closed area to retrieve game.

5. We prohibit the use of rimfire or centerfire rifles and all handguns, including muzzleloading pistols, for hunting.

6. We prohibit the use of boats, flotation devices, all-terrain vehicles (ATVs), motorized off-road vehicles, and amphibious vehicles to access the refuge, unless authorized by the refuge manager for use by disabled hunters.

7. We prohibit screw-in steps, spikes, or other objects that may damage trees (see § 32.2(i)).

8. We prohibit hunting from a permanently constructed tree stand or blind.

9. We allow the use of temporary tree stand and blinds for hunting. All stands and blinds left on refuge property, unoccupied, must be tagged in plain sight with your permit number and the years that are printed on your permit. We require you to remove all stands and blinds by legal sunset of a date established annually by the refuge manager. We are not responsible for damage, theft, or use of the stand by other hunters (see § 27.93 of this chapter).

10. We allow use of marking devices, including flagging or tape, but hunters must remove them by legal sunset of a date established annually by the refuge manager (see § 27.93 of this chapter). We prohibit paint or any other permanent marker to mark trails.

11. We require all disabled hunters to provide certification of their disability.

12. Disabled persons may have an assistant during the hunt on designated areas of the refuge. Persons assisting disabled hunters must be at least age 18 and obey all refuge, State, and Federal laws and regulations. Persons assisting disabled hunters must not be afield with a hunting firearm, bow, or other hunting device.

13. We require that you abide by the terms and conditions of the refuge permit and brochure. Hunters are subject to inspection by law enforcement officials and may have their permits revoked if we find them to be in violation of § 32.2 or other Federal and State laws.

14. We allow parking only in designated parking areas.

15. We prohibit shooting a projectile from a firearm, muzzleloader, bow, or crossbow from, down, or across any refuge road.

16. We require you to make a reasonable effort to retrieve all wounded or killed game and include it in your daily bag limit. We prohibit leaving deer entrails or other waste within 50 feet (15.2 meters) of any road, trail, or refuge structure on the refuge.

17. We prohibit parking in front of any open or closed gate. Parked vehicles may not impede any road traffic.

D. Sport Fishing. We allow fishing and crabbing in designated areas of the refuge in accordance with State regulations and subject to the following conditions:

1. We allow fishing and crabbing from the Eastern Neck Island Bridge and the Tundra Swan Boardwalk.

2. We allow fishing and crabbing from designated shore line areas located at the Ingleside Recreation Area from legal sunrise to legal sunset, April 1 through September 30.

3. We allow fishing from designated shoreline areas located at the Chester River end of Boxes Point and Duck Inn Trails from legal sunrise to legal sunset.

4. We require you to possess a printed valid Maryland sport fishing license and all required stamps, and valid form of government-issued photo identification while fishing on the refuge. We do not require a refuge permit to fish on the refuge.

5. We require anglers to attend all fish and crab lines.

6. We prohibit boat launching from refuge lands except for canoes/kayaks at the canoe/kayak ramp located at the Ingleside Recreation Area.

Patuxent Research Refuge

A. Migratory Game Bird Hunting. * * *

8. We restrict you to the selected area until you check-out at the HCS.

9. We prohibit hunting on or across any road (paved, gravel, dirt, opened and/or closed) or within 50 yards (45.7 meters) of a road (paved, gravel, dirt, opened and/or closed), within 150 yards (137.2 meters) of any building or shed, and within 25 yards (22.5 meters) from any designated “No Hunting” and “Safety Zone” areas, except:

* * * * *

iii. You may hunt waterfowl (goose/duck) from any permanent photo/hunt blind on North Tract.

iv. You may hunt from the roadside, except on the Wildlife Loop and Bald Eagle Drive, at designated areas, if you possess a Maryland Department of Natural Resources issued “Universal Disability Pass.”

* * * * *

12. We prohibit hunting of goose, duck, and dove during the deer firearms seasons and the early muzzleloader season. The only exceptions are that Blue Heron Pond, Lake Allen, and Area Z will remain open for duck hunters and the Junior Waterfowl hunt day during the early muzzleloader season.

* * * * *

B. Upland Game Hunting. We allow hunting of gray squirrel, eastern cottontail rabbit, and woodchuck on the North Tract and turkey on the Central Tract in accordance with State regulations and subject to the following conditions:

* * * * *

C. Big Game Hunting. We allow hunting of turkey on North Tract only and white-tailed deer on the North, Central, and South Tracts in accordance with State regulations and subject to the following conditions:

1. Conditions A1 through A10i apply.

2. Spring turkey hunters are exempt from wearing hunter orange.

3. We allow the use of bow and arrow for turkey hunting.

4. We require turkey hunters to use #4, #5, or #6 nontoxic shot or vertical bows (see § 32.2(k)).

5. We select turkey hunters by a lottery for youth, disabled, and general public hunts. We require Maryland Department of Natural Resources-required documentation to accommodate hunters with disabilities.

6. We require turkey hunters to pattern their weapons prior to hunting. Contact refuge headquarters for more information.

7. Prior to issuing a hunt permit, we require you to pass a yearly proficiency test with each weapon used. See A1 for issuing information.

8. We only allow the use of a shotgun, muzzleloader, or bow and arrow according to refuge hunting regulations.

9. We require hunters to secure longbows, recurve bows, compound bows, and crossbows in accordance with State regulations.

10. We prohibit possession or use of buckshot for hunting.

11. We require bow hunters to wear fluorescent-orange color in accordance with State regulations when moving to and from their vehicle to their deer stand or their hunting spot and while tracking or dragging out their deer. We do not require bow hunters to wear fluorescent-orange when in position to hunt except during the North Tract Youth Firearms Deer Hunts, the muzzleloader seasons, and the firearms seasons, when they must wear it at all times. You must wear fluorescent orange when stalking or “still hunting.”

12. All bucks harvested must have a 15-inch (37.5-centimeter) minimum outside antler spread.

13. We allow hunting in the Schafer Farm, Central Tract, and South Tract. You must hunt using a portable tree stand, which must be at least 10 feet (3 meters) off the ground and equipped with a full-body safety harness. You must wear the full-body safety harness while in the tree stand. We will make limited accommodations for disabled hunters for Central Tract lottery hunts.

14. We allow hunting in the North Tract. You may hunt from the ground or using a portable tree stand. You must wear a full-body safety harness while in the tree stand.

15. We prohibit the use of dogs to hunt or track wounded deer.

16. If you wish to track wounded deer beyond 2 hours after legal sunset, you must gain consent from a Federal wildlife officer. We prohibit tracking 3 hours after legal sunset. You must make a reasonable effort to retrieve the wounded deer, which includes next-day tracking. There is no tracking on Sundays and Federal holidays except on a case-by-case basis. Hunters authorized to track on Sundays or Federal holidays must be accompanied afield by a Federal wildlife officer.

17. We prohibit deer drives or anyone taking part in any deer drive. We define a “deer drive” as an organized or planned effort to pursue, drive chase, or otherwise frighten or cause deer to move in the direction of any person or persons who are part of the organized or planned hunt and known to be waiting for the deer. We also prohibit organized deer drives without a standing hunter.

18. North Tract: We allow shotgun, muzzleloader, and bow hunting in accordance with the following: Conditions C1 through C17 apply.

19. Central Tract: Headquarters/MR Lottery Hunt: We only allow shotgun and bow hunting in accordance with the following: Conditions C1 through C16 apply (except C8).

20. South Tract: We allow shotgun, muzzleloader, and bow hunting in accordance with the following:

i. Conditions C1 through C17 apply.

ii. You must access South Tract hunting areas A, B, and C off Springfield Road through the Old Beltsville Airport; and South Tract hunting area D from MD Rt. 197 through Gate #4. You must park in designated parking areas.

iii. We prohibit driving or parking along the entrance and exit roads to and from the National Wildlife Visitor Center, and parking in the visitor center parking lot when checked in to hunt any area.

D. Sport Fishing. * * *

1. We require all anglers, age 16 and older, to present their current Maryland State nontidal fishing license and complete the Fishing/Shrimping/Crabbing Application (FWS Form 3-2358). Anglers age 18 and older will receive a free Patuxent Research Refuge Fishing Pass. Organized groups must complete the Fishing/Shrimping/Crabbing Application (FWS Form 3-2358), and the group leader must stay with the group at all times while fishing.

2. We publish the refuge fishing regulations, which include the daily and yearly creel limits and fishing dates, in early January. We provide a copy of the regulations with your free Fishing Pass, and we require you to know the specific fishing regulations.

* * * * *

4. Anglers must display the Fishing Pass in the vehicle windshield while fishing.

5. We require anglers, ages 16 and 17, to have a parent or guardian cosign the Fishing/Shrimping/Crabbing Application (FWS From 3-2358).

6. An adult age 21 or older possessing a Fishing Pass must accompany anglers age 17 or younger in the field; they must maintain visual contact with each other within a 50-yard (45.7-meters) distance; and they may take 3 youths, age 15 or younger, to fish under their Fishing Pass.

* * * * *

14. * * *

ii. We allow sport fishing year-round at Lake Allen, Blue Heron Pond, Rieve's Pond, New Marsh, Cattail Pond, and Little Patuxent River (downstream only from Bailey's Bridge) except Mondays through Saturdays September 1 through January 31 during the hunting season. We also reserve the right to close Lake Allen at any time.

* * * * *

15. * * *

iv. Anglers may fish from April 1 until mid-October, as posted.

v. We allow fishing legal sunrise to legal sunset.

vi. * * *

d. Maryland State law requires personal flotation devices and whistle and/or horn in boats.

* * * * *

§ 32.41 [Amended]

17. Amend § 32.41 by removing paragraphs B.1 and B.2, and redesignating paragraph B.3 as B.1 under Seney National Wildlife Refuge.

18. Amend § 32.42 by:

a. Under Big Stone National Wildlife Refuge:

i. Revising paragraphs B.1 and B.4.

ii. Redesignating paragraphs B.5 and B.6 as B.6 and B.7, respectively.

iii. Adding paragraph B.5.

iv. Removing paragraph C.4.

v. Redesignating paragraph C.5 as C.4.

vi. Revising newly designated paragraph C.4.

b. Under Big Stone Wetland Management District:

i. Adding paragraph A.6.

ii. Revising paragraph B.

c. Under Detroit Lakes National Wildlife Refuge:

i. Adding paragraph A.6.

ii. Revising paragraph B.

d. Under Fergus Falls Wetland Management District;

i. Adding paragraph A.7.

ii. Revising paragraph B.

e. Under Glacial Ridge National Wildlife Refuge:

i. Adding paragraph A.3.

ii. Revising paragraph B.2.

iii. Removing paragraph B.3.

f. Under Litchfield Wetland Management District:

i. Adding paragraph A.6.

ii. Revising paragraph B.

g. Under Minnesota Valley National Wildlife Refuge:

i. Revising paragraphs A.5 and A.6.

ii. Adding paragraphs A.7, A.8, and A.9.

iii. Revising paragraphs B and C.

iv. Revising the introductory text of paragraph D and paragraphs D.3 and D.4.

v. Adding paragraph D.5.

h. Under Morris Wetland Management District:

i. Adding paragraph A.5.

ii. Revising paragraph B.

i. Under Northern Tallgrass Prairie National Wildlife Refuge:

i. Revising the introductory text of paragraph A and paragraph A.1.

ii. Adding paragraph A.9.

ii. Revising the introductory text of paragraph B and paragraph B.4.

iii. Revising the introductory text of paragraph C and paragraph C.2.

iv. Adding paragraph C.4.

j. Under Rice Lake National Wildlife Refuge:

i. Revising the introductory text of paragraph C.

ii. Removing paragraph C.4.

iii. Redesignating paragraph C.5 as C.4.

iv. Revising the introductory text of paragraph D.

v. Removing paragraph D.2.

vi. Redesignating paragraphs D.3 and D.4 as D.2 and D.3, respectively.

k. Under Sherburne National Wildlife Refuge:

i. Revising paragraph A.2.

ii. Adding paragraph A.8.

iii. Revising paragraphs B.3 and C.7.

iv. Removing paragraph C.8.

v. Revising the introductory text of paragraph D.

l. Under Tamarac National Wildlife Refuge:

i. Adding paragraph A.5.

ii. Revising paragraphs B.2, B.3, and B.5.

iii. Redesignating paragraph D.6 as D.7.

iv. Adding paragraph D.6.

m. Under Upper Mississippi River National Wildlife and Fish Refuge:

i. Redesignating paragraphs A.12 through A.17 as A.14 through A.19, respectively.

ii. Adding paragraph A.13.

iii. Revising newly designated paragraphs A.16 and A.17.

iv. Removing paragraph A.11.

v. Redesignating paragraphs A.5 through A.10 as A.7 through A.12, respectively.

vi. Adding paragraph A.6.

vii. Revising newly designated paragraphs A.10 and A.12

viii. Redesignating paragraphs A.2 through A.4 as A.3 through A.5, respectively.

ix. Adding paragraph A.2.

x. Revising newly designated paragraph A.5.

xi. Revising paragraphs B and C.

xii. Redesignating paragraphs D.1 through D.6 as D.2 through D.7, respectively.

xiii. Adding paragraph D.1.

xiv. Revising newly designated paragraphs D.3, D.6, and D.7.

xv. Adding paragraph D.8.

n. Under Windom Wetland Management District:

i. Adding paragraph A.6.

ii. Revising paragraph B.

iii. Revising paragraph C.1.

The additions and revisions read as follows:

§ 32.42 Minnesota.

* * * * *

Big Stone National Wildlife Refuge

* * * * *

B. Upland Game Hunting. * * *

1. For hunting, you may use or possess only approved nontoxic shot shells while in the field, including shot shells used for hunting wild turkey (see § 32.2(k)).

* * * * *

4. You may only hunt fox and raccoon from ½ hour before legal sunrise until legal sunset in accordance with the beginning of the State season through the last day of February.

5. You may only hunt striped skunk from ½ hour before legal sunrise until legal sunset from September 1 through the last day of February.

* * * * *

C. Big Game Hunting. * * *

4. Conditions B6 and B7 apply. Condition B1 applies only to wild turkey.

* * * * *

Big Stone Wetland Management District

A. Migratory Game Bird Hunting. * * *

6. For hunting, you may use or possess only approved nontoxic shot shells while in the field, including shot shells used for hunting wild turkey (see § 32.2(k)).

B. Upland Game Hunting. We allow upland game hunting throughout the district in accordance with State regulations and subject to the following condition: Conditions A3 through A6 apply.

* * * * *

Detroit Lakes Wetland Management District

A. Migratory Game Bird Hunting. * * *

6. For hunting, you may use or possess only approved nontoxic shot shells while in the field, including shot shells used for hunting wild turkey (see § 32.2(k)).

B. Upland Game Hunting. We allow upland game hunting in accordance with State regulations throughout the district (except that we allow no hunting on the refuge headquarters Waterfowl Production Area [WPA] in Becker County, the Hitterdal WPA in Clay County, and the McIntosh WPA in Polk County) and subject to the following condition: Conditions A3 through A6 apply.

* * * * *

Fergus Falls Wetland Management District

A. Migratory Game Bird Hunting. * * *

7. For hunting, you may use or possess only approved nontoxic shot shells while in the field, including shot shells used for hunting wild turkey (see § 32.2(k)).

B. Upland Game Hunting. We allow upland game hunting throughout the district (except that we prohibit hunting on the Townsend, Mavis, Gilmore, and designated portions of Knollwood Waterfowl Production Areas (WPAs) in Otter Tail County, and Larson WPA in Douglas County) in accordance with State regulations and subject to the following condition: Conditions A2, A3, A6, and A7 apply.

* * * * *

Glacial Ridge National Wildlife Refuge

A. Migratory Game Bird Hunting. * * *

3. For hunting, you may use or possess only approved nontoxic shot shells while in the field, including shot shells used for hunting wild turkey (see § 32.2(k)).

B. Upland Game Hunting. * * *

2. Conditions A2 and A3 apply.

* * * * *

Litchfield Wetland Management District

A. Migratory Game Bird Hunting. * * *

6. For hunting, you may use or possess only approved nontoxic shot shells while in the field, including shot shells used for hunting wild turkey (see § 32.2(k)).

B. Upland Game Hunting. We allow upland game hunting throughout the district (except we prohibit hunting on that part of the Phare Lake Waterfowl Production Area in Renville County) in accordance with State regulations and subject to the following condition: Conditions A1, A4, A5, and A6 apply.

* * * * *

Minnesota Valley National Wildlife Refuge

A. Migratory Bird Hunting. * * *

5. We prohibit entry into the refuge earlier than 2 hours before legal shooting time and require hunters to leave the refuge no later than 1 hour after legal shooting time.

6. We prohibit camping.

7. We allow the use of hunting dogs, provided the dog is under the immediate control of the hunter at all times during the State-approved hunting season (see § 26.21(b) of this chapter).

8. We prohibit hunting during the State spring goose hunt.

9. For hunting, you may use or possess only approved nontoxic shot shells while in the field, including shot shells used for hunting wild turkey (see § 32.2(k)).

B. Upland Game Hunting. We allow hunting of ruffed grouse, gray partridge, ring-necked pheasant, American crow, squirrel (gray, fox, and red), snowshoe hare, cottontail rabbit, jackrabbit, raccoon, fox (red and gray), striped skunk, coyote, opossum, and wild turkey on designated areas of the refuge in accordance with State regulations and subject to the following conditions:

1. Conditions A1 through A7 and A9 apply.

2. We prohibit single projectile ammunition for hunting upland game and furbearers, except that we allow hunters to use small-caliber rimfire rifles and handguns (.22 caliber and smaller) on designated areas of the refuge.

3. We prohibit the use of dogs for hunting furbearers.

4. You may only hunt fox, opossum, and raccoon from ½ hour before legal sunrise until legal sunset, in accordance with the beginning of the State season through the last day of February, on designated areas of the refuge.

5. You may only hunt coyotes and skunks from ½ hour before legal sunrise until legal sunset, from September 1 through the last day of February, on designated areas of the refuge.

6. You may only hunt crow during the State's fall crow season, on designated areas of the refuge.

7. We require hunters to wear at least one article of blaze-orange clothing visible above the waist.

C. Big Game Hunting. We allow hunting of white-tailed deer on designated areas of the refuge in accordance with State regulations and subject to the following conditions:

1. Conditions A1 through A6 apply.

2. Hunters must remove all personal property, which include portable stands, climbing sticks, decoys, game cameras, and blinds, brought onto the refuge each day (see §§ 27.93 and 27.94 of this chapter).

D. Sport Fishing. We allow sport fishing on designated areas of the refuge during daylight hours in accordance with State regulations and subject to the following conditions:

* * * * *

3. You must remove all ice fishing shelters and all other personal property from the refuge each day (see §§ 27.93 and 27.94 of this chapter).

4. We prohibit the taking of any turtle, frog, leech, minnow, crayfish, and mussel (clam) species by any method on the refuge (see § 27.21 of this chapter).

5. Condition A6 applies.

* * * * *

Morris Wetland Management District

A. Migratory Game Bird Hunting. * * *

5. For hunting, you may use or possess only approved nontoxic shot shells while in the field, including shot shells used for hunting wild turkey (see § 32.2(k)).

B. Upland Game Hunting. We allow hunting of upland game, except that we prohibit hunting on the designated portions of the Edward-Long Lake Waterfowl Production Area in Stevens County, in accordance with State regulations and subject to the following condition: Conditions A2 through A5 apply.

* * * * *

Northern Tallgrass Prairie National Wildlife Refuge

A. Migratory Game Bird Hunting. We allow hunting of duck, goose, merganser, moorhen, coot, rail (Virginia and sora only), woodcock, common snipe, mourning dove, and sandhill crane in accordance with State regulations and subject to the following conditions:

1. For hunting, you may use or possess only approved nontoxic shot shells while in the field, including shot shells used for hunting wild turkey (see § 32.2(k)).

* * * * *

9. For the Spieker tract in Clay County, you must follow the Clay County Game Refuge regulations.

B. Upland Game Hunting. We allow hunting of ring-necked pheasant, Hungarian partridge, prairie chicken, spruce grouse, ruffed grouse, sharp-tailed grouse, rabbit (cottontail and jack), snowshoe hare, squirrel (fox and gray), raccoon, opossum, fox (red and gray), badger, coyote, bobcat, striped skunk, and crow on designated areas in accordance with State regulations and subject to the following conditions:

* * * * *

4. Conditions A1, A7, and A8 apply.

C. Big Game Hunting. We allow hunting of deer, elk, black bear, and turkey on designated areas of the refuge in accordance with State regulations and subject to the following conditions:

* * * * *

2. Conditions A3, A5, A7, and A8 apply. Condition A1 applies only to wild turkey.

* * * * *

4. We prohibit the use and distribution of bait and hunting over bait (see § 32.2(h)).

* * * * *

Rice Lake National Wildlife Refuge

* * * * *

C. Big Game Hunting. We allow hunting of white-tailed deer on designated areas of the refuge in accordance with State regulations and subject to the following conditions:

* * * * *

D. Sport Fishing. We allow fishing on designated areas of the refuge in accordance with State regulations and subject to the following conditions:

* * * * *

Sherburne National Wildlife Refuge

A. Migratory Game Bird Hunting. * * *

2. We allow only nonmotorized boats, and they must be launched at designated access sites.

* * * * *

8. For hunting, you may use or possess only approved nontoxic shot shells while in the field, including shot shells used for hunting wild turkey (see § 32.2(k)).

B. Upland Game Hunting. * * *

3. Conditions A6 through A8 apply.

C. Big Game Hunting. * * *

7. Conditions A4 and A7 apply. Condition A8 applies to wild turkey only.

D. Sport Fishing. We allow fishing on designated areas of the refuge in accordance with State regulations and subject to the following conditions:

* * * * *

Tamarac National Wildlife Refuge

A. Migratory Game Bird Hunting. * * *

5. For hunting, you may use or possess only approved nontoxic shot shells while in the field (see § 32.2(k)).

B. Upland Game Hunting. * * *

2. You may only hunt fox and raccoon from ½ hour before legal sunrise until legal sunset from the beginning of the State season through the last day of February.

3. You may only hunt striped skunk from ½ hour before legal sunrise until legal sunset from September 1 through the last day of February.

* * * * *

5. Conditions A3 through A5 apply.

* * * * *

D. Sport Fishing. * * *

6. We prohibit motorized vehicles on frozen water bodies.

* * * * *

Upper Mississippi River National Wildlife and Fish Refuge

A. Migratory Game Bird Hunting. * * *

2. In areas posted and shown on maps as “Closed to All Access,” we prohibit public entry, to include hunting and fishing, at all times. This area is named and located as follows: Crooked Slough Backwater, Pool 13, Illinois, 2,453 acres.

* * * * *

5. In areas posted and shown on maps as “No Hunting Zone” or “No Hunting or Trapping Zone,” we prohibit migratory bird hunting at all times. These areas are named and located as follows:

i. Buffalo River, Pool 4, Wisconsin, 219 acres.

ii. Fountain City Bay, Pool 5A, Wisconsin, 24 acres.

iii. Upper Halfway Creek Marsh, Pool 7, Wisconsin, 143 acres.

iv. Brice Prairie Tract, Pool 7, Wisconsin, 186 acres.

v. Hunter's Point, Pool 8, Wisconsin, 82 acres.

vi. Goose Island, Pool 8, Wisconsin, 984 acres (also no motors and voluntary avoidance as in condition A3).

vii. Sturgeon Slough, Pool 10, Wisconsin, 66 acres.

viii. Goetz Island Trail, Pool 11, Iowa, 31 acres.

ix. Crooked Slough Proper, Pool 13, Illinois, 270 acres.

x. Frog Pond, Pool 13, Illinois, 64 acres.

xi. Ingersoll Wetlands Learning Center, Pool 13, Illinois, 41 acres.

xii. Amann Tract, Pool 7, Wisconsin, 0.21 acre.

xiii. Lost Mound Unit Office and River Road, Pool 13, Illinois, 175 acres.

6. In the area posted and shown on maps as “Mesquaki Lake No Hunting Zone,” Pool 13, Illinois, we prohibit hunting migratory birds from April 1 to September 30.

* * * * *

10. You may use or possess only approved nontoxic shot shells while hunting on the refuge (see § 32.2(k)).

* * * * *

12. We prohibit the construction of permanent hunting blinds (see § 27.92 of this chapter). You may use natural material for temporary blinds, with restrictions. You may hunt from a boat blind, pop-up blind, or construct a temporary blind of natural materials. You may gather grasses and marsh vegetation (e.g., willow, cattail, bulrush, lotus, and/or arrowhead) from the refuge for blind-building materials. However, you may not gather, bring onto the refuge, or use for blind building, tree(s) or other plant parts, including dead wood on the ground, greater than 2 inches (5 centimeters) in diameter. Nonnative species may not be gathered from nor brought onto the refuge for building or brushing temporary blinds (e.g., Phragmites (giant cane)). We prohibit constructing hunting blinds from rocks placed for shoreline protection (rip rap). You may leave only temporary blinds made entirely of natural vegetation and biodegradable twines on the refuge. We consider all such blinds public property and open to use by any person on a first-come, first-served basis. At the end of each day's hunt, you must remove all manmade blind materials, including boat blinds. Any blinds containing manmade materials left on the refuge are subject to immediate removal and disposal. Manmade materials include, but are not limited to, wooden pallets, metal fence posts, wire, nails, staples, netting, or tarps (see §§ 27.93 and 27.94 of this chapter). We prohibit occupying or using any blind made with unauthorized materials.

13. We require a 200-yard (182.9-meter) spacing distance between hunting parties on the Illinois portions of the refuge in Pools 12, 13, and 14.

* * * * *

16. We prohibit camping beginning the day before the opening of waterfowl hunting seasons within areas posted “No Entry—Sanctuary,” “Area Closed,” “Area Closed—No Motors,” and “No Hunting Zone” or on any sites not clearly visible from the main commercial navigation channel of the Mississippi River. We define camping as erecting a tent or shelter of natural or synthetic material, preparing a sleeping bag or other bedding material for use, parking of a motor vehicle, or mooring or anchoring of a vessel for the apparent purpose of overnight occupancy, or occupying or leaving personal property, including boats or other craft, at a site anytime between the hours of 11 p.m. and 3 a.m. on any given day. Where we allow camping, you must occupy claimed campsites each night.

17. We prohibit the building or use of warming fires while hunting (see § 27.95 of this chapter). We only allow campfires in conjunction with camping, day-use activities on beaches, or on the ice while ice fishing using only dead wood on the ground, or materials brought onto the refuge such as charcoal or firewood. However, transport of firewood must be in accordance with State or county regulations. We prohibit use of firewood originating more than 50 miles from the refuge unless certified as pest-free. You must remove any unused firewood brought onto the refuge upon departure due to threat of invasive insects.

* * * * *

B. Upland Game Hunting. We allow hunting of upland game on areas of the refuge designated by the refuge manager and shown on maps available at refuge offices in accordance with State regulations. We prohibit upland game hunting from March 16 through August 31 each year except for spring wild turkey hunting, and squirrel hunting on the Illinois portion of the refuge. All upland game hunting is subject to the following conditions:

1. Conditions A1 and A2 apply.

2. We prohibit the discharging of firearms (including dog training pistols and dummy launchers), air guns, or any other weapons on the refuge, unless you are a licensed hunter or trapper engaged in authorized activities during established seasons, in accordance with Federal, State, and local regulations. We prohibit target practice on the refuge (see §§ 27.42 and 27.43 of this chapter).

3. In areas posted and shown on maps as “No Entry—Sanctuary,” we prohibit entry and upland game hunting at all times. In areas posted and shown on maps as “No Entry—Sanctuary October 1 to end of state duck hunting season,” we allow upland game hunting beginning the day after the respective State duck hunting season until upland game season closure or March 15, whichever comes first, except we allow spring turkey hunting during State seasons. We describe these areas more fully in Condition A3.

4. In areas posted and shown on maps as “Area Closed” and “Area Closed—No Motors,” we allow upland game hunting beginning the day after the respective State duck hunting season until upland game season closure or March 15, whichever comes first, except we allow spring turkey hunting during State seasons. We ask that you practice voluntary avoidance of these areas by any means or for any purpose from October 15 to the end of the respective State duck season. In areas also marked “Area Closed—No Motors,” we prohibit the use of motors on watercraft from October 15 to the end of the respective State duck season. We describe these areas more fully in Condition A4.

5. In areas posted and shown on maps as “No Hunting Zone” or “No Hunting or Trapping Zone,” we prohibit upland game hunting at all times. We describe these areas more fully in Condition A5.

6. We prohibit hunting of upland game within 50 yards (45.7 meters) of the Great River Trail at Thomson Prairie, within 150 yards (137.2 meters) of the Great River Trail at Mesquaki Lake, and within 400 yards (365.8 meters) of the Potter's Marsh Managed Hunt area, all in or near Pool 13, Illinois.

7. In the area posted and shown on maps as “Mesquaki Lake No Hunting Zone,” Pool 13, Illinois, we prohibit hunting upland game from April 1 to September 30.

8. For hunting, you may use or possess only approved nontoxic shot shells while in the field, including shot shells used for hunting wild turkey (see § 32.2(k)).

9. We prohibit the shining of a light to locate any animal on the refuge except at the point of kill for species specified in respective State night or artificial light hunting regulations (see § 27.73 of this chapter). You may use lights to find your way. We prohibit the distribution of bait or feed, the hunting over bait or feed, and the use or possession of any drug on any arrow for bow hunting (see § 32.2(g) and (h)). You must comply with all other hunt method regulations of the respective State on the refuge.

10. Conditions A8, A11, A12, and A14 through A19 apply.

C. Big Game Hunting. We allow hunting of big game on areas of the refuge designated by the refuge manager and shown on maps available at refuge offices in accordance with State regulations. We prohibit big game hunting from March 16 through August 31 each year. In areas closed to public access on the Lost Mound Unit of Savanna District, Illinois, we permit firearm deer hunts by youth and disabled hunters in accordance with procedures and regulations established by the refuge manager. Special regulations are in effect that identify specific hunt sites and restrict hunter's movements, access, and firearms/ammunition that may be used by special hunt participants. All big game hunting is subject to the following conditions:

1. Conditions A1, A2, and B2 apply.

2. In areas posted and shown on maps as “No Entry—Sanctuary,” we prohibit entry and big game hunting at all times. In areas posted and shown on maps as “No Entry—Sanctuary October 1 to end of state duck hunting season,” we allow big game hunting beginning the day after the respective State duck hunting season until big game season closure or March 15, whichever comes first. We describe these areas more fully in Condition A3.

3. In areas posted and shown on maps as “Area Closed” and “Area Closed—No Motors,” we allow big game hunting beginning the day after the respective State duck hunting season until big game season closure or March 15, whichever comes first. We ask that you practice voluntary avoidance of these areas by any means or for any purpose from October 15 to the end of the respective State duck season. In areas also marked “Area Closed—No Motors,” we prohibit the use of motors on watercraft from October 15 to the end of the respective State duck season. These areas are described more fully in Condition A4.

4. In areas posted and shown on maps as “No Hunting Zone” or “No Hunting or Trapping Zone,” we prohibit big game hunting at all times. We describe these areas more fully in Condition A5.

5. We prohibit hunting of big game within 50 yards (45.7 meters) of the Great River Trail at Thomson Prairie, within 150 yards (137.2 meters) of the Great River Trail at Mesquaki Lake, and within 400 yards (365.8 meters) of the Potter's Marsh Managed Hunt area, all in or near Pool 13, Illinois.

6. In the area posted and shown on maps as “Mesquaki Lake No Hunting Zone,” Pool 13, Illinois, we prohibit hunting big game from April 1 to September 30.

7. Conditions A8, A11, A12, A14 through A19, and B8 and B9 apply.

8. On refuge-managed lands in Illinois, we prohibit organized drives for deer. A deer drive is defined as a deliberate action by one or more persons, whether armed or unarmed, on foot or with the aid of a conveyance, whose intent is to cause deer to move within shooting range of one or more participating hunters.

D. Sport Fishing. * * *

1. Condition A2 applies.

* * * * *

3. In the Spring Lake “No Entry—Sanctuary, October 1 to end of State duck hunting season” area, Pool 13, Illinois, we prohibit fishing from October 1 until the day after the close of the State duck hunting season.

* * * * *

6. For the purpose of determining length limits, slot limits, and daily creel limits, the impounded areas of Spring Lake and Duckfoot Marsh in Pool 13, Illinois, and Pleasant Creek in Pool 13, Iowa, are part of the Mississippi River site-specific State regulations.

7. Conditions A12, and A15 through A19 apply.

8. Commercial fishing in Spring Lake and Crooked Slough, Pool 13, Illinois, requires a Special Use Permit (Permit Application Form: National Wildlife Refuge System Commercial Special Use, FWS Form 3-1383-C) issued by the refuge or district manager (see § 31.13 of this chapter).

Windom Wetland Management District

A. Migratory Game Bird Hunting. * * *

6. For hunting, you may use or possess only approved nontoxic shot shells while in the field, including shot shells used for hunting wild turkey (see § 32.2(k)).

B. Upland Game Hunting. We allow hunting of upland game throughout the district, except that you may not hunt on the Worthington Waterfowl Production Area (WPA) in Nobles County or designated portions of the Wolf Lake WPA in Cottonwood County, in accordance with State regulations and subject to the following condition: Conditions A3 through A6 apply.

C. Big Game Hunting. * * *

1. We prohibit hunting on the Worthington WPA in Nobles County and designated portions of the Wolf Lake WPA in Cottonwood County.

* * * * *

19. Amend § 32.43 by:

a. Under Coldwater National Wildlife Refuge:

i. Revising the introductory text of paragraph A and paragraphs A.1 and A.3.

ii. Removing paragraph A.6.

iii. Redesignating paragraphs A.7 through A.11 as A.6 through A.10, respectively.

iv. Revising newly designated paragraphs A.6 and A.8.

v. Adding paragraph A.11.

b. Under Dahomey National Wildlife Refuge:

i. Revising paragraphs A.1 and A.3.

ii. Removing paragraph A.6.

iii. Redesignating paragraphs A.7 through A.12 as A.6 through A.11, respectively.

iv. Revising newly designated paragraphs A.7 and A.9.

v. Adding paragraph A.12.

c. Revising the entry for Hillside National Wildlife Refuge.

d. Revising paragraphs B and C under Holt Collier National Wildlife Refuge.

e. Revising the entry for Mathews Brake National Wildlife Refuge.

f. Revising the entry for Morgan Brake National Wildlife Refuge.

g. Revising the entry for Panther Swamp National Wildlife Refuge.

h. Revising the entry for Sam D. Hamilton Noxubee National Wildlife Refuge.

i. Under St. Catherine Creek National Wildlife Refuge:

i. Revising paragraphs A.2, A.6, B.1, and C.10.

ii. Removing paragraph D.1.

iii. Redesignating paragraphs D.2 through D.8 as D.1 through D.7, respectively.

iv. Revising newly designated paragraph D.7.

j. Under Tallahatchie National Wildlife Refuge:

i. Revising paragraphs A.1 and A.3.

ii. Removing paragraph A.7.

iii. Redesignating paragraphs A.8 through A.13 as A.7 through A.12, respectively.

iv. Revising newly designated paragraph A.10.

v. Adding paragraph A.13.

k. Revising paragraphs A, B, and C under Yazoo National Wildlife Refuge.

The additions and revisions read as follows:

§ 32.43 Mississippi.

* * * * *

Coldwater National Wildlife Refuge

A. Migratory Game Bird Hunting. We allow hunting of migratory waterfowl, coot, snipe, and woodcock on designated areas of the refuge in accordance with State regulations and subject to the following conditions:

1. All hunters must comply with all State hunter education requirements. All hunters age 16 years and older must possess and carry a valid, signed refuge hunting permit (signed brochure). All persons younger than age 16, while hunting on the refuge, must be in the presence and under the direct supervision of a licensed or exempt hunter at least age 21, when hunting. A licensed hunter supervising a youth as provided in this section must hold all required licenses and permits.

* * * * *

3. We allow hunting of migratory game birds, including the Light Goose Conservation Order, on Wednesday, Saturdays, and Sundays from ½ hour before legal sunrise and ending at 12 p.m. (noon). Hunters must remove all decoys, blind materials (see § 27.93 of this chapter), and harvested waterfowl from the area no later than 1 p.m. each day.

* * * * *

6. During the refuge deer firearm season, including primitive weapons hunt and the youth gun hunt, all hunters and visitors on the refuge, except waterfowl hunters and nighttime raccoon hunters, must wear in full view a minimum of 500 square inches (3,225.8 square centimeters) of solid, unbroken fluorescent orange. When hunting quail or rabbit on a refuge outside the refuge's general gun and primitive weapon season, hunters must wear a fluorescent orange vest or cap.

* * * * *

8. You must remove decoys, blinds, boats, other personal property, and litter (see §§ 27.93 and 27.94 of this chapter) from the hunting area following each morning's hunt. We prohibit cutting or removing trees and other vegetation (see § 27.51 of this chapter). We prohibit the use of flagging, paint, blazes, tacks, or other types of markers.

* * * * *

11. We prohibit all commercial activities, including guiding or participating in a paid guided hunt.

* * * * *

Dahomey National Wildlife Refuge

A. Migratory Game Bird Hunting. * * *

1. All hunters must comply with all State hunter education requirements. All hunters age 16 years and older must possess and carry a valid, signed refuge hunting permit (signed brochure). All persons younger than age 16, while hunting on the refuge, must be in the presence and under the direct supervision of a licensed or exempt hunter at least age 21, when hunting. A licensed hunter supervising a youth as provided in this section must hold all required licenses and permits.

* * * * *

3. We allow hunting of migratory game birds, including the Light Goose Conservation Order, on Wednesdays, Saturdays, and Sundays from 1-2 hour before legal sunrise until 12 p.m. (noon). Hunters must remove all decoys, blind material (see § 27.93 of this chapter), and harvested waterfowl from the area no later than 1 p.m. each day.

* * * * *

7. During any open refuge hunting season, all hunters, or persons on the refuge for any reason, must wear a minimum of 500 square inches (3,225.8 square centimeters) of visible, unbroken, fluorescent orange-colored material above the waistline. Waterfowl hunters must comply while walking/boating to and from actual hunting area. Waterfowl hunters may remove the fluorescent orange while actually hunting.

* * * * *

9. You must remove decoys, blinds, boats, other personal property, and litter (see §§ 27.93 and 27.94 of this chapter) from the hunting area following each morning's hunt. We prohibit cutting or removing trees and other vegetation (see § 27.51 of this chapter). We prohibit the use of flagging, paint, blazes, tacks, or other types of markers.

* * * * *

12. We prohibit all commercial activities, including guiding or participating in a paid guided hunt.

* * * * *

Hillside National Wildlife Refuge

A. Migratory Game Bird Hunting. We allow hunting of goose, duck, merganser, coot, and dove on designated areas of the refuge in accordance with State regulations and subject to the following conditions:

1. Each person age 16 and older hunting or fishing must possess a valid T R Complex Annual Public Use Permit card (name/address/phone number).

2. All youth hunters age 15 and younger must possess and carry a hunter safety course card or certificate and be in the presence and direct supervision of a Mississippi licensed or exempt hunter, age 21 or older. One adult may supervise no more than one youth hunter.

3. Before hunting or fishing, all participants must display their User Information/Harvest Report Card (Big Game Harvest Report, FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. It is unlawful to throw, dump, dispose of, or intentionally leave any fish or wildlife, wildlife parts, or waste on the refuge. You must remove all parts from the refuge with the exception of field dressing.

7. We prohibit the use of plastic flagging tape.

8. Vehicles must be parked in such a manner as not to obstruct roads, gates, turn rows, or fire lanes (see § 27.31(h) of this chapter).

9. We prohibit all other public use on the refuge during the muzzleloader deer hunt.

10. For hunting, you may possess or use only approved nontoxic shot (see § 32.2(k)).

11. With the exception of raccoon hunting and frogging, we limit refuge entry and exit to the period of 4 a.m. to 1½ hours after legal sunset.

12. For instances of lost or stolen public use permits, management may issue duplicates at their discretion, and we may charge a fee.

13. Valid permit holders may take the following in season incidental to other refuge hunts with weapons legal for that hunt: raccoon, opossum, coyote, beaver, bobcat, nutria, and feral hog.

14. We allow all-terrain vehicles (ATVs) only on designated trails (see § 27.31 of this chapter) (see refuge brochure map) from September 15 through February 28. We prohibit horses and mules.

15. We prohibit hunting over or the placement of bait (see § 32.2(h)). We prohibit the possession, direct or indirect placing, exposing, depositing, or scattering of any salt, grain, powder, liquid or other feed substance to attract game.

16. We prohibit hunting or shooting into a 100-foot (30.5-meter) zone along either side of pipelines, power line rights-of-way, designated roads, trails, or around parking lots (see refuge brochure map). It is considered hunting if you have a loaded weapon, if you have a nocked arrow while bow hunting, or if you are in an elevated tree stand or ground blind with a means to take, within these areas.

17. Hunters must remove all decoys, blind material (see § 27.93 of this chapter), and harvested waterfowl from the area no later than 1 p.m. each day.

18. We allow dogs for retrieving migratory birds.

19. We allow goose, duck, merganser and coot hunting beginning ½ hour before legal sunrise until 12 p.m. (noon).

20. There is no early teal season.

21. We allow dove hunting on specified dates and areas within the first and second State seasons. The first two Saturdays of the first season require a Limited Hunt Permit (name/address/phone number) assigned by random computer drawing. At the end of the hunt, you must return the permit with information concerning your hunt. If you fail to return this permit, you will not be eligible for any limited hunts the next year. Contact the refuge headquarters for specific dates and open areas.

B. Upland Game Hunting. We allow hunting of squirrel, rabbit, quail, and raccoon on designated areas of the refuge in accordance with State regulations and subject to the following conditions:

1. Conditions A1 through A16 apply.

2. We allow only shotguns with approved nontoxic shot (see § 32.2(k)), and .22 and .17 caliber rimfire rifles for small game hunting.

3. We allow dogs for hunting squirrel and quail, and for the February rabbit hunt.

4. All hunters must wear at least 500 square inches (3,225.8 square centimeters) of unbroken, fluorescent-orange material visible above the waistline as an outer garment while hunting and en route to and from hunting areas during any firearm deer season (State and/or refuge) and while rabbit hunting.

5. Beginning the first day after the deer muzzleloader hunt, we prohibit entry into the Turkey Point area until March 1.

C. Big Game Hunting. We allow hunting of white-tailed deer and turkey on designated areas of the refuge in accordance with State regulations and subject to the following conditions:

1. Conditions A1 through A16, and B4 through B5 apply.

2. We prohibit organized drives for deer and feral hog.

3. Hunting or shooting within or adjacent to open fields and tree plantations less than 5 feet (1.5 meters) in height must be from a stand a minimum of 10 feet (3 meters) above the ground.

4. Deer check station dates, locations, and requirements are designated in the refuge brochure. Prior to leaving the Refuge, you must check all harvested deer at the nearest self-service check station following the posted instructions.

5. Hunters may possess and hunt from only one stand or blind. Hunters may place a deer stand or blind 48 hours prior to a hunt and must remove it within 48 hours after each designated hunt with the exception of closed areas where special regulations apply (see brochure).

6. During designated muzzleloader hunts, we allow archery equipment and muzzleloaders loaded with a single ball; we prohibit breech-loading firearms of any type.

7. Turkey hunting opportunities will consist of three limited draw hunts within the State season time frame. These hunts require a Limited Hunt Permit (Big/Upland Game Hunt Application Permit, FWS Form 3-2356) assigned by random computer drawing. At the end of the hunt, you must return the permit with information concerning your hunt. If you fail to return this permit, you will not be eligible for any limited hunts the next year. Contact refuge headquarters for specific requirements, hunts, and application dates.

D. Sport Fishing. We allow fishing on designated areas of the refuge in accordance with State regulations and subject to the following conditions:

1. Conditions A1 through A16 and B5 apply.

2. We prohibit trot lines, limb lines, jugs, seines, and traps.

3. We allow frogging during the State bullfrog season.

4. We allow fishing in the borrow ponds along the north levee (see refuge brochure map) throughout the year except during the muzzleloader deer hunt.

5. We open all other refuge waters to fishing March 1 through November 15.

6. We prohibit fishing from bridges.

Holt Collier National Wildlife Refuge

* * * * *

B. Upland Game Hunting. We allow hunting of rabbit and furbearers on designated areas in accordance with State regulations and subject to the following conditions:

1. Each person age 16 and older hunting or fishing must possess a valid T R Complex Annual Public Use Permit (name/address/phone number).

2. All youth hunters age 15 and younger must possess and carry a Hunter Safety Course Card or certificate and be in the presence and direct supervision of a Mississippi licensed or exempt hunter, age 21 or older. One adult may supervise no more than one youth hunter.

3. Before hunting or fishing, all participants must display their User Information/Harvest Report Card (Big Game Harvest Report—FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. We prohibit the use of plastic flagging tape.

7. Vehicles should be parked in such a manner as not to obstruct roads, gates, turn rows, or fire lanes (see § 27.31(h) of this chapter).

8. We prohibit all other public use on the refuge during all limited draw hunts.

9. Valid permit holders may take the following in season as incidental to other refuge hunts with weapons legal for that hunt: raccoon, opossum, coyote, beaver, bobcat, nutria, and feral hog.

10. We allow only shotguns with approved nontoxic shot (see § 32.2(k)), .22 and .17 caliber rimfire rifles for small game hunting.

11. We allow rabbit hunting with dogs in February.

12. During the rabbit hunt, any person hunting or accompanying another person hunting must wear at least 500 square inches (3,225.8 square centimeters) of unbroken, fluorescent-orange material visible above the waistline as an outer garment.

13. With the exception of raccoon hunting, we limit refuge entry and exit to the period of 4 a.m. to 1½ hours after legal sunset.

14. We prohibit all-terrain vehicles (ATVs), utility‐type vehicles (UTVs), horses, and mules on the refuge.

15. We prohibit hunting over or the placement of bait (see § 32.2(h)). We prohibit the possession, direct or indirect placing, exposing, depositing, or scattering of any salt, grain, powder, liquid, or other feed substance to attract game.

16. For instances of lost or stolen public use permits (FWS Form 1383), management may issue duplicates at their discretion, and may charge a fee.

17. It is unlawful to throw, dump, dispose of, or intentionally leave any fish or wildlife, wildlife parts, or waste on the refuge. You must remove all parts from the refuge with the exception of field dressing.

18. We prohibit all other public use on the refuge during muzzleloader deer hunts.

19. We prohibit hunting or shooting into a 100-foot (30.5-meter (m)) zone along either side of pipelines, power line rights-of-way, designated roads, trails, or around parking lots (see refuge brochure map). It is considered hunting if you have a loaded weapon, if you have a nocked arrow while bow hunting, or if you are in an elevated tree stand or ground blind with a means to take, within these areas.

C. Big Game Hunting. We allow hunting of white-tailed deer on designated areas of the refuge in accordance with State regulations and subject to the following conditions:

1. Conditions B1 through B7, B9, and B13 through B19 apply.

2. All hunters must wear at least 500 square inches (3,225.8square centimeters) of unbroken, fluorescent-orange material visible above the waistline as an outer garment while hunting and en route to and from hunting areas during any firearm deer season (State and/or refuge).

3. We prohibit organized drives for deer and feral hog.

4. Hunting or shooting within or adjacent to open fields or tree plantations less than 5 feet (1.5 meters) in height must be from a stand a minimum of 10 feet (3 meters) above the ground.

5. Deer check station dates, locations, and requirements are designated in the refuge brochure. Prior to leaving the refuge, you must check all harvested deer at the nearest self-service check station following the posted instructions.

6. Hunters may possess and hunt from only one stand or blind. Hunters may place a deer stand or blind 48 hours prior to a hunt and must remove it within 48 hours after each designated hunt with the exception of closed areas where special regulations apply (see brochure).

7. During designated muzzleloader hunts, we allow archery equipment and muzzleloaders loaded with a single ball; we prohibit breech-loading firearms of any type.

* * * * *

Mathews Brake National Wildlife Refuge

A. Migratory Game Bird Hunting. We allow hunting of goose, duck, merganser, and coot on designated areas of the refuge in accordance with State regulations and subject to the following conditions:

1. Each person age 16 and older hunting or fishing must possess a valid T R Complex Annual Public Use Permit (name/address/phone number).

2. All youth hunters age 15 and younger must possess and carry a hunter safety course card or certificate and be in the presence and direct supervision of a Mississippi licensed or exempt hunter, age 21 or older. One adult may supervise no more than one youth hunter.

3. Before hunting and fishing, all participants must display their User Information/Harvest Report Card (Big Game Harvest Report, FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. It is unlawful to throw, dump, dispose of, or intentionally leave any fish or wildlife, wildlife parts, or waste on the refuge. You must remove all parts from the refuge with the exception of field dressing.

7. We prohibit the use of plastic flagging tape.

8. Vehicles should be parked in such a manner as not to obstruct roads, gates, turn rows, or firelanes (see § 27.31(h) of this chapter).

9. For hunting, you may possess or use only approved nontoxic shot (see § 32.2(k)).

10. With the exception of raccoon hunting and frogging, we limit refuge entry and exit to the period of 4 a.m. to 1 ½ hours after legal sunset.

11. For instances of lost or stolen public use permits (name/address/phone number), management may issue duplicates at their discretion, and the hunter may incur a fee.

12. Valid permit holders may take the following in season incidental to other refuge hunts with weapons legal for that hunt: raccoon, opossum, coyote, beaver, bobcat, nutria, and feral hog.

13. We prohibit all-terrain vehicles (ATVs), utility‐type vehicles (UTVs), horses, and mules on the refuge.

14. We prohibit hunting over or the placement of bait (see § 32.2(h)). We prohibit the possession, direct or indirect placing, exposing, depositing, or scattering of any salt, grain, powder, liquid, or other feed substance to attract game.

15. We prohibit hunting or shooting into a 100-foot (30.5m) zone along either side of pipelines, power line rights-of-way, designated roads, trails, or around parking lots (see refuge brochure map). It is considered hunting if you have a loaded weapon, if you have a nocked arrow while bow hunting, or if you are in an elevated tree stand or ground blind with a means to take, within these areas.

16. Hunters must remove all decoys, blind material (see § 27.93 of this chapter), boats, and harvested waterfowl from the area no later than 1 p.m. each day.

17. We allow dogs for retrieving migratory birds.

18. We allow goose, duck, merganser, and coot hunting beginning ½ hour before legal sunrise until 12 p.m. (noon).

19. There is no early teal season.

20. We allow hunting during open State season. The first 2 days of the season and all weekends, with the exception of youth weekends, are limited draw hunts. These hunts require a Limited Hunt Permit (name/address/phone number) assigned by random computer drawing. At the end of the hunt, you must return the permit with information concerning your hunt. If you fail to return this permit, you will not be eligible for any limited hunts the next year. Contact refuge headquarters for specific requirements, hunts, and application dates.

21. Beginning the day before duck season opens and ending the last day of duck season, we close refuge waters to all public use from 1 p.m. until 4 a.m.

B. Upland Game Hunting. We allow hunting of squirrel, rabbit, and raccoon on designated areas in accordance with State regulations and subject to the following conditions:

1. Conditions A1 through A15 and A21 apply.

2. We allow only shotguns with approved nontoxic shot (see § 32.2(k)), and .22 and .17 caliber rimfire rifles for small game hunting.

3. We allow dogs for hunting squirrel and for the February rabbit hunt.

4. All hunters must wear at least 500 square inches (3,225.8 square centimeters) of unbroken, fluorescent-orange material visible above the waistline as an outer garment while hunting and en route to and from hunting areas during any firearm deer season (State and/or refuge) and while rabbit hunting.

5. Beginning the day before waterfowl season, we restrict hunting to the waterfowl hunt area (see refuge brochure map).

C. Big Game Hunting. We allow hunting of white-tailed deer on designated areas in accordance with State regulations and subject to the following conditions:

1. Conditions A1 through A15, A21, B4, and B5 apply.

2. We prohibit organized drives for deer and feral hog.

3. Hunting or shooting within or adjacent to open fields or tree plantations less than 5 feet (1.5 meters) in height must be from a stand a minimum of 10 feet (3 meters) above the ground.

4. Deer check station dates, locations, and requirements are designated in the refuge brochure. Prior to leaving the refuge, you must check all harvested deer at the nearest self-service check station following the posted instructions.

5. Hunters may possess and hunt from only one stand or blind. A hunter may place a deer stand or blind 48 hours prior to a hunt and must remove it within 48 hours after each designated hunt with the exception of closed areas where special regulations apply (see brochure).

6. We allow archery hunting October 1 through January 31.

D. Sport Fishing. We allow fishing on designated areas of the refuge in accordance with State regulations and subject to the following conditions:

1. Conditions A1 through A15, and A21 apply.

2. We prohibit trot lines, limb lines, jugs, seines, and traps.

3. We allow frogging during the State bullfrog season.

4. We allow fishing in all refuge waters throughout the year, except in the waterfowl sanctuary, which we close to fishing from the first day of duck season through March 1 (see refuge brochure map).

Morgan Brake National Wildlife Refuge

A. Migratory Game Bird Hunting. We allow hunting of goose, duck, merganser, and coot on designated areas of the refuge in accordance with State regulations and subject to the following conditions:

1. Each person age 16 and older hunting or fishing must possess a valid T R Complex Annual Public Use Permit (name/address/phone number).

2. All youth hunters age 15 and younger must possess and carry a Hunter Safety Course Card or certificate and be in the presence and direct supervision of a Mississippi licensed or exempt hunter, age 21 or older. One adult may supervise no more than one youth hunter.

3. Before hunting or fishing, all participants must display their User Information/Harvest Report Card (Big Game Harvest Report, FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. It is unlawful to throw, dump, dispose of, or intentionally leave any fish or wildlife, wildlife parts, or waste on the refuge. You must remove all parts from the refuge with the exception of field dressing.

7. We prohibit the use of plastic flagging tape.

8. Vehicles should be parked in such a manner as not to obstruct roads, gates, turn rows, or fire lanes (see § 27.31(h) of this chapter).

9. We prohibit all other public use on the refuge during the muzzleloader deer hunt.

10. For hunting, you may possess or use only approved nontoxic shot (see § 32.2(k)).

11. With the exception of raccoon hunting and frogging, we limit refuge entry and exit to the period of 4 a.m. to 1 ½ hours after legal sunset.

12. For instances of lost or stolen public use permits (name/address/phone number), management may issue duplicates at their discretion, and the hunter may incur a fee.

13. Valid permit holders may take the following in season incidental to other refuge hunts with weapons legal for that hunt: raccoon, opossum, coyote, beaver, bobcat, nutria and feral hog.

14. We allow all-terrain vehicles (ATVs) only on designated trails (see § 27.31 of this chapter) (see refuge brochure map) from September 15 through February 28. We prohibit horses and mules.

15. We prohibit hunting over or the placement of bait (see § 32.2(h)). We prohibit the possession, direct or indirect placing, exposing, depositing, or scattering of any salt, grain, powder, liquid, or other feed substance to attract game.

16. We prohibit hunting or shooting into a 100-foot (30.5-meter (m)) zone along either side of pipelines, power line rights-of-way, designated roads, trails, or around parking lots (see refuge brochure map). It is considered hunting if you have a loaded weapon, if you have a nocked arrow while bow hunting, or if you are in an elevated tree stand or ground blind with a means to take, within these areas.

17. Hunters must remove all decoys, blind material (see § 27.93 of this chapter), and harvested waterfowl from the area no later than 1 p.m. each day.

18. We allow dogs for retrieving migratory birds.

19. We allow goose, duck, merganser, and coot hunting beginning 1-2 hour before legal sunrise until 12 p.m. (noon).

20. There is no early teal season.

B. Upland Game Hunting. We allow hunting of squirrel, rabbit, quail, and raccoon on designated areas of the refuge in accordance with State regulations and subject to the following conditions:

1. Conditions A1 through A16 apply.

2. We allow only shotguns with approved nontoxic shot (see § 32.2(k)), and .22 and .17 caliber rimfire rifles for small game hunting.

3. We allow dogs for hunting squirrel and for the February rabbit hunt.

4. All hunters must wear at least 500 square inches (3,225.8 square centimeters) of unbroken, fluorescent-orange material visible above the waistline as an outer garment while hunting and en route to and from hunting areas during any firearm deer season (State and/or refuge) and while rabbit hunting.

C. Big Game Hunting. We allow hunting of white-tailed deer on designated areas of the refuge in accordance with State regulations and subject to the following conditions:

1. Conditions A1 through A16 and B4 apply.

2. We prohibit organized drives for deer and feral hog.

3. Hunting or shooting within or adjacent to open fields or tree plantations less than 5 feet (1.5 meters) in height must be from a stand a minimum of 10 feet (3 meters) above the ground.

4. Deer check station dates, locations, and requirements are designated in the refuge brochure. Prior to leaving the refuge, you must check all harvested deer at the nearest self-service check station following the posted instructions.

5. Hunters may possess and hunt from only one stand or blind. Hunters may place a deer stand or blind 48 hours prior to a hunt and must remove it within 48 hours after each designated hunt with the exception of closed areas where special regulations apply (see brochure).

6. During designated muzzleloader hunts, we allow archery equipment and muzzleloaders loaded with a single ball; we prohibit breech-loading firearms of any type.

D. Sport Fishing. We allow fishing on designated areas of the refuge in accordance with State regulations and subject to the following conditions:

1. Conditions A1 through A16 apply.

2. We prohibit trot lines, limb lines, jugs, seines, and traps.

3. We allow frogging during the State bullfrog season

4. We open refuge waters to fishing March 1 through November 15, except Providence Ponds, which is closed one day prior to the beginning of waterfowl season until March 1.

Panther Swamp National Wildlife Refuge

A. Migratory Game Bird Hunting. We allow hunting of goose, duck, merganser, and coot on designated areas of the refuge in accordance with State regulations and subject to the following regulations:

1. Each person age 16 and older hunting or fishing must possess a valid T R Complex Annual Public Use Permit (name/address/phone number).

2. All youth hunters age 15 and younger must possess and carry a Hunter Safety Course Card or certificate and be in the presence and direct supervision of a Mississippi licensed or exempt hunter, age 21 or older. One adult may supervise no more than one youth hunter.

3. Before hunting or fishing, all participants must display their User Information/Harvest Report Card (Big Game Harvest Report, FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. It is unlawful to throw, dump, dispose of, or intentionally leave any fish or wildlife, wildlife parts, or waste on the refuge. You must remove all parts from the refuge with the exception of field dressing.

7. We prohibit the use of plastic flagging tape.

8. Vehicles should be parked in such a manner as not to obstruct roads, gates, turn rows, or fire lanes (see § 27.31(h) of this chapter).

9. We prohibit all other public use on the refuge during all limited draw hunts.

10. For hunting, you may possess or use only approved nontoxic shot (see § 32.2(k)).

11. With the exception of raccoon hunting and frogging, we limit refuge entry and exit to the period of 4 a.m. to 1½ hours after legal sunset.

12. For instances of lost or stolen public use permits (name/address/phone number), management may issue duplicates at their discretion, and may charge a fee.

13. Valid permit holders may take the following in season incidental to other refuge hunts with weapons legal for that hunt: raccoon, opossum, coyote, beaver, bobcat, nutria, and feral hog.

14. We allow all-terrain vehicles (ATVs)/utility‐type vehicles (UTVs) only on designated trails (see § 27.31 of this chapter) (see refuge brochure map) from September 15 through February 28. We prohibit horses and mules.

15. We prohibit hunting over or the placement of bait (see § 32.2(h)). We prohibit the possession, direct or indirect placing, exposing, depositing, or scattering of any salt, grain, powder, liquid, or other feed substance to attract game.

16. We prohibit hunting or shooting into a 100-foot (30-meter (m)) zone along either side of pipelines, power line rights-of-way, designated roads, trails, or around parking lots (see refuge brochure map). It is considered hunting if you have a loaded weapon, if you have a nocked arrow while bow hunting, or if you are in an elevated tree stand or ground blind with a means to take, within these areas.

17. Hunters must remove all decoys, blind material (see § 27.93 of this chapter), and harvested waterfowl from the area no later than 1 p.m. each day.

18. We allow dogs for retrieving migratory birds.

19. We allow goose, duck, merganser, and coot hunting beginning ½ hour before legal sunrise until 12 p.m. (noon).

20. Beginning December 15 through March 1, we prohibit all entry into the Lower Twist and Carter Ponds area.

21. During the State Waterfowl season (except early teal season), waterfowl hunting in Unit 1 will be on Monday, Tuesday, and Wednesday. Waterfowl hunting in Unit 2 will be on Friday, Saturday, and Sunday (see refuge brochure for details).

B. Upland Game Hunting. We allow hunting of squirrel, rabbit, quail, and raccoon on designated areas of the refuge in accordance with State regulations and subject to the following conditions:

1. Conditions A1 through A16 and A20 apply.

2. We allow only shotguns with approved nontoxic shot (see § 32.2(k)), and .22 and .17 caliber rimfire rifles for small game hunting.

3. We allow dogs for hunting squirrel and raccoon, and for the February rabbit hunt.

4. All hunters must wear at least 500 square inches (3,225.8 square centimeters) of unbroken, fluorescent-orange material visible above the waistline as an outer garment while hunting and en route to and from hunting areas during any firearm deer season (State and/or refuge) and while rabbit hunting.

C. Big Game Hunting. We allow hunting of white-tailed deer and turkey on designated areas of the refuge in accordance with State regulations and subject to the following conditions:

1. Conditions A1 through A16, and B4 apply.

2. We prohibit organized drives for deer and feral hog.

3. Hunting or shooting within or adjacent to open fields or tree plantations less than 5 feet (1.5 meters) in height must be from a stand a minimum of 10 feet (3 meters) above the ground.

4. Deer check station dates, locations, and requirements are designated in the refuge brochure. Prior to leaving the refuge, you must check all harvested deer at the nearest self-service check station following the posted instructions.

5. Hunters may possess and hunt from only one stand or blind. Hunters may place a deer stand or blind 48 hours prior to a hunt and must remove it within 48 hours after each designated hunt with the exception of closed areas where special regulations apply (see brochure).

6. During designated muzzleloader hunts, we allow archery equipment and muzzleloaders loaded with a single ball; we prohibit breech-loading firearms of any type.

7. We allow only shotguns with approved nontoxic shot (see § 32.2(k)) and archery equipment for turkey hunting.

8. Limited draw hunts require a Limited Hunt Permit (name/address/phone number) assigned by random computer drawing. At the end of the hunt, the permit with information concerning that hunt must be returned to the refuge. Failure to return this permit will disqualify the hunter for any limited hunts the next year.

D. Sport Fishing. We allow fishing on designated areas of the refuge in accordance with State regulations and subject to the following conditions:

1. Conditions A1 through A12 and A20 apply.

2. We prohibit trot lines, limb lines, jugs, seines, and traps.

3. We allow frogging during the State bullfrog season.

Sam D. Hamilton Noxubee National Wildlife Refuge

A. Migratory Game Bird Hunting. We allow hunting of goose, duck, woodcock, and coot on designated areas of the refuge in accordance with State regulations and subject to the following conditions:

1. You must purchase a refuge waterfowl permit (Waterfowl Lottery Application; FWS Form 3-2355) for waterfowl hunting in addition to meeting other applicable State and Federal requirements. No more than two companions may accompany each permitted hunter, and we do not require these companions to purchase permits. Permits are nontransferable and only issued to hunters ages 16 and older. Permit holders can hunt as standby hunters for any date for which waterfowl hunting is open.

2. Information on hunts and hunt dates are available at refuge headquarters, on the refuge Web site, and as specified in the refuge brochure. All hunters and anglers must possess and carry a signed refuge public use brochure when conducting these activities.

3. Hunters must remove all decoys, blind material, and harvested waterfowl from the refuge no later than 12 p.m. (noon) each day (see §§ 27.93 and 27.94 of this chapter).

4. All youth hunters of age 15 and younger must remain within sight and normal voice contact of an adult age 21 or older. One adult may supervise not more than two youth hunters.

5. All waterfowl hunters must check-in and check-out at the refuge's duck check station both before and after a day's hunt.

6. We prohibit possession of alcoholic beverages (see § 32.2(j)).

7. Persons possessing, transporting, or carrying firearms on the refuge must comply with all provisions of State and local law. Persons may only use (discharge) firearms in accordance with refuge regulations (see § 27.42 of this chapter and specific refuge regulations in part 32).

8. All hunters may possess only approved nontoxic shot while hunting within wetlands and green-tree reservoirs (see § 32.2(k)).

9. We prohibit leaving any personal property, including, but not limited to, boats or vehicles of any type, geocaches, and cameras, overnight on the refuge (see § 29.93 of this chapter). The only exceptions are tree stands used for deer hunting and trotlines and jugs used for fishing.

10. During the deer firearm (primitive or modern gun) hunts, any person hunting species other than waterfowl, accompanying another person hunting species other than waterfowl, or walking off-trail within areas open to deer hunting must wear at least 500 square inches (3,225.8 square centimeters) of unbroken fluorescent-orange material visible above the waistline as an outer garment at all times.

11. We allow unleashed dogs for retrieval of migratory game birds.

12. We prohibit marking trees and using flagging tape, reflective tacks, and other similar marking devices.

13. We require all hunters to record hours hunted and game harvested using the Migratory Bird Hunt Report (FWS Form 3-2361).

B. Upland Game Hunting. We allow hunting of squirrel, rabbit, quail, opossum, and raccoon on designated areas of the refuge in accordance with State regulations and subject to the following conditions:

1. We prohibit upland game hunting within the designated areas for waterfowl hunting when waterfowl hunting is actively taking place.

2. We only allow use and possession of approved nontoxic shot and nontoxic ammunition for hunting upland game within wetlands with open water and green-tree reservoirs whether flooded or not (see § 32.2(k)).

3. We only allow shotguns with a shot size no larger than No. 2 and rifles no larger than a standard .22 caliber for taking upland game. We prohibit .22 caliber magnum ammunition and .17 Hornady Magnum Rimfire (HMR) for hunting.

4. We allow hunting of squirrel, raccoon, rabbit, quail, and opossum with unleashed dogs during designated hunts.

5. We allow raccoon and opossum hunting between the hours of legal sunset and legal sunrise.

6. Conditions A2, A4, A6, A7, A8, A9, A10, A12 and A13 apply.

7. We prohibit the use of all-terrain vehicles (ATVs), utility‐type vehicles (UTVs), and livestock, including horses and mules.

8. We prohibit hunting or entry into areas designated as being “closed” (see refuge brochure map).

9. Hunters may take incidental species (coyote, beaver, nutria, and feral hog) during any hunt with those weapons legal during those hunts.

10. We require all hunters to record hours hunted and all harvested game on the Upland Game Hunt Report (FWS Form 3-2362) at the conclusion of each day at one of the refuge check stations.

C. Big Game Hunting. We allow hunting of white-tailed deer and turkey on designated areas of the refuge in accordance with State regulations and subject to the following conditions:

1. Conditions A2, A4, A6, A7, A8, A9, A10, A12, A13, B2, B7, B7, B9, and B10 apply.

2. You must purchase a refuge quota deer permit (Quota Deer Hunt Application; FWS Form 3-2354) in addition to meeting State requirements for all refuge deer hunts. Permits are nontransferable. We do not require youth younger than age 16 to purchase a refuge quota deer hunting permit and can obtain a free permit at the refuge office.

3. We prohibit organized drives for deer.

4. You may place portable tree stands for deer hunting on the refuge only during the open deer season. You must clearly label all stands with your name, address, and phone number. When not in use and left on the refuge, you must place stands in a nonhunting position at ground level.

5. We require turkey hunters to use and possess nontoxic shot within locations mapped as green-tree reservoirs within the refuge brochure (see § 32.2(k)).

6. We prohibit big game hunting in the area designated for waterfowl hunting when waterfowl hunting is actively taking place.

7. We prohibit hunting by aid or distribution of any feed, salt, scent attractant, or other mineral at any time (see § 32.2(h)).

8. While climbing a tree, installing a tree stand that uses climbing aids, or hunting from a tree stand on the refuge, hunters must use a fall-arrest system (full body harness) that is manufactured to the Treestand Manufacturer's Association's standards.

D. Sport Fishing. We allow sport fishing on designated areas of the refuge in accordance with State regulations and subject to the following conditions:

1. The general sport fishing, boating, and bow fishing season extends from March 1 through October 31, except for the posted southern shore of Bluff Lake, the entire Noxubee River, and all borrow pit areas along Highway 25 that are open year-round to fishing. Persons must possess and carry a signed refuge public use brochure when fishing.

2. Conditions A7, A9, and B7 apply (see § 27.93 of this chapter).

3. Anglers must keep boat travel at idle speed, and they must not create a wake when moving.

4. We prohibit limb lines, jug fishing, trotlines, snag lines, and hand grappling in Ross Branch, Bluff, and Loakfoma Lakes.

5. When left unattended, anglers must tag fishing gear with their name, address, and phone number. Anglers must check all gear within 24 hours or remove these devices.

6. Trotlining:

i. Anglers must label each end of the trotline floats with the owner's name, address, and phone number.

ii. We limit trotlines to one line per person, and we allow no more than two trotlines per boat.

iii. Anglers must tend all trotlines every 24 hours and remove them when not in use.

iv. Trotlines must possess at least 6-inch (15.2-centimeter) cotton string leads.

7. Jug fishing:

i. Anglers must label each jug with their name, address, and phone number.

ii. Anglers must attend all jugs every 24 hours and remove them when not in use.

8. We prohibit night time bow fishing.

9. We prohibit fishing tournaments on all refuge waters.

10. We prohibit the taking of frogs and turtles (see § 27.21 of this chapter).

11. We prohibit the use of airboats, sailboats, hovercrafts, and inboard-water-thrust boats such as, but not limited to, personal watercraft, watercycles, and waterbikes.

St. Catherine Creek National Wildlife Refuge

A. Migratory Game Bird Hunting. * * *

2. We require that all hunters and anglers age 16 and older purchase an Annual Public Use Permit (name/address/telephone number). We waive the fee for individuals age 65 and older. The refuge user is required to sign, certifying that you understand and will comply with all regulations, and carry this permit at all times while on the refuge.

* * * * *

6. You may possess only approved nontoxic shot while hunting on the refuge (see § 32.2(k)). This requirement only applies to the use of shotgun ammunition.

* * * * *

B. Upland Game Hunting. * * *

1. We only allow hunting shotguns, .22 caliber rimfire rifles or smaller, and muzzle‐loading rifles under .38 caliber shooting patched round balls, except for raccoon hunting (see condition 3.iv below). We prohibit the possession of hunting with slugs, buckshot, or rifle hunting ammunition larger than .22 rimfire.

* * * * *

C. Big Game Hunting. * * *

10. Refuge users must check all game (name) taken prior to leaving the refuge at one of the self‐clearing check stations indicated on the map in the Refuge Public Use Brochure.

* * * * *

D. Sport Fishing. * * *

7. Conditions A2, A10, A11, and A14 apply.

Tallahatchie National Wildlife Refuge

A. Migratory Game Bird Hunting. * * *

1. All hunters must comply with all State hunter education requirements. All hunters age 16 years and older must possess and carry a valid, signed refuge hunting permit (signed brochure). All persons younger than age 16, while hunting on the refuge, must be in the presence and under the direct supervision of a licensed or exempt hunter at least age 21, when hunting. A licensed hunter supervising a youth as provided in this section must hold all required licenses and permits.

* * * * *

3. We only allow hunting of migratory game birds, including the Light Goose Conservation Order, on Wednesdays, Saturdays, and Sundays from 1-2 hour before legal sunrise and ending at 12 p.m. (noon). Hunters must remove all decoys, blind material (see § 27.93 of this chapter), and harvested waterfowl from the area no later than 1 p.m. each day.

* * * * *

10. You must remove decoys, blinds, boats, other personal property, and litter (see §§ 27.93 and 27.94) from the hunting area following each morning's hunt. We prohibit cutting or removing trees and other vegetation (see § 27.51 of this chapter). We prohibit the use of flagging, paint, blazes, tacks, or other types of markers.

* * * * *

13. We prohibit all commercial activities, including guiding or participating in a paid guided hunt.

* * * * *

Yazoo National Wildlife Refuge

A. Migratory Game Bird Hunting. We allow hunting of duck, goose, merganser, coot, and dove on designated areas of the refuge in accordance with State regulations and subject to the following conditions:

1. Each person age 16 and older hunting or fishing must possess a valid T R Complex Annual Public Use Permit (name/address/phone number).

2. All youth hunters age 15 and younger must possess and carry a Hunter Safety Course Card or certificate and be in the presence and direct supervision of a Mississippi licensed or exempt hunter, age 21 or older. One adult may supervise no more than one youth hunter.

3. Before hunting or fishing, all participants must display their User Information/Harvest Report Card (Big Game Harvest Report, FWS Form 3-2359) in plain view in their vehicle so that the required information is readable. All cards must be returned upon completion of the activity and before leaving the refuge.

4. We prohibit hunting or entry into areas designated as “CLOSED” (see refuge brochure map).

5. We prohibit possession of alcoholic beverages (see § 32.2(j)).

6. It is unlawful to throw, dump, dispose or intentionally leave any fish or wildlife, wildlife parts, or waste on the refuge. You must remove all parts from the refuge with the exception of field dressing.

7. We prohibit the use of plastic flagging tape.

8. Vehicles should be parked in such a manner as not to obstruct roads, gates, turn rows, or fire lanes (see § 27.31(h) of this chapter).

9. We prohibit all other public use on the refuge during all limited draw hunts.

10. You may possess only approved nontoxic shot (see § 32.2(k)) while in the field.

11. With the exception of raccoon hunting, we limit refuge entry and exit to the period of 4 a.m. to 1½ hours after legal sunset.

12. For instances of lost or stolen public use permits (name/address/phone number), management may issue duplicates at their discretion, and may charge a fee.

13. Valid permit holders may take the following in season as incidental to other refuge hunts with weapons legal for that hunt: raccoon, opossum, coyote, beaver, bobcat, nutria, and feral hog.

14. We prohibit all-terrain vehicles (ATVs), utility‐type vehicles (UTVs), horses, and mules are prohibited.

15. We prohibit hunting over or the placement of bait (see § 32.2(h)). We prohibit the possession, direct or indirect placing, exposing, depositing, or scattering of any salt, grain, powder, liquid, or other feed substance to attract game.

16. We prohibit hunting or shooting into a 100-foot (30.5-meter (m)) zone along either side of pipelines, power line rights-of-way, designated roads, trails, or around parking lots (see refuge brochure map). It is considered hunting if you have a loaded weapon, if you have a nocked arrow while bow hunting, or if you are in an elevated tree stand or ground blind with a means to take, within these areas.

17. Hunters must remove all decoys, blind material (see § 27.93 of this chapter), and harvested waterfowl from the area no later than 1 p.m. each day.

18. We allow dogs for retrieving migratory birds.

19. We allow goose, duck, merganser, and coot hunting beginning ½ hour before legal sunrise until 12 p.m. (noon).

B. Upland Game Hunting. We allow hunting of squirrel, rabbit, quail, and raccoon on designated areas of the refuge in accordance with State regulations and subject to the following conditions:

1. Conditions A1 through A16 apply.

2. We allow only shotguns with approved nontoxic shot (see § 32.2(k)), .22 and .17 caliber rimfire rifles for small game hunting.

3. We allow dogs for hunting squirrel and raccoon, and for the February rabbit hunt.

4. All hunters must wear at least 500 square inches (3,225.8 square centimeters) of unbroken, fluorescent-orange material visible above the waistline as an outer garment while hunting and en route to and from hunting areas during any firearm deer season (State and/or refuge) and while rabbit hunting.

5. We allow rabbit hunting on the Brown Tract.

C. Big Game Hunting. We allow hunting of white-tailed deer and turkey on designated areas of the refuge in accordance with State regulations and subject to the following conditions:

1. Conditions A1 through A16, and B4 apply.

2. We prohibit organized drives for deer and feral hog.

3. Hunting or shooting within or adjacent to open fields or tree plantations less than 5 feet (1.5 meters) in height must be from a stand a minimum of 10 feet (3 meters) above the ground.

4. Deer check station dates, locations, and requirements are designated in the refuge brochure. Prior to leaving the refuge, you must check all harvested deer at the nearest self-service check station following the posted instructions.

5. Hunters may possess and hunt from only one stand or blind. Hunters may place a deer stand or blind 48 hours prior to a hunt and must remove it within 48 hours after each designated hunt with the exception of closed areas where special regulations apply (see brochure).

6. During designated muzzleloader hunts, we allow archery equipment and muzzleloaders loaded with a single ball; we prohibit breech-loading firearms of any type.

7. Limited draw hunts require a Limited Hunt Permit (name/address/phone number) assigned by random computer drawing. At the end of the hunt, the permit with information concerning that hunt must be returned to the refuge. Failure to return this permit will disqualify the hunter for any limited hunts the next year.

8. We allow archery deer hunting on the Brown Tract.

* * * * *

20. Amend § 32.44 by:

a. Under Big Muddy National Wildlife Refuge:

i. Adding paragraph A.3.

ii. Revising paragraphs B.1 and C.6.

b. Under Clarence Cannon National Wildlife Refuge:

i. Revising paragraphs C.2 and C.5.

ii. Removing paragraph C.7.

iii. Redesignating paragraph C.8 as C.7.

c. Under Mingo National Wildlife Refuge:

i. Adding paragraph A.10.

ii. Revising paragraphs B.1 and B.7.

iii. Revising paragraphs C.1, C.7, and C.10.

iv. Adding paragraph C.11.

v. Revising paragraphs D.1, D.2, and D.4.

d. Revising paragraphs A, B, and C under Swan Lake National Wildlife Refuge.

The additions and revisions read as follows:

§ 32.44 Missouri.

* * * * *

Big Muddy National Wildlife Refuge

A. Migratory Game Bird Hunting. * * *

3. For hunting, you may use or possess only approved nontoxic shot shells while in the field, including shot shells used for hunting wild turkey (see § 32.2(k)).

B. Upland Game Hunting. * * *

1. Condition A3 applies.

* * * * *

C. Big Game Hunting. * * *

6. Condition A3 applies to wild turkey only.

* * * * *

Clarence Cannon National Wildlife Refuge

* * * * *

C. Big Game Hunting. * * *

2. You must register at the hunter sign-in/out station and record the sex and age of deer harvested on the Big Game Harvest Report (FWS Form 3-2359).

* * * * *

5. You must remove all boats, blinds, blind materials, stands, platforms, scaffolds, and other hunting equipment (see §§ 27.93 and 27.94 of this chapter) from the refuge at the end of each day's hunt.

* * * * *

Mingo National Wildlife Refuge

A. Migratory Game Bird Hunting. * * *

10. We allow the take of feral hog at any time and bobcat when in season, while legally hunting others species on the refuge.

B. Upland Game Hunting. * * *

1. Conditions A3, A8, A9, and A10 apply.

* * * * *

7. Archery hunters may take squirrel, raccoon, and bobcat while in season and feral hog anytime while archery deer hunting.

* * * * *

C. Big Game Hunting. * * *

1. Conditions A3, A5, A8, A9, A10, and B2 apply.

* * * * *

7. We allow portable tree stands only from 2 weeks before to 2 weeks after the State archery deer season with the following exception: In the Expanded General Hunt Area, you must remove all personal property at the end of each day.

* * * * *

10. We prohibit the distribution of bait or hunting with the aid of bait, salt, or other ingestible attractant (see § 32.2(h)).

11. We require hunters to apply for managed deer hunts through the Missouri Department of Conservation internet draw.

D. Sport Fishing. * * *

1. We allow fishing year-round from ½ hour before legal sunrise until ½ hour after legal sunset on Red Mill Pond, Mingo River (south of Ditch 6 Road), Stanley Creek, May Pond, Fox Pond, Binford Pond, and Ditches 2, 3, 6, 10, and 11.

2. We allow fishing in moist soil units, Monopoly Marsh, Rockhouse Marsh, and Ditches 4 and 5 only from March 1 through September 30.

* * * * *

4. We prohibit all boat motors in the Mingo Wilderness. We allow the use of electric trolling motors outside the Mingo Wilderness.

* * * * *

Swan Lake National Wildlife Refuge

A. Migratory Game Bird Hunting. We allow hunting of migratory birds on designated areas of the refuge in accordance with State regulations and subject to the following conditions:

1. For hunting, you may use or possess only approved nontoxic shot shells while in the field, including shot shells used for hunting wild turkey (see § 32.2(k)).

2. We allow hunting of waterfowl, dove, rail, snipe, and woodcock on the Schmitt, Moresi, Bates, Truman Reservoir, and Yellow Creek Triangle Units subject to State regulations and seasons.

3. We allow hunting of waterfowl, dove, rail, snipe, and woodcock on the refuge subject to the following conditions:

i. We require the Missouri Department of Conservation “Green Card” while hunting waterfowl.

ii. We require Missouri Department of Conservation “Orange Cards” while dove hunting.

iii. You must follow designated check-in and check-out procedures.

iv. We only allow waterfowl hunting during designated days of the waterfowl seasons, late goose season, and Spring Conservation Order season.

v. We restrict hunting hours to designated times on designated units. You must remove all equipment and exit units by 1 p.m.

vi. During the Spring Conservation Order season, you may leave decoys and blinds overnight in your assigned unit.

vii. You may hunt only in the designated area to which you are assigned at the check station.

viii. We require that you leash or kennel hunting dogs when outside the hunting unit. Dogs must be under the control of the owner at all times.

ix. We restrict hunting units to parties no larger than four, unless otherwise designated.

x. We prohibit driving vehicles, including all-terrain vehicles (ATVs), into units. We allow hand-pulled carts. You must park vehicles in designated parking areas for the unit.

xi. We prohibit the cutting of woody vegetation (see § 27.51 of this chapter) on the refuge.

xii. We prohibit hunting or shooting on, across, or within 100 feet (30.5 meters) of a service road, parking lot, or designated trail.

xiii. We restrict waterfowl hunters to a designated number of shot shells in their possession while hunting in designated waterfowl hunting units.

B. Upland Game Hunting. We allow hunting of upland game on designated areas of the refuge in accordance with State regulations and seasons, and subject to the following conditions:

1. Conditions A.1 and A.3.xii apply.

2. On the Schmitt, Moresi, Bates, Truman Reservoir, and Yellow Creek Triangle Units, we allow hunting of quail, rabbit, squirrel, groundhog, bullfrog, green frog, pheasant, raccoon, coyote, red and gray fox, bobcat, opossum, skunk, and badger according to State seasons and regulations. You may access the Yellow Creek Triangle via the Yellow Creek Conservation Area.

3. On the refuge, we allow hunting of squirrel on designated areas in accordance with State regulations and seasons, and subject to the following conditions:

i. We allow shotguns, handguns, and rimfire .22 caliber rifles.

ii. You may not access the refuge from neighboring private or public lands.

iii. We restrict hunting use hours on designated hunting units.

C. Big Game Hunting. We allow hunting of deer and wild turkey on designated areas of the refuge in accordance with State regulations and subject to the following conditions:

1. Condition A.1 applies only to wild turkey. Conditions A.3.iii. and B.3.ii. apply.

2. On the Schmitt, Moresi, Bates, and Truman Reservoir Units, we allow hunting of white-tailed deer and wild turkey in accordance with State regulations and seasons.

3. On the Yellow Creek Triangle Unit, we allow archery hunting of white-tailed deer consistent with regulations and seasons in the adjacent Yellow Creek Wildlife Management Area.

4. On the refuge, we allow hunting of white-tailed deer subject to the following conditions:

i. We require a Missouri Department of Conservation Permit, along with Missouri Department of Conservation hunter identification tags and parking permits (name/address/phone number) to hunt during the managed deer hunt.

ii. You must participate in a pre-hunt orientation for managed deer hunts.

iii. You must hunt in designated areas during designated times.

iv. We allow entry onto the refuge 1 hour prior to shooting hours during managed deer hunts. You must be off the refuge 1 hour after shooting hours, unless permission has been granted by the refuge manager or designee.

v. We prohibit shooting from, across, or within 100 feet (30.5 meters) of a service road, public road, parking lot, or designated trail unless authorized by the refuge manager.

vi. We allow use of portable tree stands and blinds during managed deer hunts, and you must remove them at designated times. You must attach your name, address, and phone number to all stands and blinds. During managed firearms hunts, you must mark enclosed hunting blinds and stands with hunter orange visible from all sides.

vii. We prohibit hunting over or placing on the refuge any salt or other mineral blocks (see § 32.2(h)).

viii. During special hunts, one nonhunting assistant may accompany youth or hunters with disabilities.

* * * * *

21. Amend § 32.47 by revising paragraphs A.4, C.2, and C.3 under Stillwater National Wildlife Refuge to read as follows:

§ 32.47 Nevada.

* * * * *

Stillwater National Wildlife Refuge

A. Migratory Game Bird Hunting. * * *

4. Persons possessing, transporting or carrying firearms on national wildlife refuges must comply with all provisions of State and local law. Persons may only use (discharge) firearms in accordance with refuge regulations (§ 27.42 of this chapter and specific refuge regulations in part 32).

* * * * *

C. Big Game Hunting. * * *

2. Hunters must only use shotguns, muzzleloading weapons, or bow and arrow, and may possess and use only nontoxic projectiles for hunting (see § 32.2(k)).

3. Persons possessing, transporting or carrying firearms on national wildlife refuges must comply with all provisions of State and local law. Persons may only use (discharge) firearms in accordance with refuge regulations (§ 27.42 of this chapter and specific refuge regulations in part 32).

* * * * *

22. Amend § 32.48 by revising paragraph C.5 under Umbagog National Wildlife Refuge to read as follows:

§ 32.48 New Hampshire.

* * * * *

Umbagog National Wildlife Refuge

* * * * *

C. Big Game Hunting. * * *

5. We allow only temporary tree stands and blinds. You may erect a tree stand or blind no earlier than August 1, and you must remove it by December 31. We prohibit nails, screws, or screw-in climbing pegs to build or access a tree stand or blind (see § 32.2(i)). You must mark tree stands and blinds with your full name and address.

* * * * *

23. Amend § 32.49 by revising the entry for Wallkill National Wildlife Refuge by:

a. Revising paragraphs A.1, A.4, and A.8.

b. Revising paragraphs B and C.

c. Revising paragraph D.1.

The revisions read as follows:

§ 32.49 New Jersey.

* * * * *

Wallkill National Wildlife Refuge

A. Migratory Game Bird Hunting. * * *

1. You must submit a Migratory Bird Hunt Application/Permit (information taken from OMB-approved Migratory Bird Hunt Application, FWS Form 3-2357) to hunt on the refuge. We require hunters to possess a signed refuge hunt permit (name and address only) at all times while scouting and hunting on the refuge. We charge a fee for all hunters except youth age 16 and younger.

* * * * *

4. We provide a designated hunting area at 119 Owens Station Road, Vernon, New Jersey. We reserve this property for the exclusive use of physically challenged individuals who have produced evidence of the New Jersey Permit to Shoot or Hunt from a Stationary Vehicle and possess a signed, disabled hunter refuge permit.

* * * * *

8. We require hunters to remove all hunting blind material, boats, and decoys from the refuge at the end of each hunting season (see § 27.93 of this chapter).

* * * * *

B. Upland Game Hunting. We allow hunting of coyote, fox, crow, ruffed grouse, opossum, raccoon, pheasant, chukar, rabbit/hare/jackrabbit, squirrel, and woodchuck on designated areas of the refuge in accordance with State of New Jersey regulations and subject to the following conditions:

1. We require hunters to submit a Big Game Hunt Application/Permit (information taken from OMB-approved Big/Upland Game Hunt Application, FWS Form 3-2356) to hunt on the refuge. We require hunters to possess a signed refuge hunt permit (name and address only) at all times while scouting and hunting on the refuge. We charge a fee for all hunters except youth age 16 and younger.

2. Conditions A3 through A6, and A11 apply.

3. We prohibit scouting.

4. We prohibit the use of dogs during hunting.

5. We prohibit baiting on refuge lands (see § 32.2(h)).

6. We prohibit night hunting.

7. We prohibit woodchuck hunting prior to July 15; we allow use of only rimfire rifles to harvest woodchuck.

C. Big Game Hunting. We allow hunting of white-tailed deer, bear, and wild turkey on designated areas of the refuge in accordance with State of New Jersey regulations and subject to the following conditions:

1. Conditions A3 through A5, A9, A11, B1, B4, and B5 apply.

2. We require firearm hunters to wear, in a conspicuous manner, a minimum of 400 square inches (2,580.6 square centimeters) of solid-color, hunter-orange clothing or material on the head, chest, and back. Bow hunters must meet the same requirements when firearm season is also open. We do not require turkey hunters to wear orange at any time.

3. We require hunters to remove all stands and other hunting material from the refuge at the end of each hunting season (see § 27.93 of this chapter).

4. We allow pre-hunt scouting.

5. We prohibit deer drives.

D. Sport Fishing. * * *

1. We allow fishing in and along the banks of the Wallkill River. We allow shore fishing only in the pond at Owens Station Crossing, Vernon, New Jersey.

* * * * *

24. Amend § 32.50 by revising the entry for Bitter Lake National Wildlife Refuge by:

a. Revising the introductory text of paragraph A and paragraphs A.2, A.4, A.8, and A.9.

b. Revising paragraphs B.2 and B.4.

c. Revising the introductory text of paragraph C and paragraph C.1.

The revisions read as follows:

§ 32.50 New Mexico.

* * * * *

Bitter Lake National Wildlife Refuge

A. Migratory Game Bird Hunting. We allow hunting of goose; duck; coot; mourning, white-winged, and Eurasian collared dove; and sandhill crane on designated areas of the refuge in accordance with State regulations and any special posting or publications, subject to the following conditions:

* * * * *

2. On the Middle Tract (the portion of the refuge located between U.S. Highway 70 and U.S. Highway 380), we allow hunting of goose, duck, sandhill crane, and American coot (no dove):

i. In the designated public hunting area, which is located in the southern portion of the Tract; and

ii. No closer than 100 yards (91.4 meters) to the public auto tour route; and

iii. Only on Tuesdays, Thursdays, and Saturdays during the period when the State seasons that apply to the Middle Tract area are open simultaneously for hunting all of the species allowed; and

iv. Only until 1 p.m. (local time) on each permitted hunt day.

* * * * *

4. You may use only approved nontoxic shotgun shot while hunting (see § 32.2(k)).

* * * * *

8. We do not require permits other than those required by the State.

9. Visit the refuge office or Web site, and/or refer to additional on-site brochures, leaflets, or postings for additional regulations.

B. Upland Game Hunting. * * *

2. On the Middle Tract (the portion of the refuge located between U.S. Highway 70 and U.S. Highway 380), we allow only pheasant hunting:

i. Conditions A.2.i, A.2.ii, and A.2.iv apply.

ii. Only on Tuesdays, Thursdays, and Saturdays during the appropriate State season that applies to the Middle Tract area.

iii. All hunting must cease at 1 p.m. (local time) on each hunt day.

* * * * *

4. Conditions A4, A6, and A9 apply.

* * * * *

C. Big Game Hunting. We allow hunting of mule deer, white-tailed deer, and feral hog on designated areas of the refuge in accordance with State seasons and regulations and any special postings or publications, and subject to the following conditions:

1. We restrict all hunting to the North Tract (including Salt Creek Wilderness Area and the portion of the refuge located north of U.S. Highway 70) with the specification that you may hunt and take feral hog (no bag limit) only while legally hunting deer and only with the weapon legal for deer on that day in that area.

* * * * *

25. Amend § 32.51 by:

a. Under Montezuma National Wildlife Refuge:

i. Revising paragraphs A.2, A.4, A.8, A.10, A.13, A.14, A.15, A.16, A.17, and A.18.

ii. Removing paragraph A.19.

iii. Revising paragraphs C and D.

b. Adding, in alphabetical order, an entry for Wallkill National Wildlife Refuge.

The additions and revisions read as follows:

§ 32.51 New York.

* * * * *

Montezuma National Wildlife Refuge

A. Migratory Game Bird Hunting. * * *

2. We allow hunting only on Tuesdays, Thursdays, and Saturdays during established refuge season set within the State western zone season. We allow a youth waterfowl hunt during the Saturday of the State's established youth waterfowl hunt dates each year.

* * * * *

4. We take opening day reservations between 8:30 a.m. and 9:00 a.m. on the Thursday of the week before the season opener (Note: This is not the Thursday directly before the opener). We take youth hunt reservations between 8:30 a.m. and 9:00 a.m. on the Thursday of the week before the youth hunt (Note: This is not the Thursday directly before the youth hunt.).

* * * * *

8. You may request the parking area of your choice when making reservations; parking areas are given on a first-come, first-served basis.

* * * * *

10. All hunters with reservations and their hunting companions must check-in at the Route 89 Hunter Check Station area at least 1 hour before legal shooting time or forfeit their reservation.

* * * * *

13. In Tschache Pool, hunters must use motorless boats to hunt, and we limit hunters to one boat per reservation. We also limit hunters to one motor vehicle in the Tschache Pool area per reservation.

14. You must not shoot from any dike or within 50 feet (15.2 meters) of any dike or road, or from within 500 feet (152.4 meters) of the Tschache Pool observation tower. We do not limit hunting to specific blind sites.

15. We will announce selection procedures for hunting sites on areas other than Tschache Pool annually.

16. You may possess a maximum of 15 nontoxic shot shells while in the field (see § 32.2(k)); you may not take more than 15 shot shells per hunter into the hunting area.

17. You must stop hunting at 12 p.m. (noon), and you must check-out and be out of the hunting area by 1 p.m.

18. We require proof of successful completion of the New York State Waterfowl Identification Course, the Montezuma Nonresident Waterfowl Identification Course, or a suitable nonresident State Waterfowl Identification Course to hunt the refuge; all hunters must show proof each time they hunt, in addition to showing their valid hunting license and signed Duck Stamp.

* * * * *

C. Big Game Hunting. We allow hunting of white-tailed deer on designated areas of the refuge in accordance with State regulations and subject to the following conditions:

1. We allow hunting of white-tailed deer only on designated areas of the refuge using archery, firearms (see § 27.42 of this chapter), muzzleloaders, or crossbows during established refuge seasons set within the general State white-tailed deer season. Esker Brook and South Spring Pool Trails are not open to hunting before November 1 each year. We allow a youth white-tailed deer hunt during the State's established youth white-tailed deer hunt dates each year.

2. We allow hunting of white-tailed deer 7 days per week (Monday through Sunday) during the refuge season.

3. You must possess, carry, and present upon request to any law enforcement officer a valid daily hunt permit card (Big/Upland Game Hunt Application, FWS Form 3-2356). We will also require you to return the daily hunt permit card at the end of hunting or at the end of the day.

4. Daily hunt permits (Big/Upland Game Hunt Application, FWS Form 3-2356) are available at the Route 89 Hunter Check Station on a first-come, first-served basis, issued by refuge personnel or available on a self-service basis; hunters must come to the Route 89 Hunter Check Station to obtain a permit each day they hunt.

5. We issue a maximum of 300 archery and 175 firearms hunt permit cards each day on a first-come, first-served basis.

6. Hunters must fill out Part A of the daily hunt permit card (Big/Upland Game Hunt Application, FWS Form 3-2356) at check-in and leave it with refuge personnel or deposit it in the Part A box at the Route 89 Hunter Check Station.

7. Hunters must carry Part B of the daily hunt permit card (Big/Upland Game Hunt Application, FWS Form 3-2356) while hunting the refuge.

8. Hunters must complete Part B (Big/Upland Game Hunt Application, FWS Form 3-2356) and deposit it in the Part B box at the Route 89 Hunter Check Station by the end of the hunt day.

9. Successful hunters must bring their deer to the Route 89 Hunter Check Station, or other refuge-specific location, on days designated by the refuge manager in order for deer to be checked.

10. Firearms hunters must wear in a visible manner on the head, chest, and back a minimum of 400 square inches (2,580.6 square centimeters) of solid, blaze orange. Ground blinds must be marked on all sides with a minimum of 400 square inches (2,580.6 square centimeters) of solid, blaze orange.

11. Hunting weapon restrictions follow New York State regulations; successful harvest with a bow or other weapon during firearms season requires use of a firearms season tag.

12. Advanced scouting of the refuge, prior to the hunting season, will be allowed during a time set by the refuge manager.

13. We prohibit boats and canoes on refuge pools. We prohibit hunting on the open-water portions of the refuge pools until the pools are frozen; when frozen, we allow access for hunting only to the Main Pool and Tschache Pool at the refuge manager's discretion based on safety factors and habitat conditions.

14. We prohibit use of all-terrain vehicles (ATVs) (see § 27.31(f) of this chapter), dirt bikes, bicycles, snowmobiles, and watercraft for the purpose of white-tailed deer hunting.

15. Hunters may only use portable tree stands and must remove them (see § 27.93 of this chapter) from the refuge each day.

16. We prohibit screw-in tree steps, nails, and any object used to puncture the bark of a tree; we do allow climbing tree stands that grip the tree (see § 32.2(i)).

17. We allow white-tailed deer hunters to be on the refuge during the period that begins 1 hour before legal sunrise (except for opening day) and ends 1 hour after legal sunset.

18. On opening day of both archery and firearms seasons, we allow hunters on the refuge during the period that begins 2 hours before legal sunrise and ends 1 hour after legal sunset.

19. We prohibit parking and walking along the Wildlife Drive for the purpose of hunting, unless otherwise posted by refuge personnel. Upland areas adjacent to the Wildlife Drive will be open to white-tailed deer hunting each year on December 1 unless otherwise stated by the refuge manager. The Seneca Trail and refuge headquarters areas will be open to white-tailed deer hunting during the refuge's late archery/muzzleloader season unless otherwise stated by the refuge manager.

20. Incentive programs to address deer density issues may be implemented during the refuge hunting season. Incentive programs may include, but are not limited to, issuing New York State Deer Management Assistance Permit tags to refuge hunters, or implementing an “earn a buck” or similar program.

D. Sport Fishing. Anglers may access the New York State Barge Canal System Waters at established fishing access sites on the refuge. You may either bank fish or boat fish in accordance with State regulations.

* * * * *

Wallkill National Wildlife Refuge

A. Migratory Game Bird Hunting. We allow hunting of migratory birds on designated areas of the refuge in accordance with State of New York regulations and subject to the following conditions:

1. We require hunters to submit a Migratory Bird Hunt Application/Permit (information taken from OMB-approved Migratory Bird Hunt Application, FWS Form 3-2357) to hunt on the refuge. We require hunters to possess a signed refuge hunt permit (name and address only) at all times while scouting and hunting on the refuge. We charge a fee for all hunters except youth age 16 and younger.

2. We issue one companion permit (no personal information) at no charge to each hunter. We allow companions to observe and/or call but not to shoot a firearm or bow. Companion and hunters must set up in the same location.

3. We provide hunters with hunt maps and parking permits (name only) that they must clearly display in their vehicle. Hunters who park on the refuge must park in identified hunt parking areas.

4. We prohibit the use of all-terrain vehicles (ATVs) on the refuge.

5. We require hunters to wear, in a conspicuous manner, a minimum of 400 square inches (2,580.6 square centimeters) of solid-color, hunter-orange clothing or material on the head, chest, and back, except when hunting ducks and geese.

6. We prohibit hunters using or erecting permanent or pit blinds.

7. We require hunters to remove all hunting blind material, boats, and decoys from the refuge at the end of each hunting season (see § 27.93 of this chapter).

8. We allow pre-hunt scouting; however, we prohibit the use of dogs during scouting.

9. We limit the number of dogs per hunting party to no more than two dogs.

10. We allow hunters to enter the refuge 2 hours before shooting time, and they must leave no later than 2 hours after the end of shooting time.

11. We prohibit Sunday hunting.

12. We prohibit hunting after November 30.

B. Upland Game Hunting. We allow hunting of rabbit/hare, gray/black/fox squirrel, pheasant, bobwhite quail, ruffed grouse, crow, red/gray fox, coyote, bobcat, raccoon, skunk, mink, weasel, and opossum on designated areas of the refuge in accordance with State of New York regulations and subject to the following conditions:

1. We require hunters to submit a Big Game Hunt Application/Permit (information taken from OMB-approved Big/Upland Game Hunt Application, FWS Form 3-2356) to hunt on the refuge. We require hunters to possess a signed refuge hunt permit (name and address only) at all times while scouting and hunting on the refuge. We charge a fee for all hunters except youth age 16 and younger.

2. Conditions A3 through A5, and A10 through A12 apply.

3. We prohibit scouting.

4. We prohibit the use of dogs during hunting.

5. We prohibit baiting on refuge lands (see § 32.2(h)).

6. We prohibit night hunting.

7. We prohibit hunting of reptiles and amphibians.

8. We prohibit falconry hunting.

C. Big Game Hunting. We allow hunting of white-tailed deer, bear, and wild turkey on designated areas of the refuge in accordance with State of New York regulations and subject to the following conditions:

1. Conditions A3, A4, A8, A10 through A12, B1, B4, and B5 apply.

2. We require firearm hunters to wear, in a conspicuous manner, a minimum of 400 square inches (2,580.6 square centimeters) of solid-color, hunter-orange clothing or material on the head, chest and back. Bow hunters must meet the same requirements when firearm season is also open. We do not require turkey hunters to wear orange at any time.

3. We allow pre-hunt scouting.

4. We require hunters to remove all stands and other hunting material from the refuge at the end of each hunting season (see § 27.93 of this chapter).

5. We prohibit deer drives.

D. Sport Fishing. We allow fishing in designated sections of the refuge in both New York and New Jersey in accordance with State regulations and subject to the following conditions:

1. We allow fishing in and along the banks of the Wallkill River. We allow shore fishing only in the pond at Owens Station Crossing, Vernon, New Jersey.

2. Anglers may fish from legal sunrise to legal sunset.

3. We require that anglers park in designated parking areas to access the Wallkill River through the refuge.

4. On refuge ponds, you may perform only catch-and-release fishing. We prohibit the use of live bait fish on refuge ponds.

5. We prohibit ice fishing on refuge ponds.

6. We prohibit the taking of reptiles and amphibians.

7. We prohibit the digging or collecting of bait.

8. We prohibit commercial fishing on the refuge.

* * * * *

26. Amend § 32.52 by revising the entry for Pocosin Lakes National Wildlife Refuge by:

a. Revising paragraphs A.3, A.4, and A.10.

b. Revising paragraphs C.2, C.3, C.4, and C.5.

c. Removing paragraphs C.6 and C.7.

d. Redesignating paragraphs C.8 through C.11 as C.6 through C.9, respectively.

e. Revising newly designated paragraph C.7.

The revisions read as follows:

§ 32.52 North Carolina.

* * * * *

Pocosin Lakes National Wildlife Refuge

A. Migratory Game Bird Hunting. * * *

3. We require all hunters and anglers to possess and carry a signed, self‐service refuge hunting/fishing permit (signed brochure) while hunting and fishing on the refuge. We require all hunters age 16 and older to purchase and carry a special refuge recreational activity permit (name/address/phone number).

4. We open the refuge for daylight use only (1-2 hour before legal sunrise to 1-2 hour after legal sunset), except that we allow hunters to enter and remain in hunting areas from 2 hours before legal sunrise until 2 hours after legal sunset when we allow hunting in those areas.

* * * * *

10. We allow the use of only portable blinds and temporary blinds constructed of natural materials, but we prohibit cutting any live vegetation on the refuge (see § 27.51 of this chapter). You must remove portable blinds (see § 27.93 of this chapter) at the end of each day.

* * * * *

C. Big Game Hunting. * * *

2. You may hunt spring turkey only if you possess and carry a valid permit (General Activities Special Use Permit Application, FWS Form 3-1383-G). These permits are valid only for the dates and areas shown on the permit. We require an application and a fee for those permits and hold a drawing, when necessary, to select the permittees. You may possess only approved nontoxic shot (see § 32.2(k)) while hunting turkeys west of Evans Road and on the Pungo Unit.

3. We allow the use of those weapons authorized by the North Carolina Wildlife Resources Commission (NCWRC) for taking deer, including all “blackpowder firearms,” as defined by the NCWRC, but we prohibit the use of rifles and pistols.

4. We allow deer hunting on the Pungo Unit only through the end of October each season, except that we allow deer hunting with archery equipment on the Pungo Unit through the end of November.

5. We allow hunters to take feral hogs in any area that is open to hunting deer using only those weapons authorized for taking deer. We also allow hunters to take feral hogs, using only those weapons authorized for taking deer, on the Frying Pan area tracts whenever we open those tracts to hunting any game species with firearms.

* * * * *

7. We allow the use of only portable deer stands (tree climbers, ladders, tripods, etc.), but we require that you remove all of the stands at the end of each day (see § 27.93 of this chapter). We prohibit hunters inserting anything (spikes, screw‐in steps, etc.) into a tree. Hunters may use ground blinds, chairs, buckets, and other such items for hunting, but we require that you remove all of these items at the end of each day (see § 27.93 of this chapter).

* * * * *

27. Amend § 32.53 by:

a. Adding, in alphabetical order, an entry for Ardoch National Wildlife Refuge.

b. Revising paragraph D under Lake Alice National Wildlife Refuge.

c. Adding, in alphabetical order, an entry for Rose Lake National Wildlife Refuge.

d. Adding, in alphabetical order, an entry for Silver Lake National Wildlife Refuge.

The additions and revisions read as follows:

§ 32.53 North Dakota.

* * * * *

Ardoch National Wildlife Refuge

A. Migratory Game Bird Hunting. [Reserved]

B. Upland Game Hunting. [Reserved]

C. Big Game Hunting. [Reserved]

D. Sport Fishing. We allow shore fishing and ice fishing on designated areas of the refuge in accordance with State regulations and subject to the following conditions:

1. We allow vehicles and fish houses on the ice as conditions allow. We restrict vehicle use to nonvegetated ice areas and designated roads (see § 27.31 of this chapter).

2. We prohibit boats on the refuge.

* * * * *

Lake Alice National Wildlife Refuge

* * * * *

D. Sport Fishing. We allow ice fishing in designated areas of the refuge in accordance with State regulations and subject to the following conditions:

1. We allow vehicles and fish houses on the ice as conditions allow. We restrict vehicle use to nonvegetated ice areas and designated roads (see § 27.31 of this chapter).

2. We allow public access for ice fishing from 5:00 a.m. local time to 10:00 p.m. local time.

3. You must remove ice fishing shelters and personal property from the refuge by 10:00 p.m. local time each day.

4. You may not leave unattended fish houses in uplands or in parking areas.

* * * * *

Rose Lake National Wildlife Refuge

A. Migratory Game Bird Hunting. [Reserved]

B. Upland Game Hunting. [Reserved]

C. Big Game Hunting. [Reserved]

D. Sport Fishing. We allow fishing on designated areas of the refuge in accordance with State regulations and subject to the following conditions:

1. We allow vehicles and fish houses on the ice as conditions allow. We restrict vehicle use to nonvegetated ice areas and designated roads (see § 27.31 of this chapter).

2. We allow boats on refuge waters south of Nelson County Road 23; we prohibit boats on other refuge waters.

3. We require that shore anglers park vehicles in the designated parking lot.

* * * * *

Silver Lake National Wildlife Refuge

A. Migratory Game Bird Hunting. [Reserved]

B. Upland Game Hunting. [Reserved]

C. Big Game Hunting. [Reserved]

D. Sport Fishing. We allow fishing on designated areas of the refuge in accordance with State regulations and subject to the following conditions:

1. We allow vehicles and fish houses on the ice as conditions allow. We restrict vehicle use to nonvegetated ice areas and designated roads (see § 27.31 of this chapter).

2. We allow boats on Silver Lake and on refuge waters south of the confluence of the Mauvais Coulee and Little Coulee from May 1 through September 30 of each year.

3. We prohibit water activities not related to fishing (e.g., sailing, skiing, tubing, etc.).

* * * * *

28. Amend § 32.55 by revising the entry for Sequoyah National Wildlife Refuge by:

a. Revising paragraphs A.1, A.5, and A.6.

b. Revising paragraph B.1.

c. Removing paragraphs B.4 and B.5.

d. Revising paragraph D.4.

The revisions read as follows:

§ 32.55 Oklahoma.

* * * * *

Sequoyah National Wildlife Refuge

A. Migratory Game Bird Hunting. * * *

1. You must possess and carry a signed refuge brochure (which serves as your Waterfowl/Migratory Game Bird/Upland Game Hunting Permit). The permit/brochure is available free of charge at the refuge headquarters, at various entry points to the refuge, and on our Web site.

* * * * *

5. Hunters must use only legal shotguns and possess only approved nontoxic shot (see § 32.2(k)). Persons possessing, transporting, or carrying firearms on national wildlife refuges must comply with all provisions of State and local law. Persons may only use (discharge) firearms in accordance with refuge regulations (§ 27.42 of this chapter and specific refuge regulations in part 32).

6. We prohibit construction of pit blinds or permanent blinds. You must reduce blinds to a natural appearance or remove them (see § 27.93 of this chapter) at the end of the day. You must remove all empty shells, litter, decoys, boats, or other personal property (see §§ 27.93 and 27.94 of this chapter) at the end of the day.

* * * * *

B. Upland Game Hunting. * * *

1. Conditions A1, A3, A5, A8, A9, A10, and A12 apply.

* * * * *

D. Sport Fishing. * * *

4. Conditions A7, A8, and A9 apply.

* * * * *

29. Amend § 32.56 by:

a. Revising paragraph C under Bear Valley National Wildlife Refuge.

b. Under Cold Springs National Wildlife Refuge:

i. Revising paragraphs A.3 and A.5.

ii. Removing paragraphs A.7 and A.8.

iii. Redesignating paragraph A.9 as A.7.

iv. Revising paragraph B.2.

v. Removing paragraph D.2.

vi. Redesignating paragraph D.3 as D.2.

c. Revising the introductory text of paragraphs A and D under Klamath Marsh National Wildlife Refuge.

d. Under Lower Klamath National Wildlife Refuge:

i. Revising the introductory text of paragraph A.

ii. Redesignating paragraphs A.1 through A.4 as A.4 through A.7, respectively.

iii. Adding paragraphs A.1, A.2, and A.3.

iv. Revising the introductory text of paragraph B.

v. Redesignating paragraphs B.1 and B.2 as B.2 and B.3, respectively.

vi. Adding paragraph B.1.

e. Under McKay Creek National Wildlife Refuge:

i. Revising paragraph A.3.

ii. Removing paragraph A.5.

iii. Redesignating paragraph A.6 as A.5.

iv. Revising paragraph D.

f. Revising paragraph C under McNary National Wildlife Refuge.

g. Adding, in alphabetical order, an entry for Tualatin River National Wildlife Refuge.

h. Under Umatilla National Wildlife Refuge:

i. Revising the introductory text of paragraph A and paragraph A.3.

ii. Removing paragraph A.6.

iii. Redesignating paragraph A.5 as A.6.

iv. Adding paragraph A.5.

v. Removing paragraph B.2.

vi. Redesignating paragraphs B.3 and B.4 as B.2 and B.3, respectively.

vii. Revising newly designated paragraph B.2.

viii. Removing and reserving paragraph D.2.

i. Revising the introductory text of paragraphs A and D under Upper Klamath National Wildlife Refuge.

j. Revising paragraph C under William L. Finley National Wildlife Refuge.

The revisions and additions read as follows:

§ 32.56 Oregon.

* * * * *

Bear Valley National Wildlife Refuge

* * * * *

C. Big Game Hunting. We allow hunting of deer only on designated areas of the refuge in accordance with State laws and regulations, and subject to the following conditions:

1. Hunting opens concurrent with the State season and closes October 31.

2. We prohibit hunting or public entry of any kind from November 1 to the State-regulated opening day of deer season in the hunting unit.

3. Walk-in access only from designated entry points.

* * * * *

Cold Springs National Wildlife Refuge

A. Migratory Game Bird Hunting.

3. We prohibit discharge of any firearm within 1-4 mile (396 meters (m)) of any maintained building or Federal facility, such as, but not limited to, a structure designed for storage, human occupancy, or shelter for animals. You may not shoot or discharge any firearm from, across, or along a public highway, designated route of travel, road, road shoulder, road embankment, or designated parking area.

* * * * *

5. We allow hunting only on Tuesdays, Thursdays, Saturdays, Sundays, and all federally-recognized holidays within the State season.

* * * * *

B. Upland Game Hunting.* * *

2. We allow hunting from 12 p.m. (noon) to legal sunset on Tuesdays, Thursdays, Saturdays, Sundays, and all federally recognized holidays within the State season.

* * * * *

Klamath Marsh National Wildlife Refuge

A. Migratory Game Bird Hunting. We allow hunting of goose, duck, coot and common snipe on designated areas of the refuge in accordance with State laws and regulations, and subject to the following conditions:

* * * * *

D. Sport Fishing. We allow fishing on designated areas of the refuge in accordance with State laws and regulations, and subject to the following conditions:

* * * * *

Lower Klamath National Wildlife Refuge

A. Migratory Game Bird Hunting. We allow hunting of goose, duck, coot and common snipe on designated areas of the refuge in accordance with State laws and regulations, and subject to the following conditions:

1. In the controlled waterfowl hunting area, we require a Refuge Recreation Pass (passholder/expiration date) for all hunters age 16 or older. An adult with a valid Recreation Pass (passholder/expiration date) must accompany hunters younger than the age of 16 who are hunting in the controlled area.

2. We require advance reservations for the first 2 days of the hunting season. You may obtain a reservation through the Waterfowl Lottery (Migratory Bird Hunt Application, FWS form 3-2357) each year.

3. Entry hours begin at 5:00 a.m. unless otherwise posted.

* * * * *

B. Upland Game Hunting. We allow hunting of pheasant on designated areas of the refuge in accordance with State regulations, and subject to the following conditions:

1. You must wear an outer garment above the waist that is at least 50 percent blaze orange and visible from both front and back. Outer garments may consist of hat or cap, vest, jacket, shirt, or coat.

* * * * *

McKay Creek National Wildlife Refuge

A. Migratory Game Bird Hunting. * * *

3. We prohibit discharge of any firearm within ¼ mile (396 m) of any maintained building or Federal facility, such as, but not limited to, a structure designed for storage, human occupancy, or shelter for animals. You may not shoot or discharge any firearm from, across, or along a public highway, designated route of travel, road, road shoulder, road embankment, or designated parking area.

* * * * *

D. Sport Fishing. We allow fishing on designated areas of the refuge in accordance with State regulations and subject to the following conditions: Condition A1 applies.

* * * * *

McNary National Wildlife Refuge

* * * * *

C. Big Game Hunting. We allow deer hunting on designated areas of the refuge in accordance with State regulations and special conditions listed for McNary National Wildlife Refuge in the State of Washington.

* * * * *

Tualatin River National Wildlife Refuge

A. Migratory Game Bird Hunting. We allow waterfowl hunting on designated areas of the refuge in accordance with State regulations and subject to the following conditions:

1. Age: Youth age 17 and younger may participate as active hunters. Youth must be accompanied by an adult age 21 or older. Supervising adults are not allowed to hunt.

2. A maximum of two hunting youth will be allowed per hunting blind. At least one nonhunting supervising adult must accompany youth hunters. Additional nonhunters may also occupy the blind with a hunting youth and nonhunting adult supervisor for a maximum occupancy of 4 persons per blind.

3. Disabled youth hunters must possess an Oregon Disabilities Hunting and Fishing Permit issued by the Oregon Department of Fish and Wildlife (ODFW) to qualify for preference in using the designated accessible hunting blind (see http://www.dfw.state.or.us/resources/hunting/disability for further information).

4. We will assign blinds by a random drawing of applications.

5. Hunting season will begin on the last weekend of October, as conditions permit, and run through the end of the regular State hunting season. The refuge will not be open for the 3rd period northwest permit zone goose hunt.

6. Hunting hours: Official start times are listed in the shooting hours table in the Oregon game bird regulations. Shooting time ends at 1:00 p.m. for the entire season.

7. We open the hunt area for access 1½ hours before legal shooting hours.

8. You must remove decoys, other personal property, and trash.

9. We allow dogs for retrieving waterfowl.

10. We prohibit possession of shot size larger than BB.

11. All hunters must hunt from designated blinds.

12. We restrict vehicles to designated public use roads and designated parking areas. No overnight camping or parking.

13. All hunters must have visible means of retrieving waterfowl such as float tube, waders, or a dog capable of retrieving. We prohibit motorized boats.

14. Hunters must check-in and check-out at a designated check station. You must report harvest of ducks prior to leaving the refuge. Harvest of geese must be checked at an ODFW-operated goose check station.

15. We prohibit possession of alcohol by any person in the hunt area.

B. Upland Game Hunting. [Reserved]

C. Big Game Hunting. [Reserved]

D. Sport Fishing. [Reserved]

Umatilla National Wildlife Refuge

A. Migratory Game Bird Hunting. We allow hunting of goose, duck, coot, dove, and snipe on designated areas of the refuge in accordance with State regulations and subject to the following conditions:

* * * * *

3. We prohibit discharge of any firearm within 1-4 mile (396 meters (m)) of any maintained building or Federal facility, such as, but not limited to, a structure designed for storage, human occupancy, or shelter for animals. You may not shoot or discharge any firearm from, across, or along a public highway, designated route of travel, road, road shoulder, road embankment, or designated parking area.

* * * * *

5. We allow dove hunting only on the Boardman Unit.

* * * * *

B. Upland Game Hunting. * * *

2. On the McCormack Fee Hunt Unit, we allow hunting only on Wednesdays, Saturdays, Sundays, Thanksgiving Day, and New Year's Day from 12 p.m. (noon) to legal sunset of each hunt day.

* * * * *

Upper Klamath National Wildlife Refuge

A. Migratory Game Bird Hunting. We allow hunting of goose, duck, coot, and common snipe on designated areas of the refuge in accordance with State laws and regulations, and subject to the following conditions:

* * * * *

D. Sport Fishing. We allow fishing in designated areas of the refuge in accordance with State laws and regulations, and subject to the following conditions:

* * * * *

William L. Finley National Wildlife Refuge

* * * * *

C. Big Game Hunting. We allow deer and elk hunting on designated areas of the refuge in accordance with State regulations and subject to the following conditions:

1. We allow deer and elk hunting on designated dates from ½ hour before legal sunrise until ½ hour after legal sunset. We post these refuge-specific regulations at self-service hunt kiosks.

2. You may harvest only antlerless elk with appropriate State-issued tags.

3. We prohibit overnight camping or after-hours parking on the refuge.

4. We prohibit hunting from any refuge structure, observation blind, or boardwalk.

5. We require all hunters to register at a self-service hunt kiosk. All hunters must complete a Big Game Harvest Report (FWS Form 3-2359), after each hunt day.

6. Hunters may use portable or climbing stands but must remove them from the refuge daily (see § 27.93 of this chapter). The Service takes no responsibility for the loss or theft of tree stands left in the field.

7. We restrict vehicles to designated public use roads and designated parking areas.

8. We prohibit the use of dogs during hunting.

9. Persons possessing, transporting, or carrying firearms on national wildlife refuges must comply with all provisions of State and local law. Persons may only use (discharge) firearms in accordance with refuge regulations (see § 27.42 of this chapter and specific refuge regulations in part 32).

10. We prohibit the use of game and trail cameras.

* * * * *

30. Amend § 32.60 by:

a. Under Carolina Sandhills National Wildlife Refuge:

i. Revising paragraph A.1.

ii. Removing paragraph A.2.

iii. Redesignating paragraphs A.3 through A.5 as A.2 through A.4, respectively.

iv. Revising newly designated paragraphs A.3 and A.4.

v. Adding paragraph A.5.

vi. Revising paragraph A.9.

vii. Revising paragraph B.5.

viii. Revising paragraphs C.1, C.2, C.5, C.9, C.11, and C.12.

ix. Removing paragraph C.14.

x. Redesignating paragraphs C.15 through C.20 as C.14 through C.19, respectively.

xi. Revising paragraph D.9.

b. Under Pinckney Island National Wildlife Refuge:

i. Revising the introductory text of paragraph C.

ii. Redesignating paragraphs C.1 through C.16 as C.2 through C.17, respectively.

iii. Adding paragraph C.1.

iv. Revising newly designated paragraphs C.2 and C.9.

v. Adding paragraph C.18.

vi. Revising the introductory text of paragraph D.

vii. Adding paragraph D.3.

c. Under Santee National Wildlife Refuge:

i. Revising paragraphs B.7 and B.13.

ii. Redesignating paragraphs B.18 through B.20 as B.19 through B.21, respectively.

iii. Adding paragraph B.18.

iv. Revising paragraphs C.1 and C.7.

v. Removing paragraph C.11.

vi. Redesignating paragraphs C.12 through C.14 as C.11 through C.13, respectively.

vii. Adding paragraph C.14.

viii. Revising paragraph D.1.

ix. Adding paragraph D.10.

The revisions and additions read as follows:

§ 32.60 South Carolina.

* * * * *

Carolina Sandhills National Wildlife Refuge

A. Migratory Game Bird Hunting. * * *

1. All hunters must possess and carry a signed refuge General Hunt Permit (signed brochure) and government‐issued picture identification.

* * * * *

3. Each youth hunter (younger than age 16) must remain within sight and normal voice contact and under supervision of an adult age 21 or older with a valid license and applicable permit. Each adult may supervise no more than two youth hunters. Each youth hunter must possess and carry evidence of successful completion of a State‐approved hunter education course.

4. We prohibit loaded hunting firearms (see § 27.42 of this chapter) within 100 feet (30.5 meters) of maintained refuge roads or within 500 feet (152.4 meters) of the paved visitor's drive. We prohibit discharge of any weapon on or across any part of the refuge road system. We define a “loaded firearm” as a firearm with shells in the magazine or chamber, or, for muzzleloaders, a gun with the percussion caps put in place.

5. We prohibit the possession or use of alcoholic beverages while hunting.

* * * * *

9. We prohibit the possession or use of more than 50 shotgun shells during the September dove hunts.

B. Upland Game Hunting. * * *

5. All persons participating in refuge firearms hunts must wear at least 500 square inches (3,225.8 square centimeters) of unbroken, fluorescent‐orange material above the waist as an outer garment that is visible from all sides while hunting and while en route to and from hunting areas. This does not apply to raccoon and opossum hunters.

C. Big Game Hunting. * * *

1. Conditions A1 through A5 and A8 apply (with the following exception for condition A3: Each adult may supervise no more than one youth hunter.).

2. On the day of your successful hunt, and prior to removing any harvested deer, feral hog, or turkey from the refuge, you must complete the Big Game Harvest Report (FWS Form 3-2359).

* * * * *

5. During the primitive weapons hunt, you may use bow and arrow, crossbows, muzzleloading shotguns (20 gauge or larger), or muzzleloading rifles (.40 caliber or larger). We prohibit revolving rifles and black‐powder handguns.

* * * * *

9. We prohibit the use of plastic flagging to mark trees or other refuge features.

* * * * *

11. We prohibit the use of all-terrain vehicles (ATVs), except by mobility‐impaired hunters with a Special Use Permit (Permit Application Form: National Wildlife Refuge System General Activities, FWS Form 3-1383-G) during big game hunts. Mobility‐impaired hunters must have a State Disabled Hunting license in order to receive the Special Use Permit.

12. We prohibit turkey hunters from calling a turkey for another hunter unless both hunters have been selected for the refuge turkey hunts.

* * * * *

D. Sport Fishing. * * *

9. We prohibit the use or possession of alcoholic beverages while fishing.

* * * * *

Pinckney Island National Wildlife Refuge

* * * * *

C. Big Game Hunting. We allow hunting of white-tailed deer on designated areas of the refuge in accordance with State regulations and subject to the following conditions:

1. We only allow hunting on the refuge by lottery. We require an application fee to enter the hunt lottery.

2. We require a refuge hunt permit (name/address/phone number) for all hunters chosen in the lottery who are age 16 and older. You must sign the refuge hunt permit and carry it at all times when hunting. We charge a fee for all hunt permits.

* * * * *

9. We allow only shotguns (20 gauge or larger; slugs only), muzzleloaders, and bows, in accordance with State regulations, for hunting.

* * * * *

18. Persons possessing, transporting, or carrying firearms on national wildlife refuges must comply with all provisions of State and local law. Persons may only use (discharge) firearms in accordance with refuge regulations (§ 27.42 of this chapter and specific refuge regulations in part 32.)

D. Sport Fishing. We allow fishing on designated areas of the refuge in accordance with State regulations and subject to the following conditions:

* * * * *

3. We require a South Carolina saltwater fishing license.

Santee National Wildlife Refuge

* * * * *

B. Upland Game Hunting. * * *

7. Hunters must unload and case, or lock in a secure compartment, hunting firearms when transporting them in vehicles and boats during refuge hunts. We define a loaded firearm as having ammunition in the chamber or magazine. We will consider muzzleloaders unloaded if the percussion cap is not seated in the chamber.

* * * * *

13. We prohibit hunting from within 100 feet (30.5 meters) of any roadway, whether open or closed to vehicular traffic, or from or within 300 yards (274.3 meters) of any designated hunter check station.

* * * * *

18. We will open hunting areas from 5 a.m. until 8:30 p.m. during designated hunt periods. We require all hunters to personally sign in and sign out at designated hunter check stations when entering and exiting any portion of the refuge and report all game harvested by 8:30 p.m.

* * * * *

C. Big Game Hunting. * * *

1. Conditions B1 through B18 apply.

* * * * *

7. Deer hunting must occur from portable, elevated deer stands that are no less than 10 feet (3 meters) above ground; we prohibit ground blinds. We allow only one stand per hunter, and the hunter must clearly mark the stand with their full name, date, and phone number.

* * * * *

14. We prohibit the use of boats to access upland areas except to access the Plantation Islands. We allow the use of nonmotorized boats to access the interior canals to inland areas open to hunting.

D. Sport Fishing. * * *

1. A valid State fishing license and a signed refuge fishing permit (signed brochure) must be in each angler's possession while fishing on the refuge, except that we require all recreational fishing boat operators to have only one refuge fishing permit per boat.

* * * * *

10. We prohibit mooring or attaching boats to any refuge boundary marker, post, or navigational post within refuge waters. We also prohibit attaching signs, trotlines, fishing devices, or any other objects to trees, posts, or markers within refuge boundaries.

* * * * *

31. Amend § 32.62 by:

a. Under Chickasaw National Wildlife Refuge:

i. Revising paragraph A.2.

ii. Removing paragraph A.11.

iii. Redesignating paragraph A.12 as A.11.

iv. Revising paragraph B.2.

v. Removing paragraph D.6.

b. Adding paragraph A.11 under Cross Creeks National Wildlife Refuge.

c. Under Hatchie National Wildlife Refuge:

i. Revising paragraph A.2.

ii. Removing paragraph A.8.

iii. Redesignating paragraphs A.9 through A.12 as A.8 through A.11, respectively.

iv. Revising newly designated paragraph A.10.

v. Revising paragraph D.7.

d. Under Lake Isom National Wildlife Refuge:

i. Revising paragraph B.2.

ii. Removing paragraph B.9.

iii. Redesignating paragraphs B.10 through B.16 as B.9 through B.15, respectively.

iv. Revising newly designated paragraph B.12.

e. Under Lower Hatchie National Wildlife Refuge:

i. Revising paragraphs A.2 and A.11.

ii. Removing paragraph A.12.

iii. Redesignating paragraph A.13 as A.12.

iv. Removing paragraph D.8.

f. Under Reelfoot National Wildlife Refuge:

i. Revising paragraph B.2.

ii. Removing paragraph B.9.

iii. Redesignating paragraphs B.10 through B.16 as B.9 through B.15, respectively.

iv. Revising newly designated paragraph B.12.

v. Removing paragraphs D.5, D.6, D.7, and D.8.

g. Revising paragraphs A.12, D.1, and D.4 under Tennessee National Wildlife Refuge.

The revisions and additions read as follows:

§ 32.62 Tennessee.

* * * * *

Chickasaw National Wildlife Refuge

A. Migratory Game Bird Hunting. * * *

2. We allow only legally licensed vehicles on maintained refuge roads and parking areas. We prohibit all-terrain vehicles (ATVs), utility‐type vehicles (UTVs), and off-road motorized vehicles. We prohibit airboats, jet skis, hovercrafts, etc. We prohibit parking as to block travel through refuge access roads, gates, and trails (see § 27.31(h) of this chapter).

* * * * *

B. Upland Game Hunting. * * *

2. We allow hunters to access the refuge no more than 2 hours before legal sunrise to no later than 2 hours after legal sunset with the exception of raccoon and opossum hunters who may access the refuge from legal sunset to legal sunrise.

* * * * *

Cross Creeks National Wildlife Refuge

A. Migratory Game Bird Hunting. * * *

11. We prohibit the use of lead shot.

* * * * *

Hatchie National Wildlife Refuge

A. Migratory Game Bird Hunting. * * *

2. We allow only legally licensed vehicles on maintained refuge roads and parking areas. We prohibit all-terrain vehicles (ATVs), utility‐type vehicles (UTVs), and off-road motorized vehicles. We prohibit airboats, jet skis, hovercrafts, etc. We prohibit parking as to block travel through refuge access roads, gates, and trails (see § 27.31(h) of this chapter).

* * * * *

10. We prohibit cutting of holes, lanes, or other manipulation of vegetation (e.g., cutting bushes and trees, mowing, herbicide use, and other actions) (see § 27.51 of this chapter).

* * * * *

D. Sport Fishing. * * *

7. We only allow fishing boats of 18 feet (5.5 meters) or less in length on refuge lakes.

* * * * *

Lake Isom National Wildlife Refuge

* * * * *

B. Upland Game Hunting. * * *

2. We allow only legally licensed vehicles on maintained refuge roads and parking areas. We prohibit all-terrain vehicles (ATVs), utility‐type vehicles (UTVs), and off-road motorized vehicles. We prohibit airboats, jet skis, hovercrafts, etc. We prohibit parking as to block travel through refuge access roads, gates, and trails (see § 27.31(h) of this chapter).

* * * * *

12. We prohibit cutting of holes, lanes, or other manipulation of vegetation (e.g., cutting bushes and trees, mowing, herbicide use, and other actions) (see § 27.51 of this chapter).

* * * * *

Lower Hatchie National Wildlife Refuge

A. Migratory Game Bird Hunting. * * *

2. We allow only legally licensed vehicles on maintained refuge roads and parking areas. We prohibit all-terrain vehicles (ATVs), utility‐type vehicles (UTVs), and off-road motorized vehicles. We prohibit airboats, jet skis, hovercrafts, etc. We prohibit parking as to block travel through refuge access roads, gates, and trails (see § 27.31(h) of this chapter).

* * * * *

11. We prohibit cutting of holes, lanes, or other manipulation of vegetation (e.g., cutting bushes and trees, mowing, herbicide use, and other actions) (see § 27.51 of this chapter).

* * * * *

Reelfoot National Wildlife Refuge

* * * * *

B. Upland Game Hunting. * * *

2. We allow only legally licensed vehicles on maintained refuge roads and parking areas. We prohibit all-terrain vehicles (ATVs), utility‐type vehicles (UTVs), and off-road motorized vehicles. We prohibit airboats, jet skis, hovercrafts, etc. We prohibit parking as to block travel through refuge access roads, gates, and trails (see § 27.31(h) of this chapter).

* * * * *

12. We prohibit cutting of holes, lanes, or other manipulation of vegetation (e.g., cutting bushes and trees, mowing, herbicide use, and other actions) (see § 27.51 of this chapter).

* * * * *

Tennessee National Wildlife Refuge

A. Migratory Game Bird Hunting. * * *

12. We prohibit the use of lead shot.

* * * * *

D. Sport Fishing. * * *

1. We allow fishing in Swamp Creek, Sulphur Well Bay, and Bennetts Creek from March 16 through November 14. The remainder of the refuge portion of Kentucky Lake will remain open year-round. We allow bank fishing year-round along Refuge Lake from the New Johnsonville Pump Station.

* * * * *

4. We allow fishing on interior refuge impoundments from ½ hour before legal sunrise to ½ hour after legal sunset from March 16 to November 14.

* * * * *

32. Amend § 32.63 by:

a. Under Big Boggy National Wildlife Refuge:

i. Revising paragraph A.2.

ii. Adding paragraphs A.6, A.7, A.8, A.9, A.10, A.11, A.12, A.13, and A.14.

b. Under Brazoria National Wildlife Refuge:

i. Revising paragraph A.

ii. Revising paragraph D.5.

iii. Adding paragraph D.8.

c. Under Lower Rio Grande Valley National Wildlife Refuge:

i. Revising paragraph A.

ii. Revising paragraph C.1.

iii. Adding paragraph C.13.

d. Under San Bernard National Wildlife Refuge:

i. Revising paragraphs A.2 and A.4.

ii. Adding paragraphs A.7, A.8, A.9, A.10, A.11, A.12, A.13, A.14, and A.15.

iii. Adding paragraph D.4.

The revisions and additions read as follows:

§ 32.63 Texas.

* * * * *

Big Boggy National Wildlife Refuge

A. Migratory Game Bird Hunting. * * *

2. Hunters may enter the refuge hunt units no earlier than 4 a.m. Hunting starts at the designated legal shooting time and ends at 12 p.m. (noon). Hunters must leave refuge hunt units by 1:00 p.m.

* * * * *

6. We prohibit the building or use of pits and permanent blinds (see §§ 27.92 and 27.93 of this chapter).

7. We only allow the use of motorized boats, including airboats, in open tidal waters. We prohibit the operation of motorized boats on or through emergent and submergent wetland vegetation, or in shallow water where bottom gouging could occur. Motorized boats may enter shallow water by drifting, polling, or by means of trolling motor where it does not cause damage to the bottom.

8. You must remove all decoys, boats, spent shells, marsh chairs, vegetation (blind material), and other equipment (see § 27.93 of this chapter) from the refuge daily. We prohibit the use of plastic flagging, reflectors, or reflective tape.

9. We prohibit the use or possession of alcoholic beverages in all public hunting areas and parking lots.

10. We prohibit camping and/or campfires in all public hunting areas and parking lots.

11. We prohibit blocking of gates and roadways (see § 27.31(h) of this chapter). We prohibit vehicles operating off-road for any reason. Hunters must park vehicles in designated parking areas, and in such a manner as to not obstruct normal vehicle traffic.

12. The minimum allowed distance between hunt parties is 100 yards (91.44 meters).

13. We prohibit entry (scouting) in the public waterfowl hunting areas prior to the opening of the State-specified waterfowl hunting seasons.

14. We restrict vehicle access to service roads not closed by gates or signs. We prohibit the use of motorized vehicles (see § 27.31 of this chapter). You may access hunt units from land only by foot or nonmotorized bicycle. You may access public waterfowl hunting areas by motorized boat from State waters, where applicable.

* * * * *

Brazoria National Wildlife Refuge

A. Migratory Game Bird Hunting. We allow hunting of goose, duck, and coot on designated areas of the refuge in accordance with State regulations and subject to the following conditions:

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

2. Hunters may enter the refuge hunt units no earlier than 4 a.m. Hunting starts at the designated legal shooting time and ends at 12 p.m. (noon). Hunters must leave refuge hunt units by 1:00 p.m.

3. We allow hunting in the Alligator Marsh public waterfowl hunting area (see map) daily during the September Teal season and on Saturdays, Sundays, and Wednesdays of the regular waterfowl season.

4. We prohibit the building of pits and permanent blinds.

5. We only allow the use of motorized boats, including airboats, in open tidal waters. We prohibit the operation of motorized boats on or through emergent and submergent wetland vegetation, or in shallow water where bottom gouging could occur. Motorized boats may enter shallow water by drifting, polling, or by means of trolling motor where it does not cause damage to the bottom.

6. We prohibit target practice on the refuge.

7. Persons possessing, transporting, or carrying firearms on national wildlife refuges must comply with all provisions of State and local law. Persons may only use (discharge) firearms in accordance with refuge regulations (see § 27.42 of this chapter and specific refuge regulations in part 32).

8. You must remove all decoys, boats, spent shells, marsh chairs, vegetation (blind material), and other equipment (see § 27.93 of this chapter) from the refuge daily. We prohibit the use of plastic flagging, reflectors, or reflective tape.

9. We prohibit the use or possession of alcoholic beverages in all public hunting areas and parking lots.

10. We prohibit camping and/or campfires in all public hunting areas and parking lots.

11. We prohibit blocking of gates and roadways (see § 27.31(h) of this chapter). We prohibit vehicles operating off-road for any reason. Hunters must park vehicles in designated parking areas, and in such a manner as to not obstruct normal vehicle traffic.

12. The minimum allowed distance between hunt parties is 100 yards (91.44 meters (m)).

13. We allow the retrieval of downed waterfowl inside a 100-yard (91.44-m) retrieval zone west of Middle bayou. We also allow the retrieval of downed waterfowl inside a 100-yard (91.44-m) retrieval zone around the portions of Alligator Lake that are open to hunting.

14. We prohibit entry (scouting) in the public waterfowl hunting areas prior to the opening of the State-specified waterfowl hunting seasons.

15. We restrict vehicle access to service roads not closed by gates or signs. We prohibit the use of motorized vehicles (see § 27.31 of this chapter). You may access hunt units from land only by foot or nonmotorized bicycle. You may access public waterfowl hunting areas by motorized boat from State waters, where applicable.

16. We prohibit hunting in Salt Lake, Nicks Lake, and East Lost Lake, which are refuge waters designated as public fishing areas.

* * * * *

D. Sport Fishing. * * *

5. We only allow nonmotorized boat launching at the Salt Lake and Clay Banks public fishing areas. The refuge provides no other boat launching facilities. Anglers must park motor vehicles used for launching nonmotorized boats at the Salt Lake and Clay Banks public fishing areas in the designated parking area.

* * * * *

8. Condition A5 applies.

* * * * *

Lower Rio Grande Valley National Wildlife Refuge

A. Migratory Game Bird Hunting. We allow hunting of mourning, white-winged, and white-tipped dove on designated areas of the refuge in accordance with State regulations and subject to the following conditions:

1. The hunting season will be concurrent with the State season. We publish this information in the refuge hunting sheet.

2. The bag and possession limits will be consistent with State regulations.

3. You must possess and use only approved nontoxic shot for hunting while in the field (see § 32.2(k)).

4. Hunters must contact the refuge office for designated tracts of the refuge and details.

5. We may close refuge tracts to hunting for the protection of resources, as determined by the refuge manager.

6. We require hunters to pay a fee to obtain a refuge hunt permit (name only required) and to possess and carry such permit at all times during your designated hunt period. Hunters must also display the refuge-issued vehicle placard (part of the hunt permit) while participating in the designated hunt period. Hunters, including youth hunters, must also have a valid hunting license, proof of hunter's education certification, and picture identification in order to obtain a refuge hunt permit and must the items listed in this condition A6 while on the refuge hunt.

7. You should park in designated refuge parking areas if they are available. You may park along County roads; however, you must not block the path of traffic, access to the refuge, or private property. We will tow inappropriately parked vehicles at the owner's expense.

8. We define youth hunters as ages 9 to 16. A Texas-licensed, adult hunter, age 17 or older who has successfully completed a Hunter Education Training course, must accompany youth hunters. We exempt those persons born prior to September 2, 1971, from the Hunter Education Training Course requirement. We define accompanied as being within normal voice contact. Each adult hunter may supervise only one youth hunter.

9. You may access the refuge during your permitted hunt period from 1 hour before legal hunt time to 1 hour after legal hunt time; however, you may not hunt outside of the legal hunt hours.

10. Your licenses, permits, hunting equipment, effects, and vehicles or other conveyances are subject to inspection by Federal, State, and local law enforcement officers.

11. We restrict hunt participants to those listed on the refuge hunt permit (hunter, nonhunting chaperone, and nonhunting assistant). We require all participants to wear hunter orange according to Texas State regulations: 400 square inches (2,580.6 square centimeters) that is visible on the chest, back, and head.

12. We allow only the hunter to hunt and carry or discharge the applicable hunting shotgun, muzzleloader, rifle, or bow.

13. We allow hunters to use bicycles on designated routes of travel.

14. You may use properly trained retriever dogs to retrieve doves during the hunt, but the dog must be under the control of the handler at all times (dogs must not be allowed to roam free).

15. We prohibit hunters discharging firearms for any purpose other than to take or attempt to take a game bird listed in the introductory text of this paragraph A.

16. We prohibit use of flagging or any other type of marker.

17. We prohibit hunters cutting or trimming any vegetation or brush.

18. We prohibit overnight camping.

19. We prohibit the use of motorized vehicles.

20. We prohibit the use or possession of alcohol while hunting on the refuge.

21. We prohibit the use or possession of bait during scouting or hunting. We consider bait to be anything that may be eaten or ingested by wildlife.

22. We reserve the right to revoke or deny any permit for up to 5 years for the following conditions: Lack of public safety to a degree that may endanger oneself or other persons or property; multiple regulation violations; or aggressive, abusive, or intimidating demeanor to any employee of the United States or of any local or State government engaged in official business, or with any private person engaged in the pursuit of an allowed activity on the refuge.

* * * * *

C. Big Game Hunting. * * *

1. Conditions A4 through A13 and A16 through A22 apply.

* * * * *

13. We annually establish specific bag limits for white-tailed deer based on survey data provided by the refuge or State. We establish no bag limits for feral hog or nilgai antelope. We publish this information in the refuge hunting sheet.

* * * * *

San Bernard National Wildlife Refuge

A. Migratory Game Bird Hunting. * * *

2. Hunters may enter the refuge hunt units no earlier than 4 a.m. Hunting starts at the designated legal shooting time and ends at 12 p.m. (noon). Hunters must leave refuge hunt units by 1:00 p.m.

* * * * *

4. Hunters may possess no more than 25 shot shells (in the aggregate) in the Sargent Permit Waterfowl Hunt Area.

* * * * *

7. We prohibit the building or use of pits and permanent blinds (see §§ 27.92 and 27.93 of this chapter).

8. We only allow the use of motorized boats, including airboats, in open tidal waters. We prohibit the operation of motorized boats on or through emergent and submergent wetland vegetation, or in shallow water where bottom gouging could occur. Motorized boats may enter shallow water by drifting, polling, or by means of trolling motor where it does not cause damage to the bottom.

9. You must remove all decoys, boats, spent shells, marsh chairs, vegetation (blind material), and other equipment (see § 27.93 of this chapter) from the refuge daily. We prohibit the use of plastic flagging, reflectors, or reflective tape.

10. We prohibit the use or possession of alcoholic beverages in all public hunting areas and parking lots.

11. We prohibit camping and/or campfires in all public hunting areas and parking lots.

12. We prohibit blocking of gates and roadways (see § 27.31(h) of this chapter). We prohibit vehicles operating off-road for any reason. Hunters must park vehicles in designated parking areas, and in such a manner as to not obstruct normal vehicle traffic.

13. The minimum allowed distance between hunt parties is 100 yards (91.44 meters).

14. We prohibit entry (scouting) in the public waterfowl hunting areas prior to the opening of the State-specified waterfowl hunting seasons.

15. We restrict vehicle access to service roads not closed by gates or signs. We prohibit the use of motorized vehicles (see § 27.31 of this chapter). You may access hunt units from only by foot or nonmotorized bicycle. You may access public waterfowl hunting areas by motorized boat from State waters, where applicable.

* * * * *

D. Sport Fishing. * * *

4. Condition A8 applies.

* * * * *

33. Amend § 32.65 by revising the entry for Missisquoi National Wildlife Refuge by:

a. Adding paragraph A.3.

b. Adding paragraph B.9.

c. Revising the introductory text of paragraph C and paragraph C.1.

d. Adding paragraph C.9.

The revisions and additions read as follows:

§ 32.65 Vermont.

* * * * *

Missisquoi National Wildlife Refuge

A. Migratory Game Bird Hunting. * * *

3. On the Eagle Point Unit, we allow hunting of goose, duck, brant, merganser, coot, woodcock, and snipe in accordance with State regulations and these refuge-specific regulations:

i. You may possess only approved nontoxic shot shells (see § 32.2(k)) in quantities of 25 or fewer per day.

ii. We prohibit permanent blinds.

iii. You must use at least six decoys.

iv. Unarmed hunters may scout open hunting areas before a particular season opens but in no case before September 1. We do not require a hunting permit for scouting.

B. Upland Game Hunting. * * *

9. On the Eagle Point Unit, we allow hunting of cottontail rabbits, snowshoe hare, ruffed grouse, and gray squirrels in accordance with State regulations.

C. Big Game Hunting. We allow hunting of big game in accordance with State regulations and subject to the following conditions:

1. We allow hunting of white-tailed deer. We prohibit hunting of bear, moose, and turkey except under condition C9.

* * * * *

9. On the Eagle Point Unit, we allow hunting of white-tailed deer, bear, moose, and turkey in accordance with State regulations and subject to the following conditions:

i. You may use portable tree stands in accordance with State regulations guiding their use on State Wildlife Management Areas. We prohibit permanent stands and blinds.

ii. We allow training of hunting dogs during the regular hunting seasons as regulated by the State. Dog training outside the regular hunting seasons (June 1 to July 31) will be permitted by Special Use Permit (Permit Application Form: National Wildlife Refuge System General Special Use, FWS Form 1383-G) only.

iii. We require Special Use Permits to train hunting dogs from June 1 to July 31. Permits must be requested in writing from the refuge manager, Missisquoi National Wildlife Refuge.

* * * * *

34. Amend § 32.66 by:

a. Revising paragraph C.5 under James River National Wildlife Refuge.

b. Revising paragraph C.6 under Presquile National Wildlife Refuge.

c. Revising paragraph C.5 under Rappahannock River National Wildlife Refuge.

The revisions read as follows:

§ 32.66 Virginia.

* * * * *

James River National Wildlife Refuge

* * * * *

C. Big Game Hunting. * * *

5. We allow the take of two deer per day.

* * * * *

Presquile National Wildlife Refuge

* * * * *

C. Big Game Hunting. * * *

6. We allow the take of two deer per day.

* * * * *

Rappahannock River National Wildlife Refuge

* * * * *

C. Big Game Hunting. * * *

5. We allow the take of two deer per day.

* * * * *

35. Amend § 32.67 by:

a. Under McNary National Wildlife Refuge:

i. Revising paragraph A.3.

ii. Removing paragraph B.3.

iii. Revising the introductory text of paragraph C and paragraph C.2.

iv. Adding paragraph C.3.

b. Under Umatilla National Wildlife Refuge:

i. Revising paragraphs A.3 and A.5.

ii. Removing paragraphs A.6 and A.8.

iii. Redesignating paragraph A.7 as A.6.

iv. Redesignating paragraph A.9 as A.7.

v. Revising paragraphs B.1, B.2, and C.1.

vi. Revising paragraph D.

The revisions and addition read as follows:

§ 32.67 Washington.

* * * * *

McNary National Wildlife Refuge

A. Migratory Game Bird Hunting. * * *

3. We prohibit discharge of any firearm within 1/4 mile (396 m) of any maintained building or Federal facility, such as, but not limited to, a structure designed for storage, human occupancy, or shelter for animals. You may not shoot or discharge any firearm from, across, or along a public highway, designated route of travel, road, road shoulder, road embankment, or designated parking area.

* * * * *

C. Big Game Hunting. We allow hunting of deer only on the Stateline, Juniper Canyon, Peninsula, Two-Rivers, and Wallula Units in accordance with State regulations and subject to the following conditions:

* * * * *

2. On the Stateline and Juniper Canyon Units, we allow hunting with modern firearms, shotgun, muzzleloader, and archery.

3. On the Peninsula, Two-Rivers, and Wallula Units, we allow hunting with archery and shotgun only.

* * * * *

Umatilla National Wildlife Refuge

A. Migratory Game Bird Hunting. * * *

3. We prohibit discharge of any firearm within 1/4 mile (396 m) of any maintained building or Federal facility, such as, but not limited to, a structure designed for storage, human occupancy, or shelter for animals. You may not shoot or discharge any firearm from, across, or along a public highway, designated route of travel, road, road shoulder, road embankment, or designated parking area.

* * * * *

5. On the Paterson and Whitcomb Units, we allow hunting only on Wednesdays, Saturdays, Sundays, and all federally recognized holidays within the State season.

* * * * *

B. Upland Game Hunting. * * *

1. Conditions A1, A2, A3, A5, and A7 apply.

2. On the Whitcomb Island Unit, we only allow hunting of upland game from 12 p.m. (noon) to legal sunset of each hunt day.

C. Big Game Hunting. * * *

1. Conditions A1, A2, A3, and A7 apply.

* * * * *

D. Sport Fishing. We allow fishing on designated areas of the refuge in accordance with State regulations and subject to the following conditions: Conditions A1 and A7 apply.

* * * * *

36. Amend § 32.69 by:

a. Revising paragraph C under Fox River National Wildlife Refuge.

b. Revising paragraphs C.3 and D.1 under Horicon National Wildlife Refuge.

c. Under Leopold Wetland Management District:

i. Adding paragraph A.3.

ii. Revising paragraphs B and C.

d. Revising paragraphs A and B.1 under Necedah National Wildlife Refuge.

e. Under St. Croix Wetland Management District:

i. Adding paragraph A.3.

ii. Revising paragraph B.

f. Revising paragraph A under Trempealeau National Wildlife Refuge.

g. Adding paragraph A.3 under Whittlesey National Wildlife Refuge.

The additions and revisions read as follows:

§ 32.69 Wisconsin.

* * * * *

Fox River National Wildlife Refuge

* * * * *

C. Big Game Hunting. We allow hunting of white-tailed deer on designated areas of the refuge in accordance with State regulations and seasons, and subject to the following conditions:

1. We prohibit the construction or use of permanent blinds, platforms, or ladders.

2. We allow hunting during the State archery, crossbow, muzzleloader, and firearms seasons.

3. You must remove all stands from the refuge following each day's hunt. We prohibit hunting from any stand left up overnight.

4. Refuge access is from 1 hour before to 1 hour after legal shooting hours.

5. Any ground blind used during any gun deer season must display at least 144 square inches (929 square centimeters) of solid, blaze-orange material visible from all directions.

* * * * *

Horicon National Wildlife Refuge

* * * * *

C. Big Game Hunting. * * *

3. You must remove all stands from the refuge following each day's hunt. We prohibit hunting from any stand left up overnight.

* * * * *

D. Sport Fishing. * * *

1. We allow only bank fishing or fishing through the ice.

* * * * *

Leopold Wetland Management District

A. Migratory Game Bird Hunting. * * *

3. For hunting, you may use or possess only approved nontoxic shot shells while in the field, including shot shells used for hunting wild turkey (see § 32.2(k)).

B. Upland Game Hunting. We allow hunting of upland game throughout the district (except that we prohibit hunting on the Blue-wing Waterfowl Production Area (WPA) in Ozaukee County or the Wilcox WPA in Waushara County) in accordance with State regulations and subject to the following conditions: Conditions A1 and A3 apply.

C. Big Game Hunting. We allow hunting of big game throughout the district (except that we prohibit hunting on the Blue-wing Waterfowl Production Area (WPA) in Ozaukee County or the Wilcox WPA in Waushara County) in accordance with State regulations and subject to the following conditions:

1. We prohibit hunting from any stand left up overnight.

2. Any ground blind used during any gun deer season must display at least 144 square inches (929 square centimeters) of solid, blaze-orange material visible from all directions.

* * * * *

Necedah National Wildlife Refuge

A. Migratory Game Bird Hunting. We allow hunting of migratory game birds only on designated areas of the refuge in accordance with State regulations and subject to the following condition: For hunting, you may use or possess only approved nontoxic shot shells while in the field, including shot shells used for hunting wild turkey (see § 32.2(k)).

B. Upland Game Hunting. * * *

1. Condition A applies.

* * * * *

St. Croix Wetland Management District

A. Migratory Game Bird Hunting. * * *

3. For hunting, you may use or possess only approved nontoxic shot shells while in the field, including shot shells used for hunting wild turkey (see § 32.2(k)).

B. Upland Game Hunting. We allow hunting of upland game throughout the district in accordance with State regulations and subject to the following conditions: Conditions A1 through A3 apply.

* * * * *

Trempealeau National Wildlife Refuge

A. Migratory Game Bird Hunting. We allow hunting of migratory game birds on designated areas of the refuge in accordance with State regulations and subject to the following conditions:

1. We require a refuge permit.

2. For hunting, you may use or possess only approved nontoxic shot shells (see § 32.2(k)).

* * * * *

Whittlesey Creek National Wildlife Refuge

A. Migratory Game Bird Hunting. * * *

3. For hunting, you may use or possess only approved nontoxic shot shells (see § 32.2(k)).

* * * * *

Dated: August 11, 2015.
Michael Bean,
Principal Deputy Assistant Secretary for Fish and Wildlife and Parks.

[FR Doc. 2015-20472 Filed 8-25-15; 8:45 am]

BILLING CODE 4310-55-P